DEPARTMENT OF HOUSING AND URBAN DEVELOPMENT

[Docket No. FR-4730-N-35]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street SW, Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Ms. Barbara Jenkins, Air Force Real Estate Agency, (Area-MI), Bolling Air Force Base, 112 Luke Avenue, Suite 104, Building 5683, Washington, DC 20332-8020; (202) 767-4184; COE: Ms. Shirley Middleswarth, Army Corps of Engineers, Management & Disposal Division, 441 G Street, Washington, DC 20314-1000; (202) 761-7425; DOT: Mr. Rugene Spruill, Principal, Space Management, SVC-140, Transportation Administrative Service Center, Department of Transportation, 400 7th Street, SW, Room 2310, Washington, DC 20590; (202) 366-4246; ENERGY: Mr. Tom Knox, Department of Energy, Office of Engineering & Construction Management, CR-80, Washington, DC 20585; (202) 586-8715; GSA: Mr. Brian K. Polly, Assistant Commissioner, General Services Administration, Office of Property Disposal, 18th and F Streets, NW, Washington, DC 20405; (202) 501-0052; INTERIOR: Ms. Linda Tribby, Acquisition & Property Management, Department of the Interior, 1849 C Street, NW, MS5512, Washington, DC 20240; (202) 219-0728; NAVY: Mr. Charles C. Cocks, Director, Department of the Navy, Real Estate Policy Division, Naval Facilities Engineering Command, Washington Navy Yard, 1322 Patterson Ave., SE, Suite 1000, Washington, DC 20374-5065; (202) 685-9200; VA: Ms. Amelia E. McLellan, Director, Real Property Service (183C), Department of Veterans Affairs, 810 Vermont Avenue, NW., Room 419, Washington, DC 20420; (202) 565-5941; (These are not toll-free numbers).

Dated: August 22, 2002.
John D. Garrity,
Director, Office of Special Needs Assistance Programs.

TITLE V, FEDERAL SURPLUS PROPERTY PROGRAM FEDERAL REGISTER REPORT FOR 8/30/02

Suitable/Available Properties

Buildings (by State)

Alaska

Bldg. 6165

Elmendorf AFB

Elmendorf AFB Co: AK 99506-

Landholding Agency: Air Force

Property Number: 18200230007

Status: Unutilized

Comment: 15970 sq. ft., possible asbestos/lead paint, most recent use—barracks, off-site use only

Bldg. 6173

Elmendorf AFB

Elmendorf Co: AK 99506-

Landholding Agency: Air Force

Property Number: 18200230008

Status: Unutilized

Comment: 16290 sq. ft., possible asbestos/lead paint, most recent use—barracks, off-site use only

Bldg. 7525

Elmendorf AFB

Elmendorf AFB Co: AK 99506-

Landholding Agency: Air Force

Property Number: 18200230009

Status: Unutilized

Comment: 26,226 sq. ft., need rehab, possible asbestos/lead paint, most recent use—dormitory, off-site use only

Bldg. A110

ISC Kodiak

Kodiak Co: AK 99615-

Landholding Agency: DOT

Property Number: 87200210016

Status: Excess

Comment: 1316 sq. ft., presence of asbestos/lead paint, most recent use—retail/commercial

Arkansas

Post Antenna Tower Site

1.5 west of USHwy 165

Gillette Co: AR 72055-

Landholding Agency: GSA

Property Number: 54200230008

Status: Surplus

Comment: radio repeater tower, presence of asbestos/lead paint, on 2.06 acres

GSA Number: 7-D-AR-563

Joy Antenna Tower Site

Range 9 West

Searcy Co: White AR 72143-

Landholding Agency: GSA

Property Number: 54200230011

Status: Surplus

Comment: radio repeater tower, presence of asbestos/lead paint, subject to existing easements, on 1.75 acres

GSA Number: 7-D-AR-564

Connecticut

Bldg. 516

Naval Submarine Base

Groton Co: New London CT 06349-

Landholding Agency: Navy

Property Number: 77200230037

Status: Excess

Comment: 1450 sq. ft., needs rehab, possible asbestos, off-site use only

Idaho

Bldg. CF603

Idaho Natl Eng & Env Lab

Scoville Co: Butte ID 83415-

Landholding Agency: Energy

Property Number: 41200020004

Status: Excess

Comment: 15,005 sq ft. cinder block, presence of asbestos/lead paint, major rehab, off-site use only

CPP657, CPP669, CPP686

Idaho Natl Eng & Env Lab

Scoville Co: Butte ID 83415-

Landholding Agency: Energy

Property Number: 41200110001

Status: Excess

Comment: 8000 sq. ft., bldgs. connected, possible asbestos/lead paint, most recent use—offices, off-site use only

TAN 615

Idaho Natl Eng. & Env. Lab

Scoville Co: Butte ID 83415-

Landholding Agency: Energy

Property Number: 41200210008

Status: Excess

Comment: 4214 sq. ft. maintenance bldg., presence of asbestos, proper liability insurance required, off-site use only

Bldg. CF617

Idaho Natl. Eng. & Env. Lab

Scoville Co: Butte ID 83415-

Landholding Agency: Energy

Property Number: 41200220022

Status: Excess

Comment: 11484 sq. ft. concrete, needs major rehab, presence of lead paint, off-site use only

Indiana

Bldg. 105, VAMC

East 38th Street

Marion Co: Grant IN 46952-

Landholding Agency: VA

Property Number: 97199230006

Status: Excess

Comment: 310 sq. ft., 1 story stone structure, no sanitary or heating facilities, Natl Register of Historic Places

Bldg. 140, VAMC

East 38th Street

Marion Co: Grant IN 46952-

Landholding Agency: VA

Property Number: 97199230007

Status: Excess

Comment: 60 sq. ft., concrete block bldg., most recent use—trash house

Bldg. 7

VA Northern Indiana Health Care System

Marion Campus, 1700 East 38th Street

Marion Co: Grant IN 46953-

Landholding Agency: VA

Property Number: 97199810001

Status: Underutilized

Comment: 16,864 sq. ft., presence of asbestos, most recent use—psychiatric ward, National Register of Historic Places

Bldg. 10

VA Northern Indiana Health Care System

Marion Campus, 1700 East 38th Street

Marion Co: Grant IN 46953-

Landholding Agency: VA

Property Number: 97199810002

Status: Underutilized

Comment: 16,361 sq. ft., presence of asbestos, most recent use—psychiatric ward, National Register of Historic Places

Bldg. 11

VA Northern Indiana Health Care System

Marion Campus, 1700 East 38th Street

Marion Co: Grant IN 46953-

Landholding Agency: VA

Property Number: 97199810003

Status: Underutilized

Comment: 16,361 sq. ft., presence of asbestos, most recent use—psychiatric ward, National Register of Historic Places

Bldg. 18

VA Northern Indiana Health Care System

Marion Campus, 1700 East 38th Street

Marion Co: Grant IN 46953-

Landholding Agency: VA

Property Number: 97199810004

Status: Underutilized

Comment: 13,802 sq. ft., presence of asbestos, most recent use—psychiatric ward, National Register of Historic Places

Bldg. 25

VA Northern Indiana Health Care System

Marion Campus, 1700 East 38th Street

Marion Co: Grant IN 46953-

Landholding Agency: VA

Property Number: 97199810005

Status: Unutilized

Comment: 32,892 sq. ft., presence of asbestos, most recent use—psychiatric ward, National Register of Historic Places

Kentucky

Green River Lock & Dam #3

Rochester Co: Butler KY 42273-

Location: SR 70 west from Morgantown, KY., approximately 7 miles to site

Landholding Agency: COE

Property Number: 31199010022

Status: Unutilized

Comment: 980 sq. ft.; 2 story wood frame; two story residence; potential utilities; needs major rehab

Massachusetts

Storage Bldg.

Knightville Dam Road

Huntington Co: Hampshire MA 01050-

Landholding Agency: COE

Property Number: 31200030005

Status: Unutilized

Comment: 480 sq. ft., needs rehab, off-site use only

Mississippi

Quonset Bldg.

Greenville Casting Plant

Greenville Co: Washington MS 38701-Landholding Agency: COE

Property Number: 31200220010

Status: Unutilized

Comment: 26,250 sq. ft., presence of asbestos/lead paint, most recent use—storage/office, off-site use only

Storage Bldg. #1

Greenville Casting Plant

Greenville Co: Washington MS 38701-

Landholding Agency: COE

Property Number: 31200220011

Status: Unutilized

Comment: 32,502 sq. ft., presence of asbestos/lead paint, most recent use—storage, off-site use only

Storage Bldg. #2

Greenville Casting Plant

Greenville Co: Washington MS 38701-

Landholding Agency: COE

Property Number: 31200220012

Status: Unutilized

Comment: 16,170 sq. ft., presence of asbestos/lead paint, most recent use—storage, off-site use only

Yellow Office Bldg.

Greenville Casting Plant

Greenville Co: Washington MS 38701-

Landholding Agency: COE

Property Number: 31200220013

Status: Unutilized

Comment: 1820 sq. ft., presence of asbestos/lead paint, most recent use—office, off-site use only

Storage Bldg.

Greenville Casting Plant

Greenville Co: Washington MS 38701-

Landholding Agency: COE

Property Number: 31200220014

Status: Unutilized

Comment: 1820 sq. ft., presence of asbestos/lead paint, most recent use—office, off-site use only

Container Bldg.

Greenville Casting Plant

Greenville Co: Washington MS 38701-

Landholding Agency: COE

Property Number: 31200220015

Status: Unutilized

Comment: 270 sq. ft. presence of lead paint, most recent use—storage, off-site use only

Missouri

Bldgs. 90A/B, 91A/B, 92A/B

Jefferson Barracks Housing

St. Louis Co: MO 63125-

Landholding Agency: Air Force

Property Number: 18200220002

Status: Excess

Comment: 6450 sq. ft., needs repair, includes 2 acres

Montana

Bldg. 1

Butte Natl Guard

Butte Co: Silverbow MT 59701-

Landholding Agency: COE

Property Number: 31200040010

Status: Unutilized

Comment: 22799 sq. ft., presence of asbestos, most recent use—cold storage, off-site use only

Bldg. 2

Butte Natl Guard

Butte Co: Silverbow MT 59701-

Landholding Agency: COE

Property Number: 31200040011

Status: Unutilized

Comment: 3292 sq. ft., most recent use—cold storage, off-site use only

Bldg. 3

Butte Natl Guard

Butte Co: Silverbow MT 59701-

Landholding Agency: COE

Property Number: 31200040012

Status: Unutilized

Comment: 964 sq. ft., most recent use—cold storage, off-site use only

Bldg. 4

Butte Natl Guard

Butte Co: Silverbow MT 59701-

Landholding Agency: COE

Property Number: 31200040013

Status: Unutilized

Comment: 72 sq. ft., most recent use—cold storage, off-site use only

Bldg. 5

Butte Natl Guard

Butte Co: Silverbow MT 59701-

Landholding Agency: COE

Property Number: 31200040014

Status: Unutilized

Comment: 1286 sq. ft., most recent use—cold storage, off-site use only

New York

Lockport Comm. Facility

Shawnee Road

Lockport Co: Niagara NY

Landholding Agency: Air Force

Property Number: 18200040004

Status: Excess

Comment: 2 concrete block bldgs., (415 & 2929 sq. ft.) on 7.68 acres

Social Sec. Admin. Bldg.

517 N. Barry St.

Olean Co: NY 10278-0004

Landholding Agency: GSA

Property Number: 54200230009

Status: Excess

Comment: 9174 sq. ft., poor condition, most recent use—office

GSA Number: 1-G-NY-0895

North Dakota

Office Bldg.

Lake Oahe Project

3rd & Main

Ft. Yates Co: Sioux ND 58538-

Landholding Agency: COE

Property Number: 31200020001

Status: Unutilized

Comment: 1200 sq. ft., 2-story wood, off-site use only

Ohio

Barker Historic House

Willow Island Locks and Dam

Newport Co: Washington OH 45768-9801

Location: Located at lock site, downstream of lock and dam structure

Landholding Agency: COE

Property Number: 31199120018

Status: Unutilized

Comment: 1600 sq. ft. bldg. with ½ acre of land, 2 story brick frame, needs rehab, on Natl Register of Historic Places, no utilities, off-site use only

Residence

506 Reservoir Rd.

Paint Creek Lake

Bainbridge Co: Highland OH 45612-

Landholding Agency: COE

Property Number: 31200210008

Status: Unutilized

Comment: 1200 sq. ft., needs repair, off-site use only

Residence

4969 Dillon Dam Road

Dillon Lake

Zanesville Co: OH 43701-

Landholding Agency: COE

Property Number: 31200210009

Status: Unutilized

Comment: 1800 sq. ft., off-site use only

Pennsylvania

Mahoning Creek Reservoir

New Bethlehem Co: Armstrong PA 16242-

Landholding Agency: COE

Property Number: 31199210008

Status: Unutilized

Comment: 1015 sq. ft., 2 story brick residence, off-site use only

Dwelling

Lock & Dam 6, Allegheny River, 1260 River Rd.

Freeport Co: Armstrong PA 16229-2023

Landholding Agency: COE

Property Number: 31199620008

Status: Unutilized

Comment: 2652 sq. ft., 3-story brick house, in close proximity to Lock and Dam, available for interim use for nonresidential purposes

Govt. Dwelling

Youghiogheny River Lake

Confluence Co: Fayette PA 15424-9103

Landholding Agency: COE

Property Number: 31199640002

Status: Unutilized

Comment: 1421 sq. ft., 2-story brick w/basement, most recent use—residential

Dwelling

Lock & Dam 4, Allegheny River

Natrona Co: Allegheny PA 15065-2609

Landholding Agency: COE

Property Number: 31199710009

Status: Unutilized

Comment: 1664 sq. ft., 2-story brick residence, needs repair, off-site use only

Dwelling #1

Crooked Creek Lake

Ford City Co: Armstrong PA 16226-8815

Landholding Agency: COE

Property Number: 31199740002

Status: Excess

Comment: 2030 sq. ft., most recent use—residential, good condition, off-site use only

Dwelling #2

Crooked Creek Lake

Ford City Co: Armstrong PA 16226-8815

Landholding Agency: COE

Property Number: 31199740003

Status: Excess

Comment: 3045 sq. ft., most recent use—residential, good condition, off-site use only

Govt Dwelling

East Branch Lake

Wilcox Co: Elk PA 15870-9709

Landholding Agency: COE

Property Number: 31199740005

Status: Underutilized

Comment: approx. 5299 sq. ft., 1-story, most recent use—residence, off-site use only

Dwelling #1

Loyalhanna Lake

Saltsburg Co: Westmoreland PA 15681-9302

Landholding Agency: COE

Property Number: 31199740006

Status: Excess

Comment: 1996 sq. ft., most recent use—residential, good condition, off-site use only

Dwelling #2

Loyalhanna Lake

Saltsburg Co: Westmoreland PA 15681-9302

Landholding Agency: COE

Property Number: 31199740007

Status: Excess

Comment: 1996 sq. ft., most recent use—residential, good condition, off-site use only

Dwelling #1

Woodcock Creek Lake

Saegertown Co: Crawford PA 16433-0629

Landholding Agency: COE

Property Number: 31199740008

Status: Excess

Comment: 2106 sq. ft., most recent use—residential, good condition, off-site use only

Dwelling #2

Lock & Dam 6, 1260 River Road

Freeport Co: Armstrong PA 16229-2023

Landholding Agency: COE

Property Number: 31199740009

Status: Excess

Comment: 2652 sq. ft., most recent use—residential, good condition, off-site use only

Dwelling #2

Youghiogheny River Lake

Confluence Co: Fayette PA 15424-9103

Landholding Agency: COE

Property Number: 31199830003

Status: Excess

Comment: 1421 sq. ft., 2-story + basement, most recent use—residential

Residence/Office

Cowanesque Lake Project

Lawrenceville Co: Tioga PA 16929-

Landholding Agency: COE

Property Number: 31199940002

Status: Unutilized

Comment: 1653 sq. ft. residence, and 2,640 sq. ft. storage bldg., need major repairs, no operating sanitary facilities

Bldg. 3, VAMC

1700 South Lincoln Avenue

Lebanon Co: Lebanon PA 17042-

Landholding Agency: VA

Property Number: 97199230012

Status: Underutilized

Comment: portion of bldg. (4046 sq. ft.), most recent use—storage, second floor—lacks elevator access

South Dakota

West Communications Annex

Ellsworth Air Force Base

Ellsworth AFB Co: Meade SD 57706-

Landholding Agency: Air Force

Property Number: 18199340051

Status: Unutilized

Comment: 2 bldgs. on 2.37 acres, remote area, lacks infrastructure, road hazardous during winter storms, most recent use—industrial storage

Tennessee

Batten Tract 01-198

Stones River Natl Battlefield

Murfreesboro Co: Rutherford TN 37129-

Landholding Agency: Interior

Property Number: 61200220012

Status: Excess

Comment: 1152 sq. ft., presence of asbestos/lead paint, most recent use—residential, off-site use only

Bell Tract 01-189

Stones River Natl Battlefield

Old Nashville Hwy

Murfreesboro Co: Rutherford TN 37129-

Landholding Agency: Interior

Property Number: 61200220013

Status: Excess

Comment: 1755 sq. ft., most recent use—residential, off-site use only

Simons Tract 01-197

Stones River Natl Battlefield

Nickens Lane

Murfreesboro Co: Rutherford TN 37129-

Landholding Agency: Interior

Property Number: 61200220014

Status: Excess

Comment: 1375 sq. ft., needs extensive repairs, presence of asbestos/lead paint, most recent use—residential, off-site use only

Virginia

Metal Bldg.

John H. Kerr Dam & Reservoir

Co: Boydton VA

Landholding Agency: COE

Property Number: 31199620009

Status: Excess

Comment: 800 sq. ft., most recent use—storage, off-site use only

Wisconsin

Former Lockmaster's Dwelling

Cedar Locks

4527 East Wisconsin Road

Appleton Co: Outagamie WI 54911-

Landholding Agency: COE

Property Number: 31199011524

Status: Unutilized

Comment: 1224 sq. ft.; 2 story brick/wood frame residence; needs rehab; secured area with alternate access

Former Lockmaster's Dwelling

Appleton 4th Lock

905 South Lowe Street

Appleton Co: Outagamie WI 54911-

Landholding Agency: COE

Property Number: 31199011525

Status: Unutilized

Comment: 908 sq. ft.; 2 story wood frame residence; needs rehab

Former Lockmaster's Dwelling

Kaukauna 1st Lock

301 Canal Street

Kaukauna Co: Outagamie WI 54131-

Landholding Agency: COE

Property Number: 31199011527

Status: Unutilized

Comment: 1290 sq. ft.; 2 story wood frame residence; needs rehab; secured area with alternate access

Former Lockmaster's Dwelling

Appleton 1st Lock

905 South Oneida Street

Appleton Co: Outagamie WI 54911-

Landholding Agency: COE

Property Number: 31199011531

Status: Unutilized

Comment: 1300 sq. ft.; potential utilities; 2 story wood frame residence; needs rehab; secured area with alternate access

Former Lockmaster's Dwelling

Rapid Croche Lock

Lock Road

Wrightstown Co: Outagamie WI 54180-

Location: 3 miles southwest of intersection State Highway 96 and Canal Road

Landholding Agency: COE

Property Number: 31199011533

Status: Unutilized

Comment: 1952 sq. ft.; 2 story wood frame residence; potential utilities; needs rehab

Former Lockmaster's Dwelling

Little KauKauna Lock

Little KauKauna

Lawrence Co: Brown WI 54130-

Location: 2 miles southeasterly from intersection of Lost Dauphin Road (County Trunk Highway “D”) and River Street

Landholding Agency: COE

Property Number: 31199011535

Status: Unutilized

Comment: 1224 sq. ft.; 2 story brick/wood frame residence; needs rehab

Former Lockmaster's Dwelling

Little Chute, 2nd Lock

214 Mill Street

Little Chute Co: Outagamie WI 54140—

Landholding Agency: COE

Property Number: 31199011536

Status: Unutilized

Comment: 1224 sq. ft.; 2 story brick/wood frame residence; potential utilities; needs rehab; secured area with alternate access

Bldg. 8

VA Medical Center

County Highway E

Tomah Co: Monroe WI 54660-

Landholding Agency: VA

Property Number: 97199010056

Status: Underutilized

Comment: 2200 sq. ft., 2 story wood frame, possible asbestos, potential utilities, structural deficiencies, needs rehab

Land (by State)

Alabama

VA Medical Center

VAMC

Tuskegee Co: Macon AL 36083-

Landholding Agency: VA

Property Number: 97199010053

Status: Underutilized

Comment: 40 acres, buffer to VA Medical Center, potential utilities, undeveloped

Arkansas

Parcel 01

DeGray Lake

Section 12

Arkadelphia Co: Clark AR 71923-9361

Landholding Agency: COE

Property Number: 31199010071

Status: Unutilized

Comment: 77.6 acres

Parcel 02

DeGray Lake

Section 13

Arkadelphia Co: Clark AR 71923-9361

Landholding Agency: COE

Property Number: 31199010072

Status: Unutilized

Comment: 198.5 acres

Parcel 03

DeGray Lake

Section 18

Arkadelphia Co: Clark AR 71923-9361

Landholding Agency: COE

Property Number: 31199010073

Status: Unutilized

Comment: 50.46 acres

Parcel 04

DeGray Lake

Section 24, 25, 30 and 31

Arkadelphia Co: Clark AR 71923-9361

Landholding Agency: COE

Property Number: 31199010074

Status: Unutilized

Comment: 236.37 acres

Parcel 05

DeGray Lake

Section 16

Arkadelphia Co: Clark AR 71923-9361

Landholding Agency: COE

Property Number: 31199010075

Status: Unutilized

Comment: 187.30 acres

Parcel 06

DeGray Lake

Section 13

Arkadelphia Co: Clark AR 71923-9361

Landholding Agency: COE

Property Number: 31199010076

Status: Unutilized

Comment: 13.0 acres

Parcel 07

DeGray Lake

Section 34

Arkadelphia Co: Hot Spring AR 71923-9361

Landholding Agency: COE

Property Number: 31199010077

Status: Unutilized

Comment: 0.27 acres

Parcel 08

DeGray Lake

Section 13

Arkadelphia Co: Clark AR 71923-9361

Landholding Agency: COE

Property Number: 31199010078

Status: Unutilized

Comment: 14.6 acres

Parcel 09

DeGray Lake

Section 12

Arkadelphia Co: Hot Spring AR 71923-9361

Landholding Agency: COE

Property Number: 31199010079

Status: Unutilized

Comment: 6.60 acres

Parcel 10

DeGray Lake

Section 12

Arkadelphia Co: Hot Spring AR 71923-9361

Landholding Agency: COE

Property Number: 31199010080

Status: Unutilized

Comment: 4.5 acres

Parcel 11

DeGray Lake

Section 19

Arkadelphia Co: Hot Spring AR 71923-9361

Landholding Agency: COE

Property Number: 31199010081

Status: Unutilized

Comment: 19.50 acres

Lake Greeson

Section 7, 8 and 18

Murfreesboro Co: Pike AR 71958-9720

Landholding Agency: COE

Property Number: 31199010083

Status: Unutilized

Comment: 46 acres

California

Land

4150 Clement Street

San Francisco Co: San Francisco CA 94121-

Landholding Agency: VA

Property Number: 97199240001

Status: Underutilized

Comment: 4 acres; landslide area

Florida

Homestead Communications Annex

Homestead Co: Dare FL 33033-

Landholding Agency: Air Force

Property Number: 18200210015

Status: Excess

Comment: 20 acres w/concrete bldg., consist of wetlands/100 year floodplain, most recent use—high frequency regional broadcasting system

Iowa

40.66 acres

VA Medical Center

1515 West Pleasant St.

Knoxville Co: Marion IA 50138-

Landholding Agency: VA

Property Number: 97199740002

Status: Unutilized

Comment: golf course, easement requirements

Kansas

Parcel 1

El Dorado Lake

Section 13, 24, and 18

(See County) Co: Butler KS

Landholding Agency: COE

Property Number: 31199010064

Status: Unutilized

Comment: 61 acres; most recent use—recreation

Kentucky

Tract 2625

Barkley Lake, Kentucky, and Tennessee

Cadiz Co: Trigg KY 42211-

Location: Adjoining the village of Rockcastle

Landholding Agency: COE

Property Number: 31199010025

Status: Excess

Comment: 2.57 acres; rolling and wooded

Tract 2709-10 and 2710-2

Barkley Lake, Kentucky and Tennessee

Cadiz Co: Trigg KY 42211-

Location: 2½ miles in a southerly direction from the village of Rockcastle

Landholding Agency: COE

Property Number: 31199010026

Status: Excess

Comment: 2.00 acres; steep and wooded

Tract 2708-1 and 2709-1

Barkley Lake, Kentucky and Tennessee

Cadiz Co: Trigg KY 42211-

Location: 2½ miles in a southerly direction from the village of Rockcastle

Landholding Agency: COE

Property Number: 31199010027

Status: Excess

Comment: 3.59 acres; rolling and wooded; no utilities

Tract 2800

Barkley Lake, Kentucky and Tennessee

Cadiz Co: Trigg KY 42211-

Location: 4½ miles in a southeasterly direction from the village of Rockcastle

Landholding Agency: COE

Property Number: 31199010028

Status: Excess

Comment: 5.44 acres; steep and wooded

Tract 2915

Barkley Lake, Kentucky and Tennessee

Cadiz Co: Trigg KY 42211-

Location: 6½ miles west of Cadiz

Landholding Agency: COE

Property Number: 31199010029

Status: Excess

Comment: 5.76 acres; steep and wooded; no utilities

Tract 2702

Barkley Lake, Kentucky and Tennessee

Cadiz Co: Trigg KY 42211-

Location: 1 mile in a southerly direction from the village of Rockcastle

Landholding Agency: COE

Property Number: 31199010031

Status: Excess

Comment: 4.90 acres; wooded; no utilities

Tract 4318

Barkley Lake, Kentucky and Tennessee

Canton Co: Trigg KY 42212-

Location: Trigg Co. adjoining the city of Canton, KY. on the waters of Hopson Creek

Landholding Agency: COE

Property Number: 31199010032

Status: Excess

Comment: 8.24 acres; steep and wooded

Tract 4502

Barkley Lake, Kentucky and Tennessee

Canton Co: Trigg KY 42212-

Location: 3½ miles in a southerly direction from Canton, KY

Landholding Agency: COE

Property Number: 31199010033

Status: Excess

Comment: 4.26 acres; steep and wooded

Tract 4611

Barkley Lake, Kentucky and Tennessee

Canton Co: Trigg KY 42212-

Location: 5 miles south of Canton, KY

Landholding Agency: COE

Property Number: 31199010034

Status: Excess

Comment: 10.51 acres; steep and wooded; no utilities

Tract 4619

Barkley Lake, Kentucky and Tennessee

Canton Co: Trigg KY 42212-

Location: 4½ miles south from Canton, KY

Landholding Agency: COE

Property Number: 31199010035

Status: Excess

Comment: 2.02 acres; steep and wooded; no utilities

Tract 4817

Barkley Lake, Kentucky and Tennessee

Canton Co: Trigg KY 42212-

Location: 6½ miles south of Canton, KY

Landholding Agency: COE

Property Number: 31199010036

Status: Excess

Comment: 1.75 acres; wooded

Tract 1217

Barkley Lake, Kentucky and Tennessee

Eddyville Co: Lyon KY 42030-

Location: On the north side of the Illinois Central Railroad

Landholding Agency: COE

Property Number: 31199010042

Status: Excess

Comment: 5.80 acres; steep and wooded

Tract 1906

Barkley Lake, Kentucky and Tennessee

Eddyville Co: Lyon KY 42030-

Location: Approximately 4 miles east of Eddyville, KY

Landholding Agency: COE

Property Number: 31199010044

Status: Excess

Comment: 25.86 acres; rolling steep and partially wooded; no utilities

Tract 1907

Barkley Lake, Kentucky and Tennessee

Eddyville Co: Lyon KY 42038-

Location: On the waters of Pilfen Creek, 4 miles east of Eddyville, KY

Landholding Agency: COE

Property Number: 31199010045

Status: Excess

Comment: 8.71 acres; rolling steep and wooded; no utilities

Tract 2001 #1

Barkley Lake, Kentucky and Tennessee

Eddyville Co: Lyon KY 42030-

Location: Approximately 4½ miles east of Eddyville, KY

Landholding Agency: COE

Property Number: 31199010046

Status: Excess

Comment: 47.42 acres; steep and wooded; no utilities

Tract 2001 #2

Barkley Lake, Kentucky and Tennessee

Eddyville Co: Lyon KY 42030-

Location: Approximately 4½ miles east of Eddyville, KY

Landholding Agency: COE

Property Number: 31199010047

Status: Excess

Comment: 8.64 acres; steep and wooded; no utilities

Tract 2005

Barkley Lake, Kentucky and Tennessee

Eddyville Co: Lyon KY 42030-

Location: Approximately 5½ miles east of Eddyville, KY

Landholding Agency: COE

Property Number: 31199010048

Status: Excess

Comment: 4.62 acres; steep and wooded; no utilities

Tract 2307

Barkley Lake, Kentucky and Tennessee

Eddyville Co: Lyon KY 42030-

Location: Approximately 7½ miles southeasterly of Eddyville, KY

Landholding Agency: COE

Property Number: 31199010049

Status: Excess

Comment: 11.43 acres; steep; rolling and wooded; no utilities

Tract 2403

Barkley Lake, Kentucky and Tennessee

Eddyville Co: Lyon KY 42030-

Location: 7 miles southeasterly of Eddyville, KY

Landholding Agency: COE

Property Number: 31199010050

Status: Excess

Comment: 1.56 acres; steep and wooded; no utilities

Tract 2504

Barkley Lake, Kentucky and Tennessee

Eddyville Co: Lyon KY 42030-

Location: 9 miles southeasterly of Eddyville, KY

Landholding Agency: COE

Property Number: 31199010051

Status: Excess

Comment: 24.46 acres; steep and wooded; no utilities

Tract 214

Barkley Lake, Kentucky and Tennessee

Grand Rivers Co: Lyon KY 42045-

Location: South of the Illinois Central Railroad, 1 mile east of the Cumberland River

Landholding Agency: COE

Property Number: 31199010052

Status: Excess

Comment: 5.5 acres; wooded; no utilities

Tract 215

Barkley Lake, Kentucky and Tennessee

Grand Rivers Co: Lyon KY 42045-

Location: 5 miles southwest of Kuttawa

Landholding Agency: COE

Property Number: 31199010053

Status: Excess

Comment: 1.40 acres; wooded; no utilities

Tract 241

Barkley Lake, Kentucky and Tennessee

Grand Rivers Co: Lyon KY 42045-

Location: Old Henson Ferry Road, 6 miles west of Kuttawa, KY

Landholding Agency: COE

Property Number: 31199010054

Status: Excess

Comment: 1.26 acres; steep and wooded; no utilities

Tracts 306, 311, 315 and 325

Barkley Lake, Kentucky and Tennessee

Grand Rivers Co: Lyon KY 42045-

Location: 2.5 miles southwest of Kuttawa, KY, on the waters of Cypress Creek

Landholding Agency: COE

Property Number: 31199010055

Status: Excess

Comment: 38.77 acres; steep and wooded; no utilities

Tracts 2305, 2306, and 2400-1

Barkley Lake, Kentucky and Tennessee

Eddyville Co: Lyon KY 42030-

Location: 6½ miles southeasterly of Eddyville, KY

Landholding Agency: COE

Property Number: 31199010056

Status: Excess

Comment: 97.66 acres; steep rolling and wooded; no utilities

Tracts 5203 and 5204

Barkley Lake, Kentucky and Tennessee

Linton Co: Trigg KY 42212-

Location: Village of Linton, KY state highway 1254

Landholding Agency: COE

Property Number: 31199010058

Status: Excess

Comment: 0.93 acres; rolling, partially wooded; no utilities

Tract 5240

Barkley Lake, Kentucky and Tennessee

Linton Co: Trigg KY 42212-

Location: 1 mile northwest of Linton, KY

Landholding Agency: COE

Property Number: 31199010059

Status: Excess

Comment: 2.26 acres; steep and wooded; no utilities

Tract 4628

Barkley Lake, Kentucky and Tennessee

Canton Co: Trigg KY 42212-

Location: 4½ miles south from Canton, KY

Landholding Agency: COE

Property Number: 31199011621

Status: Excess

Comment: 3.71 acres; steep and wooded; subject to utility easements

Tract 4619-B

Barkley Lake, Kentucky and Tennessee

Canton Co: Trigg KY 42212-

Location: 4½ miles south from Canton, KY

Landholding Agency: COE

Property Number: 31199011622

Status: Excess

Comment: 1.73 acres; steep and wooded; subject to utility easements

Tract 2403-B

Barkley Lake, Kentucky and Tennessee

Eddyville Co: Lyon KY 42038-

Location: 7 miles southeasterly from Eddyville, KY

Landholding Agency: COE

Property Number: 31199011623

Status: Unutilized

Comment: 0.70 acres, wooded; subject to utility easements

Tract 241-B

Barkley Lake, Kentucky and Tennessee

Grand Rivers Co: Lyon KY 42045-

Location: South of Old Henson Ferry Road, 6 miles west of Kuttawa, KY

Landholding Agency: COE

Property Number: 31199011624

Status: Excess

Comment: 11.16 acres; steep and wooded; subject to utility easements

Tracts 212 and 237

Barkley Lake, Kentucky and Tennessee

Grand Rivers Co: Lyon KY 42045-

Location: Old Henson Ferry Road, 6 miles west of Kuttawa, KY

Landholding Agency: COE

Property Number: 31199011625

Status: Excess

Comment: 2.44 acres; steep and wooded; subject to utility easements

Tract 215-B

Barkley Lake, Kentucky and Tennessee

Grand Rivers Co: Lyon KY 42045-

Location: 5 miles southwest of Kuttawa

Landholding Agency: COE

Property Number: 31199011626

Status: Excess

Comment: 1.00 acres; wooded; subject to utility easements

Tract 233

Barkley Lake, Kentucky and Tennessee

Grand Rivers Co: Lyon KY 42045-

Location: 5 miles southwest of Kuttawa

Landholding Agency: COE

Property Number: 31199011627

Status: Excess

Comment: 1.00 acres; wooded; subject to utility easements

Tract N-819

Dale Hollow Lake & Dam Project

Illwill Creek, Hwy 90

Hobart Co: Clinton KY 42601-

Landholding Agency: COE

Property Number: 31199140009

Status: Underutilized

Comment: 91 acres, most recent use—hunting, subject to existing easements

Portion of Lock & Dam No. 1

Kentucky River

Carrolton Co: Carroll KY 41008-0305

Landholding Agency: COE

Property Number: 31199320003

Status: Unutilized

Comment: approx. 3.5 acres (sloping), access monitored

Louisiana

Wallace Lake Dam and Reservoir

Shreveport Co: Caddo LA 71103-

Landholding Agency: COE

Property Number: 31199011009

Status: Unutilized

Comment: 10.81 acres; wildlife/forestry; no utilities

Bayou Bodcau Dam and Reservoir

Haughton Co: Caddo LA 71037-9707

Location: 35 miles Northeast of Shreveport, La

Landholding Agency: COE

Property Number: 31199011010

Status: Unutilized

Comment: 203 acres; wildlife/forestry; no utilities

Maryland

VA Medical Center 9600 North Point Road

Fort Howard Co: Baltimore MD 21052-

Landholding Agency: VA

Property Number: 97199010020

Status: Underutilized

Comment: Approx. 10 acres, wetland and periodically floods, most recent use—dump site for leaves

Mississippi

Parcel 7

Grenada Lake

Sections 22, 23, T24N

Grenada Co: Yalobusha MS 38901-0903

Landholding Agency: COE

Property Number: 31199011019

Status: Underutilized

Comment: 100 acres; no utilities; intermittently used under lease—expires 1994

Parcel 8

Grenada Lake

Section 20, T24N

Grenada Co: Yalobusha MS 38901-0903

Landholding Agency: COE

Property Number: 31199011020

Status: Underutilized

Comment: 30 acres; no utilities; intermittently used under lease—expires 1994

Parcel 9

Grenada Lake

Section 20, T24N, R7E

Grenada Co: Yalobusha MS 38901-0903

Landholding Agency: COE

Property Number: 31199011021

Status: Underutilized

Comment: 23 acres; no utilities; intermittently used under lease—expires 1994

Parcel 10

Grenada Lake

Sections 16, 17, 18 T24N R8E

Grenada Co: Calhoun MS 38901-0903

Landholding Agency: COE

Property Number: 31199011022

Status: Underutilized

Comment: 490 acres; no utilities; intermittently used under lease—expires 1994

Parcel 2

Grenada Lake

Section 20 and T23N, R5E

Grenada Co: Grenada MS 38901-0903

Landholding Agency: COE

Property Number: 31199011023

Status: Underutilized

Comment: 60 acres; no utilities; most recent use—wildlife and forestry management

Parcel 3

Grenada Lake

Section 4, T23N, R5E

Grenada Co: Yalobusha MS 38901-0903

Landholding Agency: COE

Property Number: 31199011024

Status: Underutilized

Comment: 120 acres; no utilities; most recent use—wildlife and forestry management; (13.5 acres/agriculture lease)

Parcel 4

Grenada Lake

Section 2 and 3. T23N, R5E

Grenada Co: Yalobusha MS 38901-0903

Landholding Agency: COE

Property Number: 31199011025

Status: Underutilized

Comment: 60 acres; no utilities; most recent use—wildlife and forestry management

Parcel 5

Grenada Lake

Section 7, T24N, R6E

Grenada Co: Yalobusha MS 38901-0903

Landholding Agency: COE

Property Number: 31199011026

Status: Underutilized

Comment: 20 acres; no utilities; most recent use—wildlife and forestry management; (14 acres/agriculture lease)

Parcel 6

Grenada Lake

Section 9, T24N, R6E

Grenada Co: Yalobusha MS 38903-0903

Landholding Agency: COE

Property Number: 31199011027

Status: Underutilized

Comment: 80 acres; no utilities; most recent use—wildlife and forestry management

Parcel 11

Grenada Lake

Section 20, T24N, R8E

Grenada Co: Calhoun MS 38901-0903

Landholding Agency: COE

Property Number: 31199011028

Status: Underutilized

Comment: 30 acres; no utilities; most recent use—wildlife and forestry management

Parcel 12

Grenada Lake

Section 25, T24N, R7E

Grenada Co: Yalobusha MS 38390-10903

Landholding Agency: COE

Property Number: 31199011029

Status: Underutilized

Comment: 30 acres; no utilities; most recent use—wildlife and forestry management

Parcel 13

Grenada Lake

Section 34, T24N, R7E

Grenada Co: Yalobusha MS 38903-0903

Landholding Agency: COE

Property Number: 31199011030

Status: Underutilized

Comment: 35 acres; no utilities; most recent use—wildlife and forestry management; (11 acres/agriculture lease)

Parcel 14

Grenada Lake

Section 3, T23N, R6E

Grenada Co: Yalobusha MS 38901-0903

Landholding Agency: COE

Property Number: 31199011031

Status: Underutilized

Comment: 15 acres; no utilities; most recent use—wildlife and forestry management

Parcel 15

Grenada Lake

Section 4, T24N, R6E

Grenada Co: Yalobusha MS 38901-0903

Landholding Agency: COE

Property Number: 31199011032

Status: Underutilized

Comment: 40 acres; no utilities; most recent use—wildlife and forestry management

Parcel 16

Grenada Lake

Section 9, T23N, R6E

Grenada Co: Yalobusha MS 38901-0903

Landholding Agency: COE

Property Number: 31199011033

Status: Underutilized

Comment: 70 acres; no utilities; most recent use—wildlife and forestry management

Parcel 17

Grenada Lake

Section 17, T23N, R7E

Grenada Co: Grenada MS 28901-0903

Landholding Agency: COE

Property Number: 31199011034

Status: Underutilized

Comment: 35 acres; no utilities; most recent use—wildlife and forestry management

Parcel 18

Grenada Lake

Section 22, T23N, R7E

Grenada Co: Grenada MS 28902-0903

Landholding Agency: COE

Property Number: 31199011035

Status: Underutilized

Comment: 10 acres; no utilities; most recent use—wildlife and forestry management

Parcel 19

Grenada Lake

Section 9, T22N, R7E

Grenada Co: Grenada MS 38901-0903

Landholding Agency: COE

Property Number: 31199011036

Status: Underutilized

Comment: 20 acres; no utilities; most recent use—wildlife and forestry management

Missouri

Harry S Truman Dam & Reservoir

Warsaw Co: Benton MO 65355-

Location: Triangular shaped parcel southwest of access road “B”, part of Bledsoe Ferry Park Tract 150

Landholding Agency: COE

Property Number: 31199030014

Status: Underutilized

Comment: 1.7 acres; potential utilities

Nebraska

Hastings Radar Bomb Scoring

Hastings Co: Adams NE 68901-

Landholding Agency: Air Force

Property Number: 18199810027

Status: Unutilized

Comment: 11 acres

Oklahoma

Pine Creek Lake

Section 27

(See County) Co: McCurtain OK

Landholding Agency: COE

Property Number: 31199010923

Status: Unutilized

Comment: 3 acres; no utilities; subject to right of way for Oklahoma State Highway 3

Pennsylvania

Mahoning Creek Lake

New Bethlehem Co: Armstrong PA 16242-9603

Location: Route 28 north to Belknap, Road #4

Landholding Agency: COE

Property Number: 31199010018

Status: Excess

Comment: 2.58 acres; steep and densely wooded

Tracts 610, 611, 612

Shenango River Lake

Sharpsville Co: Mercer PA 16150-

Location: I-79 North, I-80 West, Exit Sharon; R18 North 4 miles, left on R518, right on Mercer Avenue

Landholding Agency: COE

Property Number: 31199011001

Status: Excess

Comment: 24.09 acres; subject to flowage easement

Tracts L24, L26

Crooked Creek Lake

Co: Armstrong PA 03051-

Location: Left bank—55 miles downstream of dam

Landholding Agency: COE

Property Number: 31199011011

Status: Unutilized

Comment: 7.59 acres; potential for utilities

Portion of Tract L-21A

Crooked Creek Lake, LR 03051

Ford City Co: Armstrong PA 16226-

Landholding Agency: COE

Property Number: 31199430012

Status: Unutilized

Comment: Approximately 1.72 acres of undeveloped land, subject to gas rights

Portion of Tract 119

State Rt 969

Curwensville Co: Clearfield PA 16833-

Landholding Agency: COE

Property Number: 31200010005

Status: Unutilized

Comment: approx. 17 acres, hilly wooded terrain

South Dakota

S. Nike Ed. Annex Land

Ellsworth AFB

Pennington Co: SD 57706-

Landholding Agency: Air Force

Property Number: 18200220010

Status: Unutilized

Comment: 7 acres w/five foundations from demolished bldgs. remain on site; with a road and a parking lot

Tennessee

Tract 6827

Barkley Lake

Dover Co: Stewart TN 37058-

Location: 2½ miles west of Dover, TN

Landholding Agency: COE

Property Number: 31199010927

Status: Excess

Comment: .57 acres; subject to existing easements

Tracts 6002-2 and 6010

Barkley Lake

Dover Co: Stewart TN 37058-

Location: 3½ miles south of village of Tabaccoport

Landholding Agency: COE

Property Number: 31199010928

Status: Excess

Comment: 100.86 acres; subject to existing easements

Tract 11516

Barkley Lake

Ashland City Co: Dickson TN 37015-

Location: ½ mile downstream from Cheatham Dam

Landholding Agency: COE

Property Number: 31199010929

Status: Excess

Comment: 26.25 acres; subject to existing easements

Tract 2319

J. Percy Priest Dam and Resorvoir

Murfreesboro Co: Rutherford TN 37130-

Location: West of Buckeye Bottom Road

Landholding Agency: COE

Property Number: 31199010930

Status: Excess

Comment: 14.48 acres; subject to existing easements

Tract 2227

J. Percy Priest Dam and Resorvoir

Murfreesboro Co: Rutherford TN 37130-

Location: Old Jefferson Pike

Landholding Agency: COE

Property Number: 31199010931

Status: Excess

Comment: 2.27 acres; subject to existing easements

Tract 2107

J. Percy Priest Dam and Reservoir

Murfreesboro Co: Rutherford TN 37130-

Location: Across Fall Creek near Fall Creek camping area

Landholding Agency: COE

Property Number: 31199010932

Status: Excess

Comment: 14.85 acres; subject to existing easements

Tracts 2601, 2602, 2603, 2604

Cordell Hull Lake and Dam Project

Doe Row Creek

Gainesboro Co: Jackson TN 38562-

Location: TN Highway 56

Landholding Agency: COE

Property Number: 31199010933

Status: Unutilized

Comment: 11 acres; subject to existing easements

Tract 1911

J. Percy Priest Dam and Reservoir

Murfreesboro Co: Rutherford TN 37130-

Location: East of Lamar Road

Landholding Agency: COE

Property Number: 31199010934

Status: Excess

Comment: 6.92 acres; subject to existing easements

Tract 2321

J. Percy Priest Dam and Reservoir

Murfreesboro Co: Rutherford TN 37130-

Location: South of Old Jefferson Pike

Landholding Agency: COE

Property Number: 31199010935

Status: Excess

Comment: 12 acres; subject to existing easements

Tract 7206

Barkley Lake

Dover Co: Stewart TN 37058-

Location: 2½ miles SE of Dover, TN

Landholding Agency: COE

Property Number: 31199010936

Status: Excess

Comment: 10.15 acres; subject to existing easements

Tracts 8813, 8814

Barkley Lake

Cumberland Co: Stewart TN 37050-

Location: 1½ miles East of Cumberland City

Landholding Agency: COE

Property Number: 31199010937

Status: Excess

Comment: 96 acres; subject to existing easements

Tract 8911

Barkley Lake

Cumberland City Co: Montgomery TN 37050-

Location: 4 miles east of Cumberland City

Landholding Agency: COE

Property Number: 31199010938

Status: Excess

Comment: 7.7 acres; subject to existing easements

Tract 11503

Barkley Lake

Ashland City Co: Cheatham TN 37015-

Location: 2 miles downstream from Cheatham Dam

Landholding Agency: COE

Property Number: 31199010939

Status: Excess

Comment: 1.1 acres; subject to existing easements

Tracts 11523, 11524

Barkley Lake

Ashland City Co: Cheatham TN 37015-

Location: 2½ miles downstream from Cheatham Dam

Landholding Agency: COE

Property Number: 31199010940

Status: Excess

Comment: 19.5 acres; subject to existing easements

Tract 6410

Barkley Lake

Bumpus Mills Co: Stewart TN 37028-

Location: 4½ miles SW. of Bumpus Mills

Landholding Agency: COE

Property Number: 31199010941

Status: Excess

Comment: 17 acres; subject to existing easements

Tract 9707

Barkley Lake

Palmyer Co: Montgomery TN 37142-

Location: 3 miles NE of Palmyer, TN. Highway 149

Landholding Agency: COE

Property Number: 31199010943

Status: Excess

Comment: 6.6 acres; subject to existing easements

Tract 6949

Barkley Lake

Dover Co: Stewart TN 37058-

Location: 1½ miles SE of Dover, TN

Landholding Agency: COE

Property Number: 31199010944

Status: Excess

Comment: 29.67 acres; subject to existing easements

Tracts 6005 and 6017

Barkley Lake

Dover Co: Stewart TN 37058-

Location: 3 miles south of Village of Tobaccoport

Landholding Agency: COE

Property Number: 31199011173

Status: Excess

Comment: 5 acres; subject to existing easements

Tracts K-1191, K-1135

Old Hickory Lock and Dam

Hartsville Co: Trousdale TN 37074-

Landholding Agency: COE

Property Number: 31199130007

Status: Underutilized

Comment: 54 acres, (portion in floodway), most recent use—recreation

Tract A-102

Dale Hollow Lake & Dam Project

Canoe Ridge, State Hwy 52

Celina Co: Clay TN 38551-

Landholding Agency: COE

Property Number: 31199140006

Status: Underutilized

Comment: 351 acres, most recent use—hunting, subject to existing easements

Tract A-120

Dale Hollow Lake & Dam Project

Swann Ridge, State Hwy No. 53

Celina Co: Clay TN 38551-

Landholding Agency: COE

Property Number: 31199140007

Status: Underutilized

Comment: 883 acres, most recent use—hunting, subject to existing easements

Tract D-185

Dale Hollow Lake & Dam Project

Ashburn Creek, Hwy No. 53

Livingston Co: Clay TN 38570-

Landholding Agency: COE

Property Number: 31199140010

Status: Underutilized

Comment: 97 acres, most recent use—hunting, subject to existing easements

Texas

Land

Olin E. Teague Veterans Center

1901 South 1st Street

Temple Co: Bell TX 76504-

Landholding Agency: VA

Property Number: 97199010079

Status: Underutilized

Comment: 13 acres, portion formerly landfill, portion near flammable materials, railroad crosses property, potential utilities

Wisconsin

VA Medical Center

County Highway E

Tomah Co: Monroe WI 54660-

Landholding Agency: VA

Property Number: 97199010054

Status: Underutilized

Comment: 12.4 acres, serves as buffer between center and private property, no utilities

Suitable/Unavailable Properties

Buildings (by State)

California

Santa Fe Flood Control Basin

Irwindale Co: Los Angeles CA 91706-

Landholding Agency: COE

Property Number: 31199011298

Status: Unutilized

Comment: 1400 sq. ft.; 1 story stucco; needs rehab; termite damage; secured area with alternate access

Idaho

Bldg. 224

Mountain Home Air Force

Co: Elmore ID 83648-

Landholding Agency: Air Force

Property Number: 18199840008

Status: Unutilized

Comment: 1890 sq. ft., no plumbing facilities, possible asbestos/lead paint, most recent use—office

Bldg. CFA-613

Central Facilities Area

Idaho National Engineering Lab

Scoville Co: Butte ID 83415-

Landholding Agency: Energy

Property Number: 41199630001

Status: Unutilized

Comment: 1219 sq. ft., most recent use—sleeping quarters, presence of asbestos, off-site use only

Illinois

Bldg. 7

Ohio River Locks & Dam No. 53

Grand Chain Co: Pulaski IL 62941-9801

Location: Ohio River Locks and Dam No. 53 at Grand Chain

Landholding Agency: COE

Property Number: 31199010001

Status: Unutilized

Comment: 900 sq. ft.; 1 floor wood frame; most recent use—residence

Bldg. 6

Ohio River Locks & Dam No. 53

Grand Chain Co: Pulaski IL 62941-9801

Location: Ohio River Locks and Dam No. 53 at Grand Chain

Landholding Agency: COE

Property Number: 31199010002

Status: Unutilized

Comment: 900 sq. ft.; one floor wood frame; most recent use—residence

Bldg. 5

Ohio River Locks & Dam No. 53

Grand Chain Co: Pulaski IL 62941-9801

Location: Ohio River Locks and Dam No. 53 at Grand Chain

Landholding Agency: COE

Property Number: 31199010003

Status: Unutilized

Comment: 900 sq. ft.; one floor wood frame; most recent use—residence

Bldg. 4

Ohio River Locks & Dam No. 53

Grand Chain Co: Pulaski IL 62941-9801

Location: Ohio River Locks and Dam No. 53 at Grand Chain

Landholding Agency: COE

Property Number: 31199010004

Status: Unutilized

Comment: 900 sq. ft.; one floor wood frame; most recent use—residence

Bldg. 3

Ohio River Locks & Dam No. 53

Grand Chain Co: Pulaski IL 62941-9801

Location: Ohio River Locks and Dam No. 53 at Grand Chain

Landholding Agency: COE

Property Number: 31199010005

Status: Unutilized

Comment: 900 sq. ft.; one floor wood frame

Bldg. 2

Ohio River Locks & Dam No. 53

Grand Chain Co: Pulaski IL 62941-9801

Location: Ohio River Locks and Dam No. 53 at Grand Chain

Landholding Agency: COE

Property Number: 31199010006

Status: Unutilized

Comment: 900 sq. ft.; one floor wood frame; most recent use—residence

Bldg. 1

Ohio River Locks & Dam No. 53

Grand Chain Co: Pulaski IL 62941-9801

Location: Ohio River Locks and Dam No. 53 at Grand Chain

Landholding Agency: COE

Property Number: 31199010007

Status: Unutilized

Comment: 900 sq. ft.; one floor wood frame; most recent use—residence

Iowa

Bldg. 00669

Sioux Gateway Airport

Sioux City Co: Woodbury IA 51110-

Landholding Agency: Air Force

Property Number: 18199310002

Status: Unutilized

Comment: 1113 sq. ft., 1-story concrete block bldg., contamination clean-up in process

Montana

VA MT Healthcare 210 S. Winchester

Miles City Co: Custer MT 59301-

Landholding Agency: VA

Property Number: 97200030001

Status: Underutilized

Comment: 18 buildings, total sq. ft. = 123,851, presence of asbestos, most recent use—clinic/office/food production

New York

Bldg. 1225

Verona Text Annex

Verona Co: Oneida NY 13478-

Landholding Agency: Air Force

Property Number: 18200220014

Status: Unutilized

Comment: 3865 sq. ft., needs repair, presence of asbestos/lead paint, most recent use—research lab

Bldg. 1226

Verona Test Annex

Verona Co: Oneida NY 13478-

Landholding Agency: Air Force

Property Number: 18200220015

Status: Unutilized

Comment: 7500 sq. ft., most recent use—storage

Bldg. 1227

Verona Text Annex

Verona Co: Oneida NY 13478-

Landholding Agency: Air Force

Property Number: 18200220016

Status: Unutilized

Comment: 1152 sq. ft., presence of asbestos/lead paint, most recent use—power station

Bldg. 1231

Verona Test Annex

Verona Co: Oneida NY 13478-

Landholding Agency: Air Force

Property Number: 18200220017

Status: Unutilized

Comment: 3865 sq. ft., presence of asbestos/lead paint/volatile organic compounds, access requirements, most recent use—research lab

Bldg. 1233

Verona Test Annex

Verona Co: Oneida NY 13478-

Landholding Agency: Air Force

Property Number: 18200220018

Status: Unutilized

Comment: 1152 sq. ft., needs repair, presence of asbestos/lead paint/volatile organic compounds, access requirements, most recent use—power station

Bldgs. 1235, 1239

Verona Test Annex

Verona Co: Oneida NY 13478-

Landholding Agency: Air Force

Property Number: 18200220019

Status: Unutilized

Comment: 144/825 sq. ft., need repairs, presence of lead paint, most recent use—electric switch station

Bldg. 1241

Verona Test Annex

Verona Co: Oneida NY 13478-

Landholding Agency: Air Force

Property Number: 18200220020

Status: Unutilized

Comment: 159 sq. ft., presence of lead paint, most recent use—sewage pump station

Bldg. 1243

Verona Test Annex

Verona Co: Oneida NY 13478-

Landholding Agency: Air Force

Property Number: 18200220021

Status: Unutilized

Comment: 25 sq. ft., most recent use—waste treatment

Bldg. 1245

Verona Test Annex

Verona Co: Oneida NY 13478-

Landholding Agency: Air Force

Property Number: 18200220022

Status: Unutilized

Comment: 3835 sq. ft., needs repair, presence of asbestos/lead paint, most recent use—research lab

Bldg. 1247

Verona Test Annex

Verona Co: Oneida NY 13478-

Landholding Agency: Air Force

Property Number: 18200220023

Status: Unutilized

Comment: 576 sq. ft., needs repair, presence of asbestos/lead paint, most recent use—power station

Bldg. 1250 + land

Verona Test Annex

Verona Co: Oneida NY 13478-

Landholding Agency: Air Force

Property Number: 18200220024

Status: Unutilized

Comment: 11,766 sq. ft. offices/lab with 495 acres, presence of asbestos/lead paint/wetlands

Bldg. 1253

Verona Test Annex

Verona Co: Oneida NY 13478-

Landholding Agency: Air Force

Property Number: 18200220025

Status: Unutilized

Comment: 3835 sq. ft., needs repair, presence of asbestos/lead paint/volatile organic compounds, access requirements, most recent use—research lab

Bldg. 1255

Verona Test Annex

Verona Co: Oneida NY 13478-

Landholding Agency: Air Force

Property Number: 18200220026

Status: Unutilized

Comment: 576 sq. ft., needs repair, presence of lead paint/volatile organic compounds, access requirement, most recent use—power station

Bldg. 1261

Verona Test Annex

Verona Co: Oneida NY 13478-

Landholding Agency: Air Force

Property Number: 18200220027

Status: Unutilized

Comment: 3835 sq. ft., needs repair, presence of asbestos/lead paint, most recent use—research lab

Bldg. 1263

Verona Test Annex

Verona Co: Oneida NY 13478-

Landholding Agency: Air Force

Property Number: 18200220028

Status: Unutilized

Comment: 576 sq. ft. needs repair, presence of lead paint, most recent use—power station

Bldgs. 1266, 1269

Verona Test Annex

Verona Co: Oneida NY 13478-

Landholding Agency: Air Force

Property Number: 18200220029

Status: Unutilized

Comment: 3730/3865 sq. ft., need repairs, presence of asbestos/lead paint, most recent use—research lab

Bldg. 1271

Verona Test Annex

Verona Co: Oneida NY 13478-

Landholding Agency: Air Force

Property Number: 18200220030

Status: Unutilized

Comment: 1152 sq. ft., needs repair, presence of lead paint, most recent use—power station

Bldg. 1273

Verona Test Annex

Verona Co: Oneida NY 13478-

Landholding Agency: Air Force

Property Number: 18200220031

Status: Unutilized

Comment: 87 sq. ft., presence of asbestos, most recent use—sewage pump station

Bldg. 1277

Verona Test Annex

Verona Co: Oneida NY 13478-

Landholding Agency: Air Force

Property Number: 18200220032

Status: Unutilized

Comment: 3865 sq. ft., needs repair, presence of asbestos/lead paint, most recent use—research lab

Bldg. 1279

Verona Test Annex

Verona Co: Oneida NY 13478-

Landholding Agency: Air Force

Property Number: 18200220033

Status: Unutilized

Comment: 1152 sq. ft., needs repair, presence of lead paint, most recent use—power station

Bldg. 1285

Verona Test Annex

Verona Co: Oneida NY 13478-

Landholding Agency: Air Force

Property Number: 18200220034

Status: Unutilized

Comment: 4690 sq. ft., needs repair, presence of asbestos/lead paint, most recent use—research lab

Bldg. 1287

Verona Test Annex

Verona Co: Oneida NY 13478

Landholding Agency: Air Force

Property Number: 18200220035

Status: Unutilized

Comment: 1152 sq. ft., needs repair, presence of lead paint, most recent use—power station

Ohio

Bldg.—Berlin Lake

7400 Bedell Road

Berlin Center Co: Mahoning OH 44401-9797

Landholding Agency: COE

Property Number: 31199640001

Status: Unutilized

Comment: 1420 sq. ft., 2-story brick w/garage and basement, most recent use—residential, secured w/alternate access

Pennsylvania

Tract 353

Grays Landing Lock & Dam Project

Greensboro Co: Greene PA 15338-

Landholding Agency: COE

Property Number: 31199430019

Status: Unutilized

Comment: 812 sq. ft., 2-story, log structure, needs repair, most recent use—residential, if used for habitation must be flood proofed or removed off-site

Tract 403A

Grays Landing Lock & Dam Project

Greensboro Co: Greene PA 15338

Landholding Agency: COE

Property Number: 31199430021

Status: Unutilized

Comment: 620 sq. ft., 2-story, needs repair, most recent use—residential, if used for habitation must be flood proofed or removed off-site.

Tract 403B

Grays Landing Lock & Dam Project

Greensboro Co: Greene PA 15338-

Landholding Agency: COE

Property Number: 31199430022

Status: Unutilized

Comment: 1600 sq. ft., 2-story, brick structure, needs repair, most recent use—residential, if used for habitation must be flood proofed or removed off-site.

Tract 403C

Grays Landing Lock & Dam Project

Greensboro Co: Greene PA 15338-

Landholding Agency: COE

Property Number: 31199430023

Status: Unutilized

Comment: 672 sq. ft., 2-story carriage house/stable barn type structure, needs repair, most recent use—storage/garage, if used for habitation must be flood proofed or removed

Tract 434

Grays Landing Lock & Dam Project

Greensboro Co: Greene PA 15338-

Landholding Agency: COE

Property Number: 31199430024

Status: Unutilized

Comment: 1059 sq. ft., 2-story, wood frame, 2 apt. units, historic property, if used for habitation must be flood proofed or removed off-site

Tract No. 224

Grays Landing Lock & Dam Project

Greensboro Co: Green PA 15338-

Landholding Agency: COE

Property Number: 31199440001

Status: Unutilized

Comment: 1040 sq. ft., 2 story bldg., needs repair, historic struct., flowage easement, if habitation is desired property will be required to be flood proofed or removed off site

Wisconsin

Former Lockmaster's Dwelling

DePere Lock 100 James Street

De Pere Co: Brown WI 54115-

Landholding Agency: COE

Property Number: 31199011526

Status: Unutilized

Comment: 1224 sq. ft.; 2 story brick/wood frame residence; needs rehab; secured area with alternate access

Bldg. 2

VA Medical Center 5000 West National Ave.

Milwaukee WI 53295-

Landholding Agency: VA

Property Number: 97199830002

Status: Underutilized

Comment: 133,730 sq. ft., needs rehab, presence of asbestos/lead paint, most recent use—storage

Land (by State)

Illinois

Lake Shelbyville

Shelbyville Co: Shelby & Moultrie IL 62565-9804

Landholding Agency: COE

Property Number: 31199240004

Status: Unutilized

Comment: 5 parcels of land equalling 0.70 acres, improved w/4 small equipment storage bldgs. and a small access road, easement restrictions.

Iowa

38 acres

VA Medical Center

1515 West Pleasant St.

Knoxville Co: Marion IA 50138-

Landholding Agency: VA

Property Number: 97199740001

Status: Unutilized

Comment: golf course

Michigan

VA Medical Center

5500 Armstrong Road

Battle Creek Co: Calhoun MI 49016-

Landholding Agency: VA

Property Number: 97199010015

Status: Underutilized

Comment: 20 acres, used as exercise trails and storage areas, potential utilities

New York

VA Medical Center

Fort Hill Avenue

Canandaigua Co: Ontario NY 14424-

Landholding Agency: VA

Property Number: 97199010017

Status: Underutilized

Comment: 27.5 acres, used for school ballfield and parking, existing utilities easements, portion leased.

Pennsylvania

East Branch Clarion River Lake

Wilcox Co: Elk PA

Location: Free camping area on the right bank off entrance roadway

Landholding Agency: COE

Property Number: 31199011012

Status: Underutilized

Comment: 1 acre; most recent use—free campground

Dashields Locks and Dam

(Glenwillard, PA)

Crescent Twp. Co: Allegheny PA 15046-0475

Landholding Agency: COE

Property Number: 31199210009

Status: Unutilized

Comment: 0.58 acres, most recent use—baseball field

VA Medical Center

New Castle Road

Butler Co: Butler PA 16001-

Landholding Agency: VA

Property Number: 97199010016

Status: Underutilized

Comment: Approx. 9.29 acres, used for patient recreation, potential utilities

Land No. 645

VA. Medical Center

Highland Drive

Pittsburgh Co: Allegheny PA 15206-

Location: Between Campania and Wiltsie Streets

Landholding Agency: VA

Property Number: 97199010080

Status: Unutilized

Comment: 90.3 acres, heavily wooded, property includes dump area and numerous site storm drain outfalls

Land—34.16 acres

VA Medical Center

1400 Black Horse Hill Road

Coatesville Co: Chester PA 19320-

Landholding Agency: VA

Property Number: 97199340001

Status: Underutilized

Comment: 34.16 acres, open field, most recent use—recreation/buffer

Suitable/To Be Excessed

Buildings (by State)

Massachusetts

Cuttyhunk Boathouse

South Shore of Cuttyhunk Pond

Gosnold Co: Dukes MA 02713-

Landholding Agency: DOT

Property Number: 87199310001

Status: Unutilized

Comment: 2700 sq. ft., wood frame, one story, needs rehab, limited utilities, off-site use only

Nauset Beach Light

Nauset Beach Co: Barnstable MA

Landholding Agency: DOT

Property Number: 87199420001

Status: Unutilized

Comment: 48 foot tower, cylindrical cast iron, most recent use—aid to navigation

Light Tower, Highland Light

Near Rt. 6, 9 miles south of Race Point

North Truro Co: Barnstable MA 02652-

Landholding Agency: DOT

Property Number: 87199430005

Status: Excess

Comment: 66 ft. tower, 14″9′ diameter, brick structure, scheduled to be vacated 9/94

Keepers Dwelling

Highland Light

Near Rt. 6, 9 miles south of Race Point

North Truro Co: Barnstable MA 02652-

Landholding Agency: DOT

Property Number: 87199430006

Status: Excess

Comment: 1160 sq. ft., 2-story wood frame, attached to light tower, scheduled to be vacated 9/94

Duplex Housing Unit

Highland Light

Near Rt. 6, 9 miles south of Race Point

North Truro Co: Barnstable MA 02652-

Landholding Agency: DOT

Property Number: 87199430007

Status: Excess

Comment: 2 living units, 930 sq. ft. each, 1-story each, located on eroding ocean bluff, scheduled to be vacated 9/94

Nahant Towers

Nahant Co: Essex MA

Landholding Agency: DOT

Property Number: 87199530001

Status: Unutilized

Comment: 196 sq. ft., 8-story observation tower

New York

Bldg. 1

Hancock Field

Syracuse Co: Onandaga NY 13211-

Landholding Agency: Air Force

Property Number: 18199530048

Status: Excess

Comment: 4955 sq. ft., 2 story concrete block, needs rehab, most recent use—administration

Bldg. 2

Hancock Field

Syracuse Co: Onandaga NY 13211-

Landholding Agency: Air Force

Property Number: 18199530049

Status: Excess

Comment: 1476 sq. ft., 1 story concrete block, needs rehab, most recent use—repair shop

Bldg. 6

Hancock Field

Syracuse Co: Onandaga NY 13211-

Landholding Agency: Air Force

Property Number: 18199530050

Status: Excess

Comment: 2466 sq. ft., 1 story concrete block, needs rehab, most recent use—repair shop

Bldg. 11

Hancock Field

Syracuse Co: Onandaga NY 13211-

Landholding Agency: Air Force

Property Number: 18199530051

Status: Excess

Comment: 1750 sq. ft., 1 story wood frame, needs rehab, most recent use—storage

Bldg. 8

Hancock Field

Syracuse Co: Onandaga NY 13211-

Landholding Agency: Air Force

Property Number: 18199530052

Status: Excess

Comment: 1812 sq. ft., 1 story concrete block, needs rehab, most recent use—repair shop communications

Bldg. 14

Hancock Field

Syracuse Co: Onandaga NY 13211-

Landholding Agency: Air Force

Property Number: 18199530053

Status: Excess

Comment: 156 sq. ft., 1 story wood frame, most recent use—vehicle fuel station

Bldg. 30

Hancock Field

Syracuse Co: Onandaga NY 13211-

Landholding Agency: Air Force

Property Number: 18199530054

Status: Excess

Comment: 3649 sq. ft., 1 story, needs rehab, most recent use—assembly hall

Bldg. 31

Hancock Field

Syracuse Co: Onandaga NY 13211-

Landholding Agency: Air Force

Property Number: 18199530055

Status: Excess

Comment: 8252 sq. ft., 1 story concrete block, most recent use—storage

Bldg. 32

Hancock Field

Syracuse Co: Onandaga NY 13211-

Landholding Agency: Air Force

Property Number: 18199530056

Status: Excess

Comment: 1627 sq. ft., 1 story concrete block, most recent use—storage

South Carolina

5 Bldgs.

Charleston AFB Annex Housing

N. Charleston SC 29404-4827

Location: 101 Vector Ave., 112, 114, 116, 118 Intercept Ave.

Landholding Agency: Air Force

Property Number: 18199830035

Status: Unutilized

Comment: 1433 sq. ft. + 345 sq. ft. carport, lead base paint/exterior most recent use—residential

1 Bldg.

Charleston AFB Annex Housing

N. Charleston SC 29404-4827

Location: 102 Vector Ave.

Landholding Agency: Air Force

Property Number: 18199830036

Status: Unutilized

Comment: 1545 sq. ft. + 345 sq. ft. carport, lead base paint/exterior most recent use—residential

1 Bldg.

Charleston AFB Annex Housing

N. Charleston SC 29404-4827

Location: 103 Vector Ave.

Landholding Agency: Air Force

Property Number: 18199830037

Status: Unutilized

Comment: 1445 sq. ft. + 346 sq. ft. carport, lead base paint/exterior most recent use—residential

18 Bldgs.

Charleston AFB Annex Housing

N. Charleston SC 29404-4827

Location: 104-107 Vector Ave., 108-111, 113, 115, 117, 119 Intercept Ave., 120-122 Radar Ave.

Landholding Agency: Air Force

Property Number: 18199830038

Status: Unutilized

Comment: 1265 sq. ft. + 353 sq. ft. carport, lead base paint/exterior most recent use—residential

Land (by State)

Alaska

Gibson Cove Tract

Kodiak Co: AK 99619-

Landholding Agency: DOT

Property Number: 87199920001

Status: Unutilized

Comment: 37.55 acres, undeveloped land

Georgia

Lake Sidney Lanier

Co: Forsyth GA 30130-

Location: Located on Two Mile Creek adj. to State Route 369

Landholding Agency: COE

Property Number: 31199440010

Status: Unutilized

Comment: 0.25 acres, endangered plant species

Lake Sidney Lanier—3 parcels

Gainesville Co: Hall GA 30503-

Location: Between Gainesville H.S. and State Route 53 By-Pass

Landholding Agency: COE

Property Number: 31199440011

Status: Unutilized

Comment: 3 parcels totalling 5.17 acres, most recent use—buffer zone, endangered plant species

Kansas

Parcel #1

Fall River Lake

Section 26

Co: Greenwood KS

Landholding Agency: COE

Property Number: 31199010065

Status: Unutilized

Comment: 126.69 acres; most recent use—recreation and leased cottage sites

Parcel No. 2, El Dorado Lake

Approx. 1 mi east of the town of El Dorado

Co: Butler KS

Landholding Agency: COE

Property Number: 31199210005

Status: Unutilized

Comment: 11 acres, part of a relocated railroad bed, rural area

Massachusetts

Buffumville Dam

Flood Control Project

Gale Road

Carlton Co: Worcester MA 01540-0155

Location: Portion of tracts B-200, B-248, B-251, B-204, B-247, B-200 and B-256

Landholding Agency: COE

Property Number: 31199010016

Status: Excess

Comment: 1.45 acres

New York

14.90 Acres

Hancock Field

Syracuse Co: Onandaga NY 13211-

Landholding Agency: Air Force

Property Number: 18199530057

Status: Excess

Comment: Fenced in compound, most recent use—Air Natl. Guard Communication & Electronics Group

Tennessee

Tract D-456

Cheatham Lock and Dam

Ashland Co: Cheatham TN 37015-

Location: Right downstream bank of Sycamore Creek

Landholding Agency: COE

Property Number: 31199010942

Status: Excess

Comment: 8.93 acres; subject to existing easements

Texas

Corpus Christi Ship Channel

Corpus Christi Co: Neuces TX

Location: East side of Carbon Plant Road, approx. 14 miles NW of downtown Corpus Christi

Landholding Agency: COE

Property Number: 31199240001

Status: Unutilized

Comment: 4.4 acres, most recent use—farm land

Unsuitable Properties

Buildings (by State)

Alabama

Dwelling A

USCG Mobile Pt. Station

Ft. Morgan

Gulfshores Co: Baldwin AL 36542-

Landholding Agency: DOT

Property Number: 87199120001

Status: Excess

Reason: Floodway

Dwelling B

USCG Mobile Pt. Station

Ft. Morgan

Gulfshores Co: Baldwin AL 36542-

Landholding Agency: DOT

Property Number: 87199120002

Status: Excess

Reason: Floodway

Oil House

USCG Mobile Pt. Station

Ft. Morgan

Gulfshores Co: Baldwin AL 36542-

Landholding Agency: DOT

Property Number: 87199120003

Status: Excess

Reason: Floodway

Garage

USCG Mobile Pt. Station

Ft. Morgan

Gulfshores Co: Baldwin AL 36542-

Landholding Agency: DOT

Property Number: 87199120004

Status: Excess

Reason: Floodway

Shop Building

USCG Mobile Pt. Station

Ft. Morgan

Gulfshores Co: Baldwin AL 36542-

Landholding Agency: DOT

Property Number: 87199120005

Status: Excess

Reason: Floodway

Bldg. 7

VA Medical Center

Tuskegee Co: Macon AL 36083-

Landholding Agency: VA

Property Number: 97199730001

Status: Underutilized

Reason: Secured Area

Bldg. 8

VA Medical Center

Tuskegee Co: Macon AL 36083-

Landholding Agency: VA

Property Number: 97199730002

Status: Underutilized

Reason: Secured Area

Alaska

Bldg. 15532

Elmendorf AFB

Elmendorf AFB Co: AK 99506-

Landholding Agency: Air Force

Property Number: 18200220001

Status: Unutilized

Reasons: Within airport runway clear zone; Secured Area

Bldg. 18

USCG Support Center

Kodiak Co: Kodiak Island AK 99619-5000

Landholding Agency: DOT

Property Number: 87199210132

Status: Excess

Reasons: Within airport runway clear zone; Secured Area

GSA Number : U-ALAS-655A

Boathouse

Coast Guard Station Ketchikan

Ketchikan Co: AK 99901-

Landholding Agency: DOT

Property Number: 87200020001

Status: Unutilized

Reasons: Within 2000 ft. of flammable or explosive material; Secured Area

Bldg. 23

USCG Integrated Support Command

Kodiak Co: Kodiak Island AK 99619-

Landholding Agency: DOT

Property Number: 87200110009

Status: Excess

Reason: Extensive deterioration

Bldg. 25

USCG Integrated Support Command

Kodiak Co: Kodiak Island AK 99619-

Landholding Agency: DOT

Property Number: 87200110010

Status: Excess

Reason: Extensive deterioration

Bldg. 52

Integrated Support Command

Kodiak Co: AK 99615-

Landholding Agency: DOT

Property Number: 87200110012

Status: Unutilized

Reason: Extensive deterioration

Barracks

LORAN Station

Sitkinak Island Co: AK

Landholding Agency: DOT

Property Number: 87200120007

Status: Unutilized

Reasons: Within 2000 ft. of flammable or explosive material; Floodway; Extensive deterioration

Incinerator Bldg.

LORAN Station

Sitkinak Island Co: AK

Landholding Agency: DOT

Property Number: 87200120008

Status: Unutilized

Reasons: Within 2000 ft. of flammable or explosive material; Floodway; Extensive deterioration

Signal/Power Bldg.

LORAN Station

Sitkinak Island Co: AK

Landholding Agency: DOT

Property Number: 87200120009

Status: Unutilized

Reasons: Within 2000 ft. of flammable or explosive material; Floodway; Extensive deterioration

Transmitter Bldg.

LORAN Station

Sitkinak Island Co: AK

Landholding Agency: DOT

Property Number: 87200120010

Status: Unutilized

Reasons: Within 2000 ft. of flammable or explosive material; Floodway; Extensive deterioration

Waste Water Treatment Bldg.

LORAN Station

Sitkinak Island Co: AK

Landholding Agency: DOT

Property Number: 87200120011

Status: Unutilized

Reasons: Within 2000 ft. of flammable or explosive material; Floodway; Extensive deterioration

Bldg. V001

Point Higgins

Ketchikan Co: AK 99901-

Landholding Agency: DOT

Property Number: 87200140001

Status: Excess

Reasons: Secured Area; Extensive deterioration

Bldgs. T003, T004

Point Higgins

Ketchikan Co: AK 99901-

Landholding Agency: DOT

Property Number: 87200140002

Status: Excess

Reasons: Secured Area; Extensive deterioration

Bldg. B001

Point Higgins

Ketchikan Co: AK 99901-

Landholding Agency: DOT

Property Number: 87200140003

Status: Excess

Reasons: Secured Area; Extensive deterioration

Bldg. B002

Point Higgins

Ketchikan Co: AK 99901-

Landholding Agency: DOT

Property Number: 87200140004

Status: Excess

Reasons: Secured Area; Extensive deterioration

Bldg. B003

Point Higgins

Ketchikan Co: AK 99901-

Landholding Agency: DOT

Property Number: 87200140005

Status: Excess

Reasons: Secured Area; Extensive deterioration

Bldg. B004

Point Higgins

Ketchikan Co: AK 99901-

Landholding Agency: DOT

Property Number: 87200140006

Status: Excess

Reason: Secured Area

Bldg. B006

Point Higgins

Ketchikan Co: AK 99901-

Landholding Agency: DOT

Property Number: 87200140007

Status: Excess

Reasons: Secured Area; Extensive deterioration

Bldg. B008

Point Higgins

Ketchikan Co: AK 99901-

Landholding Agency: DOT

Property Number: 87200140008

Status: Excess

Reasons: Secured Area; Extensive deterioration

Bldg. B009

Point Higgins

Ketchikan Co: AK 99901-

Landholding Agency: DOT

Property Number: 87200140009

Status: Excess

Reasons: Secured Area; Extensive deterioration

Bldg. B011

Point Higgins

Ketchikan Co: AK 99901-

Landholding Agency: DOT

Property Number: 87200140010

Status: Excess

Reasons: Secured Area; Extensive deterioration

Bldg. B012

Point Higgins

Ketchikan Co: AK 99901-

Landholding Agency: DOT

Property Number: 87200140011

Status: Excess

Reasons: Secured Area; Extensive deterioration

Bldg. B000

Point Higgins

Ketchikan Co: AK 99901-

Landholding Agency: DOT

Property Number: 87200140012

Status: Excess

Reason: Extensive deterioration

Bldgs. T03, T04, 002

Loran Station

Kodiak Co: Kodiak Island AK 99619-

Landholding Agency: DOT

Property Number: 87200210006

Status: Excess

Reason: Extensive deterioration

Longhouse

U.S. Coast Guard

Valdez Co: AK 99686-

Landholding Agency: DOT

Property Number: 87200220006

Status: Excess

Reason: Extensive deterioration

Arkansas

Dwelling

Bull Shoals Lake/Dry Run Road

Oakland Co: Marion AR 72661-

Landholding Agency: COE

Property Number: 31199820001

Status: Unutilized

Reason: Extensive deterioration

Helena Casting Plant

Helena Co: Phillips AR 72342-

Landholding Agency: COE

Property Number: 31200220001

Status: Unutilized

Reason: Extensive deterioration

California

Bldg. 30101

Vandenberg AFB

Vandenberg Co: Santa Barbara CA 93437-

Landholding Agency: Air Force

Property Number: 18200210019

Status: Unutilized

Reason: Secured Area

Bldgs. 30131, 30709

Vandenberg AFB

Vandenberg Co: Santa Barbara CA 93437-

Landholding Agency: Air Force

Property Number: 18200210020

Status: Unutilized

Reason: Secured Area

Bldgs. 30137, 30701

Vandenberg AFB

Vandenberg Co: Santa Barbara CA 93437-

Landholding Agency: Air Force

Property Number: 18200210021

Status: Unutilized

Reason: Secured Area

Bldg. 30235

Vandenberg AFB

Vandenberg Co: Santa Barbara CA 93437-

Landholding Agency: Air Force

Property Number: 18200210022

Status: Unutilized

Reason: Secured Area

Bldgs. 30238, 30446

Vandenberg AFB

Vandenberg Co: Santa Barbara CA

Landholding Agency: Air Force

Property Number: 18200210023

Status: Unutilized

Reason: Secured Area

Bldgs. 30239, 30444

Vandenberg AFB

Vandenberg Co: Santa Barbara CA 93437-

Landholding Agency: Air Force

Property Number: 18200210024

Status: Unutilized

Reason: Secured Area

Bldgs. 30306, 30335, 30782

Vandenberg AFB

Vandenberg Co: Santa Barbara CA 93437-

Landholding Agency: Air Force

Property Number: 18200210025

Status: Unutilized

Reason: Secured Area

Bldgs. 30339, 30340, 30341

Vandenberg AFB

Vandenberg Co: Santa Barbara CA 93437-

Landholding Agency: Air Force

Property Number: 18200210026

Status: Unutilized

Reason: Secured Area

Bldg. 30447

Vandenberg AFB

Vandenberg Co: Santa Barbara CA 93437-

Landholding Agency: Air Force

Property Number: 18200210027

Status: Unutilized

Reason: Secured Area

Bldg. 30524

Vandenberg AFB

Vandenberg Co: Santa Barbara CA 93437-

Landholding Agency: Air Force

Property Number: 18200210028

Status: Unutilized

Reason: Secured Area

Bldg. 30647

Vandenberg AFB

Vandenberg Co: Santa Barbara CA 93437-

Landholding Agency: Air Force

Property Number: 18200210029

Status: Unutilized

Reason: Secured Area

Bldgs. 30710, 30717

Vandenberg AFB

Vandenberg Co: Santa Barbara CA 93437-

Landholding Agency: Air Force

Property Number: 18200210030

Status: Unutilized

Reason: Secured Area

Bldgs. 30718, 30607

Vandenberg AFB

Vandenberg Co: Santa Barbara CA 93437-

Landholding Agency: Air Force

Property Number: 18200210031

Status: Unutilized

Reason: Secured Area

Bldgs. 30722, 30735

Vandenberg AFB

Vandenberg Co: Santa Barbara CA 93437-

Landholding Agency: Air Force

Property Number: 18200210032

Status: Unutilized

Reason: Secured Area

Bldgs. 30775, 30777

Vandenberg AFB

Vandenberg Co: Santa Barbara CA 93437-

Landholding Agency: Air Force

Property Number: 18200210033

Status: Unutilized

Reason: Secured Area

Bldgs. 30830, 30837

Vandenberg AFB

Vandenberg Co: Santa Barbara CA 93437-

Landholding Agency: Air Force

Property Number: 18200210034

Status: Unutilized

Reason: Secured Area

Bldgs. 30839, 30844, 30854

Vandenberg AFB

Vandenberg Co: Santa Barbara CA 93437-

Landholding Agency: Air Force

Property Number: 18200210035

Status: Unutilized

Reason: Secured Area

Soil & Materials Testing Lab

Sausalito Co: CA 00000-

Landholding Agency: COE

Property Number: 31199920002

Status: Excess

Reason: contamination

Bldgs. M03, MO14, MO17

Sandia National Lab

Livermore Co: Alameda CA 94550-

Landholding Agency: Energy

Property Number: 41200220001

Status: Excess

Reason: Extensive deterioration

Bldg. 30147

Naval Air Weapons Station

China Lake Co: CA 93555-6100

Landholding Agency: Navy

Property Number: 77200230033

Status: Excess

Reason: Secured Area

Bldg. 30220

Naval Air Weapons Station

China Lake Co: CA 93555-6100

Landholding Agency: Navy

Property Number: 77200230034

Status: Excess

Reason: Secured Area

Bldg. 30891

Naval Air Weapons Station

China Lake Co: CA 93555-6100

Landholding Agency: Navy

Property Number: 77200230035

Status: Excess

Reason: Secured Area

Bldg. 30932

Naval Air Weapons Station

China Lake Co: CA 93555-6100

Landholding Agency: Navy

Property Number: 77200230036

Status: Excess

Reason: Secured Area

Bldgs. 18412, 18413, 18414

Marine Warfare Training Ctr

Camp Pendleton Co: CA 92055-

Landholding Agency: Navy

Property Number: 77200230040

Status: Excess

Reason: Extensive deterioration

10 Bldgs.

USCG Station Humboldt Bay

Samoa Co: Humboldt CA 95564-9999

Landholding Agency: DOT

Property Number: 87199440027

Status: Excess

Reason: Extensive deterioration

Comment: Land to be relinquished to BLM (Public Domain Land)

Bldg. 30

Coast Guard Group

One Yerba Buena Island

San Francisco Co: CA 94118-

Landholding Agency: DOT

Property Number: 87200210007

Status: Underutilized

Reasons: Within 2000 ft. of flammable or explosive material; Secured Area

Bldg. 40

Coast Guard Group

One Yerba Buena Island

San Francisco Co: CA 94118-

Landholding Agency: DOT

Property Number: 87200210008

Status: Unutilized

Reasons: Within 2000 ft. of flammable or explosive material; Secured Area

Bldg. 75

Coast Guard Group

One Yerba Buena Island

San Francisco Co: CA 94118-

Landholding Agency: DOT

Property Number: 87200210009

Status: Underutilized

Reasons: Within 2000 ft. of flammable or explosive material; Secured Area

Bldg. 270

Coast Guard Group

One Yerba Buena Island

San Francisco Co: CA 94118-

Landholding Agency: DOT

Property Number: 87200210010

Status: Unutilized

Reasons: Within 2000 ft. of flammable or explosive material; Secured Area

Bldg. 391

U.S. Coast Guard

Pacific Strike Team

Novato Co: Marin CA 94934-

Landholding Agency: DOT

Property Number: 87200220005

Status: Underutilized

Reason: Secured Area

Qtrs. D

USCG Pt. Conception

Light Station

Lompoc Co: CA

Landholding Agency: DOT

Property Number: 87200220008

Status: Unutilized

Reason: Extensive deterioration

Qtrs. A&B

USCG Pt. Arguello

LORAN Station

Lompoc Co: CA

Location: Vandenberg AFB

Landholding Agency: DOT

Property Number: 87200220009

Status: Unutilized

Reasons: Secured Area; Extensive deterioration

Garage

USCG Pt. Arguello

LORAN Station

Lompoc Co: CA

Location: Vandenberg AFB

Landholding Agency: DOT

Property Number: 87200220010

Status: Unutilized

Reasons: Secured Area; Extensive deterioration

Qtrs. C&D

USCG Pt. Arguello

LORAN Station

Lompoc Co: CA

Location: Vandenberg AFB

Landholding Agency: DOT

Property Number: 87200220011

Status: Unutilized

Reasons: Secured Area; Extensive deterioration

Transmitter Bldg.

USCG Pt. Arguello

LORAN Station

Lompoc Co: CA

Location: Vandenberg AFB

Landholding Agency: DOT

Property Number: 87200220012

Status: Unutilized

Reasons: Secured Area; Extensive deterioration

Colorado

Bldg. 34

Grand Junction Projects Office

Grand Junction Co: Mesa CO 81503-

Landholding Agency: Energy

Property Number: 41199540001

Status: Underutilized

Reasons: Contamination; Secured Area

Bldg. 35

Grand Junction Projects Office

Grand Junction Co: Mesa CO 81503-

Landholding Agency: Energy

Property Number: 41199540002

Status: Underutilized

Reasons: Contamination; Secured Area

Bldg. 36

Grand Junction Projects Office

Grand Junction Co: Mesa CO 81503-

Landholding Agency: Energy

Property Number: 41199540003

Status: Underutilized

Reasons: Contamination; Secured Area

Bldg. 2

Grand Junction Projects Office

Grand Junction Co: Mesa CO 81503-

Landholding Agency: Energy

Property Number: 41199610039

Status: Unutilized

Reasons: Contamination; Secured Area

Bldg. 7

Grand Junction Projects Office

Grand Junction Co: Mesa CO 81503-

Landholding Agency: Energy

Property Number: 41199610040

Status: Unutilized

Reasons: Contamination; Secured Area

Bldg. 31-A

Grand Junction Projects Office

Grand Junction Co: Mesa CO 81503-

Landholding Agency: Energy

Property Number: 41199610041

Status: Unutilized

Reasons: Contamination; Secured Area

Bldg. 33

Grand Junction Projects Office

Grand Junction Co: Mesa CO 81503-

Landholding Agency: Energy

Property Number: 41199610042

Status: Unutilized

Reasons: Contamination; Secured Area

Bldg. 727

Rocky Flats Environmental Tech Site

Golden Co: Jefferson CO 80020-

Landholding Agency: Energy

Property Number: 41199910001

Status: Unutilized

Reasons: Within 2000 ft. of flammable or explosive material; Secured Area

Bldg. 729

Rocky Flats Environmental Tech Site

Golden Co: Jefferson CO 80020-

Landholding Agency: Energy

Property Number: 41199910002

Status: Unutilized

Reasons: Within 2000 ft. of flammable or explosive material; Secured Area

Bldg. 779

Rocky Flats Environmental Tech Site

Golden Co: Jefferson CO 80020-

Landholding Agency: Energy

Property Number: 41199910003

Status: Unutilized

Reasons: Within 2000 ft. of flammable or explosive material; Secured Area

Bldg. 780

Rocky Flats Environmental Tech Site

Golden Co: Jefferson CO 80020-

Landholding Agency: Energy

Property Number: 41199910004

Status: Unutilized

Reasons: Within 2000 ft. of flammable or explosive material; Secured Area

Bldg. 780A

Rocky Flats Environmental Tech Site

Golden Co: Jefferson CO 80020-

Landholding Agency: Energy

Property Number: 41199910005

Status: Unutilized

Reasons: Within 2000 ft. of flammable or explosive material; Secured Area

Bldg. 780B

Rocky Flats Environmental Tech Site

Golden Co: Jefferson CO 80020-

Landholding Agency: Energy

Property Number: 41199910006

Status: Unutilized

Reasons: Within 2000 ft. of flammable or explosive material; Secured Area

Bldg. 782

Rocky Flats Environmental Tech Site

Golden Co: Jefferson CO 80020-

Landholding Agency: Energy

Property Number: 41199910007

Status: Unutilized

Reasons: Within 2000 ft. of flammable or explosive material; Secured Area

Bldg. 783

Rocky Flats Environmental Tech Site

Golden Co: Jefferson CO 80020-

Landholding Agency: Energy

Property Number: 41199910008

Status: Unutilized

Reasons: Within 2000 ft. of flammable or explosive material; Secured Area

Bldg. 784(A-D)

Rocky Flats Environmental Tech Site

Golden Co: Jefferson CO 80020-

Landholding Agency: Energy

Property Number: 41199910009

Status: Unutilized

Reasons: Within 2000 ft. of flammable or explosive material; Secured Area

Bldg. 785

Rocky Flats Environmental Tech Site

Golden Co: Jefferson CO 80020-

Landholding Agency: Energy

Property Number: 41199910010

Status: Unutilized

Reasons: Within 2000 ft. of flammable or explosive material; Secured Area

Bldg. 786

Rocky Flats Environmental Tech Site

Golden Co: Jefferson CO 80020-

Landholding Agency: Energy

Property Number: 41199910011

Status: Unutilized

Reasons: Within 2000 ft. of flammable or explosive material; Secured Area

Bldg. 787(A-D)

Rocky Flats Environmental Tech Site

Golden Co: Jefferson CO 80020-

Landholding Agency: Energy

Property Number: 41199910012

Status: Unutilized

Reasons: Within 2000 ft. of flammable or explosive material; Secured Area

Bldg. 875

Rocky Flats Environmental Tech Site

Golden Co: Jefferson CO 80020-

Landholding Agency: Energy

Property Number: 41199910013

Status: Unutilized

Reasons: Within 2000 ft. of flammable or explosive material; Secured Area

Bldg. 880

Rocky Flats Environmental Tech Site

Golden Co: Jefferson CO 80020-

Landholding Agency: Energy

Property Number: 41199910014

Status: Unutilized

Reasons: Within 2000 ft. of flammable or explosive material; Secured Area

Bldg. 886

Rocky Flats Environmental Tech Site

Golden Co: Jefferson CO 80020-

Landholding Agency: Energy

Property Number: 41199910015

Status: Unutilized

Reasons: Within 2000 ft. of flammable or explosive material; Secured Area

Bldg. 308A

Rocky Flats Env. Tech. Site

Golden Co: Jefferson CO 80020-

Landholding Agency: Energy

Property Number: 41199910016

Status: Unutilized

Reasons: Within 2000 ft. of flammable or explosive material; Secured Area

Bldg. 788

Rocky Flats Env. Tech. site

Golden Co: Jefferson CO 80020-

Landholding Agency: Energy

Property Number: 41199910017

Status: Underutilized

Reasons: Within 2000 ft. of flammable or explosive material; Secured Area

Bldg. 888

Rocky Flats Environmental Tech. Site

Golden Co: Jefferson CO 80020-

Landholding Agency: Energy

Property Number: 41199930001

Status: Unutilized

Reasons: Within 2000 ft. of flammable or explosive material; Secured Area

Bldg. 714 A/B

Rocky Flats Env. Tech. Site

Golden Co: Jefferson CO 80020-

Landholding Agency: Energy

Property Number: 41199930021

Status: Underutilized

Reasons: Within 2000 ft. of flammable or explosive material; Secured Area

Bldg. 717

Rocky Flats Env. Tech. Site

Golden Co: Jefferson CO 80020-

Landholding Agency: Energy

Property Number: 41199930022

Status: Underutilized

Reasons: Within 2000 ft. of flammable or explosive material; Secured Area

Bldg. 770

Rocky Flats Env. Tech. Site

Golden Co: Jefferson CO 80020-

Landholding Agency: Energy

Property Number: 41199930023

Status: Underutilized

Reasons: Within 2000 ft. of flammable or explosive material; Secured Area

Bldg. 771

Rocky Flats Env. Tech. Site

Golden Co: Jefferson CO 80020-

Landholding Agency: Energy

Property Number: 41199930024

Status: Underutilized

Reasons: Within 2000 ft. of flammable or explosive material; Secured Area

Bldg. 771B

Rocky Flats Env. Tech. Site

Golden Co: Jefferson CO 80020-

Landholding Agency: Energy

Property Number: 41199930025

Status: Underutilized

Reasons: Within 2000 ft. of flammable or explosive material; Secured Area

Bldg. 771C

Rocky Flats Env. Tech. Site

Golden Co: Jefferson CO 80020-

Landholding Agency: Energy

Property Number: 41199930026

Status: Underutilized

Reasons: Within 2000 ft. of flammable or explosive material; Secured Area

Bldg. 772-772A

Rocky Flats Env. Tech. Site

Golden Co: Jefferson CO 80020-

Landholding Agency: Energy

Property Number: 41199930027

Status: Underutilized

Reasons: Within 2000 ft. of flammable or explosive material; Secured Area

Bldg. 773

Rocky Flats Env. Tech. Site

Golden Co: Jefferson CO 80020-

Landholding Agency: Energy

Property Number: 41199930028

Status: Underutilized

Reasons: Within 2000 ft. of flammable or explosive material; Secured Area

Bldg. 774

Rocky Flats Env. Tech. Site

Golden Co: Jefferson CO 80020-

Landholding Agency: Energy

Property Number: 41199930029

Status: Underutilized

Reasons: Within 2000 ft. of flammable or explosive material; Secured Area

Bldg. 776

Rocky Flats Environmental Tech. Site

Golden Co: Jefferson CO 80020-

Landholding Agency: Energy

Property Number: 41200010001

Status: Excess

Reasons: Within 2000 ft. of flammable or explosive material; Secured Area

Bldg. 777

Rocky Flats Environmental Tech. Site

Golden Co: Jefferson CO 80020-

Landholding Agency: Energy

Property Number: 41200010002

Status: Excess

Reasons: Within 2000 ft. of flammable or explosive material; Secured Area

Bldg. 778

Rocky Flats Environmental Tech. Site

Golden Co: Jefferson CO 80020-

Landholding Agency: Energy

Property Number: 41200010003

Status: Excess

Reasons: Within 2000 ft. of flammable or explosive material; Secured Area

Structure 712-712A

Rocky Flats Environmental Tech. Site

Golden Co: Jefferson CO 80020-

Landholding Agency: Energy

Property Number: 41200010004

Status: Excess

Reasons: Within 2000 ft. of flammable or explosive material; Secured Area

Structure 713-713A

Rocky Flats Environmental Tech. Site

Golden Co: Jefferson CO 80020-

Landholding Agency: Energy

Property Number: 41200010005

Status: Excess

Reasons: Within 2000 ft. of flammable or explosive material; Secured Area

Structure 771 TUN

Rocky Flats Environmental Tech. Site

Golden Co: Jefferson CO 80020-

Landholding Agency: Energy

Property Number: 41200010006

Status: Excess

Reasons: Within 2000 ft. of flammable or explosive material; Secured Area

Structure 776A-781

Rocky Flats Environmental Tech. Site

Golden Co: Jefferson CO 80020-

Landholding Agency: Energy

Property Number: 41200010007

Status: Excess

Reasons: Within 2000 ft. of flammable or explosive material; Secured Area

Bldgs. 111, 111B

Rocky Flats Env. Tech. Site

Golden Co: Jefferson CO 80020-

Landholding Agency: Energy

Property Number: 41200030001

Status: Excess

Reasons: Within 2000 ft. of flammable or explosive material; Secured Area

Bldg. 125

Rocky Flats Env. Tech. Site

Golden Co: Jefferson CO 80020-

Landholding Agency: Energy

Property Number: 41200120001

Status: Excess

Reasons: Within 2000 ft. of flammable or explosive material; Secured Area

Bldg. 333

Rocky Flats Env. Tech. Site

Golden Co: Jefferson CO 80020-

Landholding Agency: Energy

Property Number: 41200120002

Status: Excess

Reasons: Within 2000 ft. of flammable or explosive material; Secured Area

Bldg. 762

Rocky Flats Env. Tech. Site

Golden Co: Jefferson CO 80020-

Landholding Agency: Energy

Property Number: 41200120003

Status: Excess

Reasons: Within 2000 ft. of flammable or explosive material; Secured Area

Bldg. 762A

Rocky Flats Env. Tech. Site

Golden Co: Jefferson CO 80020-

Landholding Agency: Energy

Property Number: 41200120004

Status: Excess

Reasons: Within 2000 ft. of flammable or explosive material; Secured Area

Bldg. 792

Rocky Flats Env. Tech. Site

Golden Co: Jefferson CO 80020-

Landholding Agency: Energy

Property Number: 41200120005

Status: Excess

Reasons: Within 2000 ft. of flammable or explosive material; Secured Area

Bldg. 792A

Rocky Flats Env. Tech. Site

Golden Co: Jefferson CO 80020-

Landholding Agency: Energy

Property Number: 41200120006

Status: Excess

Reasons: Within 2000 ft. of flammable or explosive material; Secured Area

Bldgs. 124, 129

Rocky Flats Env. Tech. Site

Golden Co: Jefferson CO 80020-

Landholding Agency: Energy

Property Number: 41200220002

Status: Excess

Reasons: Within 2000 ft. of flammable or explosive material; Secured Area

Bldgs. 371, 374, 374A

Rocky Flats Env. Tech. Site

Golden Co: Jefferson CO 80020-

Landholding Agency: Energy

Property Number: 41200220003

Status: Excess

Reasons: Within 2000 ft. of flammable or explosive material; Secured Area

Bldgs. 376-378, 381

Rocky Flats Env. Tech. Site

Golden Co: Jefferson CO 80020-

Landholding Agency: Energy

Property Number: 41200220004

Status: Excess

Reasons: Within 2000 ft. of flammable or explosive material; Secured Area

Bldgs. 441-443, 452

Rocky Flats Env. Tech. Site

Golden Co: Jefferson CO 80020-

Landholding Agency: Energy

Property Number: 41200220005

Status: Excess

Reasons: Within 2000 ft. of flammable or explosive material; Secured Area

Bldgs. 557, 559

Rocky Flats Env. Tech. Site

Golden Co: Jefferson CO 80020-

Landholding Agency: Energy

Property Number: 41200220006

Status: Excess

Reasons: Within 2000 ft. of flammable or explosive material; Secured Area

Bldgs. 561, 562

Rocky Flats Env. Tech. Site

Golden Co: Jefferson CO 80020-

Landholding Agency: Energy

Property Number: 41200220007

Status: Excess

Reasons: Within 2000 ft. of flammable or explosive material; Secured Area

Bldgs. 564, 566/A, 569

Rocky Flats Env. Tech. Site

Golden Co: Jefferson CO 80020-

Landholding Agency: Energy

Property Number: 41200220008

Status: Excess

Reasons: Within 2000 ft. of flammable or explosive material; Secured Area

Bldgs. 662, 663

Rocky Flats Env. Tech. Site

Golden Co: Jefferson CO 80020-

Landholding Agency: Energy

Property Number: 41200220009

Status: Excess

Reasons: Within 2000 ft. of flammable or explosive material; Secured Area

Bldgs. 666, 681

Rocky Flats Env. Tech. Site

Golden Co: Jefferson CO 80020-

Landholding Agency: Energy

Property Number: 41200220010

Status: Excess

Reasons: Within 2000 ft. of flammable or explosive material; Secured Area

Bldgs. 701, 705-708

Rocky Flats Env. Tech. Site

Golden Co: Jefferson CO 80020-

Landholding Agency: Energy

Property Number: 41200220011

Status: Excess

Reasons: Within 2000 ft. of flammable or explosive material; Secured Area

Bldgs. 714, 715, 718

Rocky Flats Env. Tech. Site

Golden Co: Jefferson CO 80020-

Landholding Agency: Energy

Property Number: 41200220012

Status: Excess

Reasons: Within 2000 ft. of flammable or explosive material; Secured Area

Bldgs. 731, 732

Rocky Flats Env. Tech. Site

Golden Co: Jefferson CO 80020-

Landholding Agency: Energy

Property Number: 41200220013

Status: Excess

Reasons: Within 2000 ft. of flammable or explosive material; Secured Area

Bldgs. 750, 763-765

Rocky Flats Env. Tech. Site

Golden Co: Jefferson CO 80020-

Landholding Agency: Energy

Property Number: 41200220014

Status: Excess

Reasons: Within 2000 ft. of flammable or explosive material; Secured Area

Bldgs. 778, 790

Rocky Flats Env. Tech. Site

Golden Co: Jefferson CO 80020-

Landholding Agency: Energy

Property Number: 41200220015

Status: Excess

Reasons: Within 2000 ft. of flammable or explosive material; Secured Area

Bldgs. 850, 864-865

Rocky Flats Env. Tech. Site

Golden Co: Jefferson CO 80020-

Landholding Agency: Energy

Property Number: 41200220016

Status: Excess

Reasons: Within 2000 ft. of flammable or explosive material; Secured Area

Bldgs. 869, 879

Rocky Flats Env. Tech. Site

Golden Co: Jefferson CO 80020-

Landholding Agency: Energy

Property Number: 41200220017

Status: Excess

Reasons: Within 2000 ft. of flammable or explosive material; Secured Area

Bldgs. 881, 881F, 881H

Rocky Flats Env. Tech. Site

Golden Co: Jefferson CO 80020-

Landholding Agency: Energy

Property Number: 41200220018

Status: Excess

Reasons: Within 2000 ft. of flammable or explosive material; Secured Area

Bldgs. 883-885, 887

Rocky Flats Env. Tech. Site

Golden Co: Jefferson CO 80020-

Landholding Agency: Energy

Property Number: 41200220019

Status: Excess

Reasons: Within 2000 ft. of flammable or explosive material; Secured Area

Bldg. 891

Rocky Flats Env. Tech. Site

Golden Co: Jefferson CO 80020-

Landholding Agency: Energy

Property Number: 41200220020

Status: Excess

Reasons: Within 2000 ft. of flammable or explosive material; Secured Area

Bldgs. 906, 991, 995

Rocky Flats Env. Tech. Site

Golden Co: Jefferson CO 80020-

Landholding Agency: Energy

Property Number: 41200220021

Status: Excess

Reasons: Within 2000 ft. of flammable or explosive material; Secured Area

Alemeda Facility

350 S. Santa Fe Drive

Denver Co: Denver CO 80223-

Landholding Agency: DOT

Property Number: 87199010014

Status: Unutilized

Reason: Other environmental

Comment: contamination

Connecticut

Hezekiah S. Ramsdell Farm

West Thompson Lake

North Grosvenordale Co: Windham CT 06255-9801

Landholding Agency: COE

Property Number: 31199740001

Status: Unutilized

Reasons: Floodway; Extensive deterioration

Bldgs. 25 and 26

Prospect Hill Road

Windsor Co: Hartford CT 06095-

Landholding Agency: Energy

Property Number: 41199440003

Status: Excess

Reason: Secured Area

9 Bldgs.

Knolls Atomic Power Lab, Windsor Site

Windsor Co: Hartford CT 06095-

Landholding Agency: Energy

Property Number: 41199540004

Status: Excess

Reason: Secured Area

Bldg. 8, Windsor Site

Knolls Atomic Power Lab

Windsor Co: Hartford CT 06095-

Landholding Agency: Energy

Property Number: 41199830006

Status: Unutilized

Reason: Extensive deterioration

Falkner Island Light

U.S. Coast Guard

Guilford Co: New Haven CT 06512-

Landholding Agency: DOT

Property Number: 87199240031

Status: Unutilized

Reason: Floodway

Florida

Bldg. 1345

Cape Canaveral AFS

Cape Canaveral Co: Brevard FL 32907-

Landholding Agency: Air Force

Property Number: 18200210016

Status: Unutilized

Reasons: Within 2000 ft. of flammable or explosive material; Secured Area

Bldg. 24451

Cape Canaveral AFS

Cape Canaveral Co: Brevard FL 32907-

Landholding Agency: Air Force

Property Number: 18200210017

Status: Unutilized

Reasons: Within 2000 ft. of flammable or explosive material; Secured Area

Bldg. 55122

Cape Canaveral AFS

Cape Canaveral Co: Brevard FL 32907-

Landholding Agency: Air Force

Property Number: 18200210018

Status: Unutilized

Reasons: Within 2000 ft. of flammable or explosive material; Secured Area

Bldg. #3, Recreation Cottage

USCG Station

Marathon Co: Monroe FL 33050-

Landholding Agency: DOT

Property Number: 87199210008

Status: Unutilized

Reasons: Floodway; Secured Area

Bldg. 103, Trumbo Point

Key West Co: Monroe FL 33040-

Landholding Agency: DOT

Property Number: 87199230001

Status: Unutilized

Reasons: Floodway; Secured Area

Exchange Building

St. Petersburg Co: Pinellas FL 33701-

Landholding Agency: DOT

Property Number: 87199410004

Status: Unutilized

Reason: Floodway

9988 Keepers Quarters A

Cape San Blas

Port St. Joe Co: Gulf FL

Landholding Agency: DOT

Property Number: 87199440009

Status: Underutilized

Reasons: Floodway; Secured Area

9989 Keepers Quarters B

Cape San Blas

Port St. Joe Co: Gulf FL

Landholding Agency: DOT

Property Number: 87199440010

Status: Underutilized

Reasons: Floodway; Secured Area

9990 Bldg.

Cape San Blas

Port St. Joe Co: Gulf FL

Landholding Agency: DOT

Property Number: 87199440011

Status: Underutilized

Reasons: Floodway; Secured Area

9991 Plant Bldg.

Cape San Blas

Port St. Joe Co: Gulf FL

Landholding Agency: DOT

Property Number: 87199440012

Status: Underutilized

Reasons: Floodway; Secured Area

9992 Shop Bldg.

Cape San Blas

Port St. Joe Co: Gulf FL

Landholding Agency: DOT

Property Number: 87199440013

Status: Underutilized

Reasons: Floodway; Secured Area

9993 Admin. Bldg.

Cape San Blas

Port St. Joe Co: Gulf FL

Landholding Agency: DOT

Property Number: 87199440014

Status: Underutilized

Reasons: Floodway; Secured Area

9994 Water Pump Bldg.

Cape San Blas

Port St. Joe Co: Gulf FL

Landholding Agency: DOT

Property Number: 87199440015

Status: Underutilized

Reasons: Floodway; Secured Area

Storage Bldg.

Cape San Blas

Port St. Joe Co: Gulf FL

Landholding Agency: DOT

Property Number: 87199440016

Status: Underutilized

Reasons: Floodway; Secured Area

9999 Storage Bldg.

Cape San Blas

Port St. Joe Co: Gulf FL

Landholding Agency: DOT

Property Number: 87199440017

Status: Underutilized

Reasons: Floodway; Secured Area

3 Bldgs. and Land

Peanut Island Station

Riveria Beach Co: Palm Beach FL 33419-0909

Landholding Agency: DOT

Property Number: 87199510009

Status: Unutilized

Reasons: Floodway; Secured Area

Cape St. George Lighthouse

Co: Franklin FL 32328-

Landholding Agency: DOT

Property Number: 87199640002

Status: Unutilized

Reason: Extensive deterioration

Maint/Carpentry Shop

USCG Station

St. Petersburg Co: Pinellas FL 33701-

Landholding Agency: DOT

Property Number: 87200120001

Status: Excess

Reasons: Secured Area; Extensive deterioration

Georgia

Coast Guard Station

St. Simons Island

Co: Glynn GA 31522-0577

Landholding Agency: DOT

Property Number: 87199540002

Status: Unutilized

Reason: Extensive deterioration

Idaho

Bldg. AFD0070

Albeni Falls Dam

Oldtown Co: Bonner ID 83822-

Landholding Agency: COE

Property Number: 31199910001

Status: Unutilized

Reason: Extensive deterioration

Bldg. PBF-621

Idaho National Engineering Laboratory

Scoville Co: Butte ID 83415-

Landholding Agency: Energy

Property Number: 41199610001

Status: Unutilized

Reason: Secured Area

Bldg. CPP-691

Idaho National Engineering Laboratory

Scoville Co: Butte ID 83415-

Landholding Agency: Energy

Property Number: 41199610003

Status: Unutilized

Reason: Secured Area

Bldg. CPP-625

Idaho National Engineering Laboratory

Scoville Co: Butte ID 83415-

Landholding Agency: Energy

Property Number: 41199610004

Status: Unutilized

Reason: Secured Area

Bldg. CPP-650

Idaho National Engineering Laboratory

Scoville Co: Butte ID 83415-

Landholding Agency: Energy

Property Number: 41199610005

Status: Unutilized

Reason: Secured Area

Bldg. CPP-608

Idaho National Engineering Laboratory

Scoville Co: Butte ID 83415-

Landholding Agency: Energy

Property Number: 41199610006

Status: Unutilized

Reason: Secured Area

Bldg. TAN-660

Idaho National Engineering Laboratory

Scoville Co: Butte ID 83415-

Landholding Agency: Energy

Property Number: 41199610007

Status: Unutilized

Reason: Secured Area

Bldg. TAN-636

Idaho National Engineering Laboratory

Scoville Co: Butte ID 83415-

Landholding Agency: Energy

Property Number: 41199610008

Status: Unutilized

Reason: Secured Area

Bldg. TAN-609

Idaho National Engineering Laboratory

Scoville Co: Butte ID 83415-

Landholding Agency: Energy

Property Number: 41199610009

Status: Unutilized

Reason: Secured Area

Bldg. TAN-670

Idaho National Engineering Laboratory

Scoville Co: Butte ID 83415-

Landholding Agency: Energy

Property Number: 41199610010

Status: Unutilized

Reason: Secured Area

Bldg. TAN-661

Idaho National Engineering Laboratory

Scoville Co: Butte ID 83415-

Landholding Agency: Energy

Property Number: 41199610011

Status: Unutilized

Reason: Secured Area

Bldg. TAN-657

Idaho National Engineering Laboratory

Scoville Co: Butte ID 83415-

Landholding Agency: Energy

Property Number: 41199610012

Status: Unutilized

Reason: Secured Area

Bldg. TRA-669

Idaho National Engineering Laboratory

Scoville Co: Butte ID 83415-

Landholding Agency: Energy

Property Number: 41199610013

Status: Unutilized

Reason: Secured Area

Bldg. TAN-637

Idaho National Engineering Laboratory

Scoville Co: Butte ID 83415-

Landholding Agency: Energy

Property Number: 41199610014

Status: Unutilized

Reason: Secured Area

Bldg. TAN-635

Idaho National Engineering Laboratory

Scoville Co: Butte ID 83415-

Landholding Agency: Energy

Property Number: 41199610015

Status: Unutilized

Reason: Secured Area

Bldg. TAN-638

Idaho National Engineering Laboratory

Scoville Co: Butte ID 83415-

Landholding Agency: Energy

Property Number: 41199610016

Status: Unutilized

Reason: Secured Area

Bldg. TAN-651

Idaho National Engineering Laboratory

Scoville Co: Butte ID 83415-

Landholding Agency: Energy

Property Number: 41199610017

Status: Unutilized

Reason: Secured Area

Bldg. TRA-673

Idaho National Engineering Laboratory

Scoville Co: Butte ID 83415-

Landholding Agency: Energy

Property Number: 41199610018

Status: Unutilized

Reason: Secured Area

Bldg. PBF-620

Idaho National Engineering Laboratory

Scoville Co: Butte ID 83415-

Landholding Agency: Energy

Property Number: 41199610019

Status: Unutilized

Reason: Secured Area

Bldg. PBF-616

Idaho National Engineering Laboratory

Scoville Co: Butte ID 83415-

Landholding Agency: Energy

Property Number: 41199610020

Status: Unutilized

Reason: Secured Area

Bldg. PBF-617

Idaho National Engineering Laboratory

Scoville Co: Butte ID 83415-

Landholding Agency: Energy

Property Number: 41199610021

Status: Unutilized

Reason: Secured Area

Bldg. PBF-619

Idaho National Engineering Laboratory

Scoville Co: Butte ID 83415-

Landholding Agency: Energy

Property Number: 41199610022

Status: Unutilized

Reason: Secured Area

Bldg. PBF-624

Idaho National Engineering Laboratory

Scoville Co: Butte ID 83415-

Landholding Agency: Energy

Property Number: 41199610023

Status: Unutilized

Reason: Secured Area

Bldg. PBF-625

Idaho National Engineering Laboratory

Scoville Co: Butte ID 83415-

Landholding Agency: Energy

Property Number: 41199610024

Status: Unutilized

Reason: Secured Area

Bldg. PBF-629

Idaho National Engineering Laboratory

Scoville Co: Butte ID 83415-

Landholding Agency: Energy

Property Number: 41199610025

Status: Unutilized

Reason: Secured Area

Bldg. PBF-604

Idaho National Engineering Laboratory

Scoville Co: Butte ID 83415-

Landholding Agency: Energy

Property Number: 41199610026

Status: Unutilized

Reason: Secured Area

Bldg. TRA-641

Idaho National Engineering Laboratory

Scoville Co: Butte ID 83415-

Landholding Agency: Energy

Property Number: 41199610034

Status: Unutilized

Reason: Secured Area

Bldg. CF-606

Idaho National Engineering Laboratory

Scoville Co: Butte ID 83415-

Landholding Agency: Energy

Property Number: 41199610037

Status: Unutilized

Reason: Secured Area

TAN 602, 631, 663, 702, 724

Idaho Natl Engineering & Environmental Lab

Test Area North

Scoville Co: Butte ID 83415-

Landholding Agency: Energy

Property Number: 41199830002

Status: Excess

Reasons: Within 2000 ft. of flammable or explosive material; Secured Area; Extensive deterioration

8 Bldgs.

Idaho Natl Engineering & Environmental Lab

Test Reactor North

Scoville Co: Butte ID 83415-

Location: TRA 643, 644, 655, 660, 704-706, 755

Landholding Agency: Energy

Property Number: 41199830003

Status: Excess

Reasons: Within 2000 ft. of flammable or explosive material; Secured Area

Illinois

Calumet Harbor Station

U.S. Coast Guard

Chicago Co: Cook IL

Landholding Agency: DOT

Property Number: 87199310005

Status: Excess

Reason: Secured Area

Indiana

Bldg. 21, VA Medical Center

East 38th Street

Marion Co: Grant IN 46952-

Landholding Agency: VA

Property Number: 97199230001

Status: Excess

Reason: Extensive deterioration

Bldg. 22, VA Medical Center

East 38th Street

Marion Co: Grant IN 46952-

Landholding Agency: VA

Property Number: 97199230002

Status: Excess

Reason: Extensive deterioration

Bldg. 62, VA Medical Center

East 38th Street

Marion Co: Grant IN 46952-

Landholding Agency: VA

Property Number: 97199230003

Status: Excess

Reason: Extensive deterioration

Iowa

Treatment Plant

South Fork Park

Mystic Co: Appanoose IA 52574-

Landholding Agency: COE

Property Number: 31200220002

Status: Excess

Reason: Extensive deterioration

Kansas

No. 01017

Kanopolis Project

Marquette Co: Ellsworth KS 67456-

Landholding Agency: COE

Property Number: 31200210001

Status: Unutilized

Reason: Extensive deterioration

No. 01020

Kanopolis Project

Marquette Co: Ellsworth KS 67456-

Landholding Agency: COE

Property Number: 31200210002

Status: Unutilized

Reason: Extensive deterioration

No. 61001

Kanopolis Project

Marquette Co: Ellsworth KS 67456-

Landholding Agency: COE

Property Number: 31200210003

Status: Unutilized

Reason: Extensive deterioration

Bldg. #1

Kanopolis Project

Marquette Co: Ellsworth KS 67456-

Landholding Agency: COE

Property Number: 31200220003

Status: Excess

Reason: Extensive deterioration

Bldg. #2

Kanopolis Project

Marquette Co: Ellsworth KS 67456-

Landholding Agency: COE

Property Number: 31200220004

Status: Excess

Reason: Extensive deterioration

Bldg. #4

Kanopolis Project

Marquette Co: Ellsworth KS 67456-

Landholding Agency: COE

Property Number: 31200220005

Status: Excess

Reason: Extensive deterioration

Comfort Station

Clinton Lake Project

Lawrence Co: Douglas KS 66049-

Landholding Agency: COE

Property Number: 31200220006

Status: Excess

Reason: Extensive deterioration

Kentucky

Spring House

Kentucky River Lock and Dam No. 1

Highway 320

Carrollton Co: Carroll KY 41008-

Landholding Agency: COE

Property Number: 21199040416

Status: Unutilized

Reason: Spring House

6-Room Dwelling

Green River Lock and Dam No. 3

Rochester Co: Butler KY 42273-

Location: Off State Hwy 369, which runs off of Western Ky. Parkway

Landholding Agency: COE

Property Number: 31199120010

Status: Unutilized

Reason: Floodway

2-Car Garage

Green River Lock and Dam No. 3

Rochester Co: Butler KY 42273-

Location: Off State Hwy 369, which runs off of Western Ky. Parkway

Landholding Agency: COE

Property Number: 31199120011

Status: Unutilized

Reason: Floodway

Office and Warehouse

Green River Lock and Dam No. 3

Rochester Co: Butler KY 42273-

Location: Off State Hwy 369, which runs off of Western Ky. Parkway

Landholding Agency: COE

Property Number: 31199120012

Status: Unutilized

Reason: Floodway

2 Pit Toilets

Green River Lock and Dam No. 3

Rochester Co: Butler KY 42273-

—Landholding Agency: COE

Property Number: 31199120013

Status: Unutilized

Reason: Floodway

Comfort Station

Trace Branch Rec. Site

Buckhorn Lake Co: Leslie KY

Landholding Agency: COE

Property Number: 31200230001

Status: Excess

Reason: Extensive deterioration

Comfort Station

Confluence Rec. Area

Buckhorn Lake Co: Leslie KY

Landholding Agency: COE

Property Number: 31200230002

Status: Excess

Reason: Extensive deterioration

Comfort Station

Tailwater Area

Buckhorn Co: Perry KY

Landholding Agency: COE

Property Number: 31200230003

Status: Excess

Reason: Extensive deterioration

Louisiana

Weeks Island Facility

New Iberia Co: Iberia Parish LA 70560-

Landholding Agency: Energy

Property Number: 41199610038

Status: Underutilized

Reason: Secured Area

Maine

Supply Bldg., Coast Guard

Southwest Harbor

Southwest Harbor Co: Hancock ME 04679-5000

Landholding Agency: DOT

Property Number: 87199240005

Status: Unutilized

Reason: Floodway

Base Exchange, Coast Guard

Southwest Harbor

Southwest Harbor Co: Hancock ME 04679-5000

Landholding Agency: DOT

Property Number: 87199240006

Status: Unutilized

Reason: Floodway

Engineering Shop, Coast Guard

Southwest Harbor

Southwest Harbor Co: Hancock ME 04679-5000

Landholding Agency: DOT

Property Number: 87199240007

Status: Unutilized

Reason: Floodway

Storage Bldg., Coast Guard

Southwest Harbor

Southwest Harbor Co: Hancock ME 04679-5000

Landholding Agency: DOT

Property Number: 87199240008

Status: Unutilized

Reason: Floodway

Squirrel Point Light

U.S. Coast Guard

Phippsburg Co: Sagadahoc ME 04530-

Landholding Agency: DOT

Property Number: 87199240032

Status: Unutilized

Reason: Floodway

Keepers Dwelling

Heron Neck Light, U.S. Coast Guard

Vinalhaven Co: Knox ME 04841-

Landholding Agency: DOT

Property Number: 87199240035

Status: Unutilized

Reason: Extensive deterioration

Fort Popham Light

Phippsburg Co: Sagadahoc ME 04562-

Landholding Agency: DOT

Property Number: 87199320024

Status: Unutilized

Reason: Extensive deterioration

Nash Island Light

U.S. Coast Guard

Addison Co: Washington ME 04606-

—Landholding Agency: DOT

Property Number: 87199420005

Status: Unutilized

Reason: Inaccessible

Bldg.—South Portland Base

U.S. Coast Guard

S. Portland Co: Cumberland ME 04106-

Landholding Agency: DOT

Property Number: 87199420006

Status: Unutilized

Reason: Secured Area

Garage—Boothbay Harbor Stat.

Boothbay Harbor Co: Lincoln ME 04538-

Landholding Agency: DOT

Property Number: 87199430001

Status: Unutilized

Reason: Secured Area

Maryland

Bldg. 149

Naval Air Station

Patuxent River Co: MD

Landholding Agency: Navy

Property Number: 77200230038

Status: Excess

Reason: Extensive deterioration

Bldg. 425

Naval Air Station

Patuxent River Co: MD

Landholding Agency: Navy

Property Number: 77200230039

Status: Excess

Reason: Extensive deterioration

Bldgs. 38-39, 41, 43-46, 56

U.S. Coast Guard Yard

Baltimore MD 21226-

Landholding Agency: DOT

Property Number: 87199540005

Status: Unutilized

Reasons: Within 2000 ft. of flammable or explosive material; Secured Area; Extensive deterioration

Bldg. 53

U.S. Coast Guard Yard

Baltimore MD 21226-

Landholding Agency: DOT

Property Number: 87199540006

Status: Unutilized

Reasons: Within 2000 ft. of flammable or explosive material; Secured Area; Extensive deterioration

Bldg. 6

U.S. Coast Guard Yard, 2401 Hawkins Point Rd.

Baltimore MD 21226-1797

Landholding Agency: DOT

Property Number: 87199620001

Status: Excess

Reasons: Within 2000 ft. of flammable or explosive material; Secured Area

Bldg. 59

U.S. Coast Guard Yard, 2401 Hawkins Point Rd.

Baltimore MD 21226-1797

Landholding Agency: DOT

Property Number: 87199620002

Status: Excess

Reasons: Within 2000 ft. of flammable or explosive material; Secured Area

5 Bldgs.

USCG Yard

#9, 21, 23, 52, 57

Baltimore Co: MD 21226-

Landholding Agency: DOT

Property Number: 87200120002

Status: Unutilized

Reason: Extensive deterioration

Bldg. #81

U.S. Coast Guard Yard

Baltimore Co: Baltimore MD 21226-

Landholding Agency: DOT

Property Number: 87200210001

Status: Underutilized

Reason: Secured Area

Bldg. #85

U.S. Coast Guard Yard

Baltimore Co: Baltimore MD 21226-

Landholding Agency: DOT

Property Number: 87200210002

Status: Underutilized

Reason: Secured Area

Bldg. #86

U.S. Coast Guard Yard

Baltimore Co: Baltimore MD 21226-

Landholding Agency: DOT

Property Number: 87200210003

Status: Underutilized

Reason: Secured Area

Bldg. #86D

U.S. Coast Guard Yard

Baltimore Co: Baltimore MD 21226-

Landholding Agency: DOT

Property Number: 87200210004

Status: Underutilized

Reason: Secured Area

Bldg. #149

U.S. Coast Guard Yard

Baltimore Co: Baltimore MD 21226-

Landholding Agency: DOT

Property Number: 87200210005

Status: Underutilized

Reason: Secured Area

Massachusetts

Bldg. 4, USCG Support Center

Commercial Street

Boston Co: Suffolk MA 02203-

Landholding Agency: DOT

Property Number: 87199240001

Status: Underutilized

Reason: Secured Area

Eastern Point Light

U.S. Coast Guard

Gloucester Co: Essex MA 01930-

Landholding Agency: DOT

Property Number: 87199240029

Status: Unutilized

Reasons: Floodway; Secured Area

Storage Shed

Highland Light

N. Truro Co: Barnstable MA 02652-

Location: DeSoto Johnson KS66018-

Landholding Agency: DOT

Property Number: 87199430004

Status: Unutilized

Reason: Extensive deterioration

Westview Street Wells

Lexington Co: MA 02173-

Landholding Agency: VA

Property Number: 97199920001

Status: Unutilized

Reason: Extensive deterioration

Michigan

Boathouse

Coast Guard Station

East Tawas Co: Iosco MI 48730-

Landholding Agency: DOT

Property Number: 87200040003

Status: Unutilized

Reasons: Secured Area; Extensive deterioration

Storage Shed (OS2)

USCG Station

Port Huron Co: St. Clair MI 48060-

Landholding Agency: DOT

Property Number: 87200110036

Status: Unutilized

Reasons: Floodway; Secured Area

Station Bldg.

USCG Station

Manistee Co: MI 49660-

Landholding Agency: DOT

Property Number: 87200120003

Status: Unutilized

Reasons: Floodway; Secured Area

Garage Bldg.

USCG Station

Manistee Co: MI 49660-

Landholding Agency: DOT

Property Number: 87200120004

Status: Unutilized

Reasons: Floodway; Secured Area

Shed/Pump Bldg.

USCG Station

Manistee Co: MI 49660-

Landholding Agency: DOT

Property Number: 87200120005

Status: Unutilized

Reasons: Floodway; Secured Area

Storage Bldg.

USCG Station

Manistee Co: MI 49660-

Landholding Agency: DOT

Property Number: 87200120006

Status: Unutilized

Reasons: Floodway; Secured Area

Station/boathouse Bldg.

USCG Harbor Beach Station

Harbor Beach Co: Huron MI 48441-

Landholding Agency: DOT

Property Number: 87200130001

Status: Unutilized

Reasons: Floodway; Extensive deterioration

Calfac Building

Keweenaw Peninsula Waterway

Hancock Township Co: Houghton MI

Landholding Agency: DOT

Property Number: 87200140013

Status: Unutilized

Reason: Secured Area;

Storage Bldg.

US Coast Guard Station

Essexville Co: Bay MI 48732-

Landholding Agency: DOT

Property Number: 87200210011

Status: Excess

Reason: Secured Area

Mississippi

Natchez Moorings

82 L.E. Berry Road

Natchez Co: Adams MS 39121-

Landholding Agency: DOT

Property Number: 87199340002

Status: Unutilized

Reason: Extensive deterioration

Bldg. 6, Boiler Plant

Biloxi VA Medical Center

Gulfport Co: Harrison MS 39531-

Landholding Agency: VA

Property Number: 97199410001

Status: Unutilized

Reason: Floodway

Bldg. 67

Biloxi VA Medical Center

Gulfport Co: Harrison MS 39531-

Landholding Agency: VA

Property Number: 97199410008

Status: Unutilized

Reason: Extensive deterioration

Bldg. 68

Biloxi VA Medical Center

Gulfport Co: Harrison MS 39531-

Landholding Agency: VA

Property Number: 97199410009

Status: Unutilized

Reason: Extensive deterioration

Missouri

Rec Office

Harry S. Truman Dam & Reservoir

Osceola Co: St. Clair MO 64776-

Landholding Agency: COE

Property Number: 31200110001

Status: Unutilized

Reason: Extensive deterioration

Privy/Nemo Park

Pomme de Terre Lake

Hermitage Co: MO 65668-

Landholding Agency: COE

Property Number: 31200120001

Status: Excess

Reason: Extensive deterioration

Privy No. 1/Bolivar Park

Pomme de Terre Lake

Hermitage Co: MO 65668-

Landholding Agency: COE

Property Number: 31200120002

Status: Excess

Reason: Extensive deterioration

Privy No. 2/Bolivar Park

Pomme de Terre Lake

Hermitage Co: MO 65668-

Landholding Agency: COE

Property Number: 31200120003

Status: Excess

Reason: Extensive deterioration

#07004, 60006, 60007

Crabtree Cove/Stockton Area

Stockton Co: MO 65785-

Landholding Agency: COE

Property Number: 31200220007

Status: Excess

Reason: Extensive deterioration

Montana

Bldg. 347

Malmstrom AFB

Malmstrom AFB Co: Cascade MT 59402-

Landholding Agency: Air Force

Property Number: 18200220011

Status: Unutilized

Reasons: Within 2000 ft. of flammable or explosive material; Secured Area

Bldg. 3063

Malmstrom AFB

Malmstrom AFB Co: Cascade MT 59402-

Landholding Agency: Air Force

Property Number: 18200220012

Status: Unutilized

Reasons: Within 2000 ft. of flammable or explosive material; Secured Area

Bldg. 3064

Malmstrom AFB

Malmstrom AFB Co: Cascade MT 59402-

Landholding Agency: Air Force

Property Number: 18200220013

Status: Unutilized

Reasons: Within 2000 ft. of flammable or explosive material; Secured Area

Nebraska

Vault Toilets

Harlan County Project

Republican Co: NE 68971-

Landholding Agency: COE

Property Number: 31200210006

Status: Unutilized

Reason: Extensive deterioration

Patterson Treatment Plant

Harlan County Project

Republican Co: NE 68971-

Landholding Agency: COE

Property Number: 31200210007

Status: Unutilized

Reason: Extensive deterioration

#30004

Harlan County Project

Republican Co: Harlan NE 68971-

Landholding Agency: COE

Property Number: 31200220008

Status: Unutilized

Reason: Extensive deterioration

#3005, 3006

Harlan County Project

Republican Co: Harlan NE 68971-

Landholding Agency: COE

Property Number: 31200220009

Status: Unutilized

Reason: Extensive deterioration

New Jersey

Piers and Wharf

Station Sandy Hook

Highlands Co: Monmouth NJ 07732-5000

Landholding Agency: DOT

Property Number: 87199240009

Status: Unutilized

Reasons: Secured Area; Extensive deterioration

Chapel Hill Front Range Light Tower

Middletown Co: Monmouth NJ 07748-

Landholding Agency: DOT

Property Number: 87199440002

Status: Unutilized

Reason: Skeletal tower

Bldg. 103

U.S. Coast Guard Station Sandy Hook

Middleton Co: Monmouth NJ 07737-

Landholding Agency: DOT

Property Number: 87199610002

Status: Unutilized

Reason: Secured Area

Ship Stg. Bldg.

USCG Training Center

Cape May Co: NJ 08204-5002

Landholding Agency: DOT

Property Number: 87200110018

Status: Excess

Reason: Secured Area

Exchange Whse

USCG Training Center

Cape May Co: NJ 08204-5002

Landholding Agency: DOT

Property Number: 87200110019

Status: Excess

Reason: Secured Area

Patrol Boat Bldg.

USCG Training Center

Cape May Co: NJ 08204-5002

Landholding Agency: DOT

Property Number: 87200110020

Status: Excess

Reason: Secured Area

Station Bldg.

USCG Training Center

Cape May Co: NJ 08204-5002

Landholding Agency: DOT

Property Number: 87200110021

Status: Excess

Reason: Secured Area

ANT Bldg.

USCG Training Center

Cape May Co: NJ 08204-5002

Landholding Agency: DOT

Property Number: 87200110022

Status: Excess

Reason: Secured Area

Quarters C

USCG Training Center

Cape May Co: NJ 08204-5002

Landholding Agency: DOT

Property Number: 87200120012

Status: Excess

Reason: Secured Area

Central Heating Plant

USCG Training Center

Cape May Co: NJ 08204-5002

Landholding Agency: DOT

Property Number: 87200120013

Status: Excess

Reason: Secured Area

Hangar/Shop

USCG Training Center

Cape May Co: NJ 08204-5002

Landholding Agency: DOT

Property Number: 87200120014

Status: Excess

Reason: Secured Area

Bldg. 195

U.S. Coast Guard

Cape May Co: NJ 08204-5002

Landholding Agency: DOT

Property Number: 87200220001

Status: Excess

Reason: Secured Area

Bldg. 204

U.S. Coast Guard

Cape May Co: NJ 08204-5002

Landholding Agency: DOT

Property Number: 87200220002

Status: Excess

Reason: Secured Area

Bldg. 208

U.S. Coast Guard

Cape May Co: NJ 08204-5002

Landholding Agency: DOT

Property Number: 87200220003

Status: Excess

Reason: Secured Area

Bldg. 209

U.S. Coast Guard

Cape May Co: NJ 08204-5002

Landholding Agency: DOT

Property Number: 87200220004

Status: Excess

Reason: Secured Area

New Mexico

Bldg. 14170

Cannon AFB

Cannon AFB Co: Curry NM

Landholding Agency: Air Force

Property Number: 18200230010

Status: Unutilized

Reason: Secured Area

Bldg. 14240

Cannon AFB

Cannon AFB Co: NM

Landholding Agency: Air Force

Property Number: 18200230011

Status: Unutilized

Reason: Secured Area

Bldg. 14270

Cannon AFB

Cannon AFB Co: Curry NM

Landholding Agency: Air Force

Property Number: 18200230012

Status: Unutilized

Reason: Secured Area

Bldg. 14330

Cannon AFB

Cannon AFB Co: Curry NM

Landholding Agency: Air Force

Property Number: 18200230013

Status: Unutilized

Reason: Secured Area

Bldg. 14350

Cannon AFB

Cannon AFB Co: Curry NM

Landholding Agency: Air Force

Property Number: 18200230014

Status: Unutilized

Reason: Secured Area

Bldg. 14370

Cannon AFB

Cannon AFB Co: Curry NM

Landholding Agency: Air Force

Property Number: 18200230015

Status: Unutilized

Reason: Secured Area

Bldg. 14390

Cannon AFB

Cannon AFB Co: Curry NM

Landholding Agency: Air Force

Property Number: 18200230016

Status: Unutilized

Reason: Secured Area

Bldgs. 9252, 9268

Kirtland Air Force Base

Albuquerque Co: Bernalillo NM 87185-

Landholding Agency: Energy

Property Number: 41199430002

Status: Unutilized

Reason: Extensive deterioration

Tech Area II

Kirtland Air Force Base

Albuquerque Co: Bernalillo NM 87105-

Landholding Agency: Energy

Property Number: 41199630004

Status: Unutilized

Reasons: Within 2000 ft. of flammable or explosive material; Secured Area; Extensive deterioration

Bldg. 1, TA-33

Los Alamos National Laboratory

Los Alamos NM 87545-

Landholding Agency: Energy

Property Number: 41199810001

Status: Unutilized

Reasons: Secured Area Extensive deterioration

Bldg. 2, TA-33

Los Alamos National Laboratory

Los Alamos NM 87545-

Landholding Agency: Energy

Property Number: 41199810002

Status: Unutilized

Reasons: Secured Area; Extensive deterioration

Bldg. 24, TA-33

Los Alamos National Laboratory

Los Alamos NM 87545-

Landholding Agency: Energy

Property Number: 41199810003

Status: Unutilized

Reasons: Secured Area; Extensive deterioration

Bldg. 26, TA-33

Los Alamos National Laboratory

Los Alamos NM 87545-

Landholding Agency: Energy

Property Number: 41199810004

Status: Unutilized

Reasons: Secured Area; Extensive deterioration

Bldg. 86, TA-33

Los Alamos National Laboratory

Los Alamos NM 87545-

Landholding Agency: Energy

Property Number: 41199810005

Status: Unutilized

Reasons: Secured Area; Extensive deterioration

Bldg. 88, TA-33

Los Alamos National Laboratory

Los Alamos NM 87545-

Landholding Agency: Energy

Property Number: 41199810006

Status: Unutilized

Reasons: Secured Area; Extensive deterioration

Bldg. 89, TA-33

Los Alamos National Laboratory

Los Alamos NM 87545-

Landholding Agency: Energy

Property Number: 41199810007

Status: Unutilized

Reasons: Secured Area; Extensive deterioration

Bldg. 2, TA-21

Los Alamos National Laboratory

Los Alamos NM 87545-

Landholding Agency: Energy

Property Number: 41199810008

Status: Underutilized

Reason: Secured Area

Bldg. 5, TA-21

Los Alamos National Laboratory

Los Alamos NM 87545-

Landholding Agency: Energy

Property Number: 41199810011

Status: Unutilized

Reason: Secured Area

Bldg. 21, TA-21

Los Alamos National Laboratory

Los Alamos NM 87545-

Landholding Agency: Energy

Property Number: 41199810012

Status: Unutilized

Reason: Secured Area

Bldg. 116, TA-21

Los Alamos National Laboratory

Los Alamos NM 87545-

Landholding Agency: Energy

Property Number: 41199810013

Status: Unutilized

Reason: Secured Area

Bldg. 212, TA-21

Los Alamos National Laboratory

Los Alamos NM 87545-

Landholding Agency: Energy

Property Number: 41199810014

Status: Unutilized

Reason: Secured Area

Bldg. 228, TA-21

Los Alamos National Laboratory

Los Alamos NM 87545-

Landholding Agency: Energy

Property Number: 41199810015

Status: Unutilized

Reason: Secured Area

Bldg. 286, TA-21

Los Alamos National Laboratory

Los Alamos NM 87545-

Landholding Agency: Energy

Property Number: 41199810016

Status: Unutilized

Reason: Secured Area

Bldg. 63, TA-16

Los Alamos National Laboratory

Los Alamos NM 87545-

Landholding Agency: Energy

Property Number: 41199810019

Status: Unutilized

Reasons: Within 2000 ft. of flammable or explosive material; Extensive deterioration

Bldg. 515, TA-16

Los Alamos National Laboratory

Los Alamos NM 87545-

Landholding Agency: Energy

Property Number: 41199810020

Status: Unutilized

Reasons: Within 2000 ft. of flammable or explosive material; Secured Area; Extensive deterioration

Bldg. 516, TA-16

Los Alamos National Laboratory

Los Alamos NM 87545-

Landholding Agency: Energy

Property Number: 41199810021

Status: Unutilized

Reasons: Within 2000 ft. of flammable or explosive material; Secured Area; Extensive deterioration

Bldg. 517, TA-16

Los Alamos National Laboratory

Los Alamos NM 87545-

Landholding Agency: Energy

Property Number: 41199810022

Status: Unutilized

Reasons: Within 2000 ft. of flammable or explosive material; Secured Area; Extensive deterioration

Bldg. 518, TA-16

Los Alamos National Laboratory

Los Alamos NM 87545-

Landholding Agency: Energy

Property Number: 41199810023

Status: Unutilized

Reasons: Within 2000 ft. of flammable or explosive material; Secured Area; Extensive deterioration

Bldg. 519, TA-16

Los Alamos National Laboratory

Los Alamos NM 87545-

Landholding Agency: Energy

Property Number: 41199810024

Status: Unutilized

Reasons: Within 2000 ft. of flammable or explosive material; Secured Area; Extensive deterioration

Bldg. 520, TA-16

Los Alamos National Laboratory

Los Alamos NM 87545-

Landholding Agency: Energy

Property Number: 41199810025

Status: Unutilized

Reasons: Within 2000 ft. of flammable or explosive material; Secured Area; Extensive deterioration

Bldg. 18, TA-16

Los Alamos National Lab

Los Alamos NM 87545-

Landholding Agency: Energy

Property Number: 41199840001

Status: Unutilized

Reasons: Secured Area; Extensive deterioration

Bldg. 31

Los Alamos National Lab

Los Alamos Co: NM 87545-

Landholding Agency: Energy

Property Number: 41199930003

Status: Unutilized

Reasons: Secured Area; Extensive deterioration

Bldg. 4, TA-2

Los Alamos National Lab

Los Alamos Co: NM 87545-

Landholding Agency: Energy

Property Number: 41199930004

Status: Unutilized

Reason: Secured Area

Bldg. 50, TA-2

Los Alamos National Lab

Los Alamos Co: NM 87545-

Landholding Agency: Energy

Property Number: 41199930005

Status: Unutilized

Reason: Secured Area

Bldg. 88, TA-2

Los Alamos National Lab

Los Alamos Co: NM 87545-

Landholding Agency: Energy

Property Number: 41199930006

Status: Unutilized

Reason: Secured Area

Bldg. 89, TA-2

Los Alamos National Lab

Los Alamos Co: NM 87545-

Landholding Agency: Energy

Property Number: 41199930007

Status: Unutilized

Reason: Secured Area

Bldg. 21, TA-2

Los Alamos National Lab

Los Alamos Co: NM 87545-

Landholding Agency: Energy

Property Number: 41199940001

Status: Unutilized

Reason: Secured Area

Bldg. 57, TA-2

Los Alamos National Lab

Los Alamos Co: NM 87545-

Landholding Agency: Energy

Property Number: 41199940002

Status: Unutilized

Reason: Secured Area

Bldg. 28, TA-8

Los Alamos National Lab

Los Alamos Co: NM 87545-

Landholding Agency: Energy

Property Number: 41199940003

Status: Unutilized

Reason: Secured Area

Bldg. 38, TA-14

Los Alamos National Lab

Los Alamos Co: NM 87545-

Landholding Agency: Energy

Property Number: 41199940004

Status: Unutilized

Reasons: Secured Area; Extensive deterioration

Bldg. 8, TA-15

Los Alamos National Lab

Los Alamos Co: NM 87545-

Landholding Agency: Energy

Property Number: 41199940005

Status: Unutilized

Reasons: Secured Area; Extensive deterioration

Bldg. 9, TA-15

Los Alamos National Lab

Los Alamos Co: NM 87545-

Landholding Agency: Energy

Property Number: 41199940006

Status: Unutilized

Reason: Secured Area

Bldg. 22, TA-15

Los Alamos National Lab

Los Alamos Co: NM 87545-

Landholding Agency: Energy

Property Number: 41199940007

Status: Unutilized

Reason: Secured Area

Bldg. 141, TA-15

Los Alamos National Lab

Los Alamos Co: NM 87545-

Landholding Agency: Energy

Property Number: 41199940008

Status: Unutilized

Reason: Secured Area

Bldg. 44, TA-15

Los Alamos National Lab

Los Alamos Co: NM 87545-

Landholding Agency: Energy

Property Number: 41199940009

Status: Unutilized

Reason: Secured Area

Bldg. 2, TA-18

Los Alamos National Lab

Los Alamos Co: NM 87545-

Landholding Agency: Energy

Property Number: 41199940010

Status: Unutilized

Reasons: Secured Area; Extensive deterioration

Bldg. 5, TA-18

Los Alamos National Lab

Los Alamos Co: NM 87545-

Landholding Agency: Energy

Property Number: 41199940011

Status: Unutilized

Reasons: Secured Area; Extensive deterioration

Bldg. 186, TA-18

Los Alamos National Lab

Los Alamos Co: NM 87545-

Landholding Agency: Energy

Property Number: 41199940012

Status: Unutilized

Reasons: Secured Area; Extensive deterioration

Bldg. 188, TA-18

Los Alamos National Lab

Los Alamos Co: NM 87545-

Landholding Agency: Energy

Property Number: 41199940013

Status: Unutilized

Reasons: Secured Area; Extensive deterioration

Bldg. 254, TA-21

Los Alamos National Lab

Los Alamos Co: NM 87545-

Landholding Agency: Energy

Property Number: 41199940014

Status: Unutilized

Reasons: Secured Area; Extensive deterioration

Bldg. 44, TA-36

Los Alamos National Lab

Los Alamos Co: NM 87545-

Landholding Agency: Energy

Property Number: 41199940015

Status: Unutilized

Reasons: Secured Area; Extensive deterioration

Bldg. 45, TA-36

Los Alamos National Lab

Los Alamos Co: NM 87545-

Landholding Agency: Energy

Property Number: 41199940016

Status: Unutilized

Reasons: Secured Area; Extensive deterioration

Bldg. 19, TA-40

Los Alamos National Lab

Los Alamos Co: NM 87545-

Landholding Agency: Energy

Property Number: 41199940017

Status: Unutilized

Reasons: Secured Area; Extensive deterioration

Bldg. 43, TA-40

Los Alamos National Lab

Los Alamos Co: NM 87545-

Landholding Agency: Energy

Property Number: 41199940018

Status: Unutilized

Reasons: Secured Area; Extensive deterioration

Bldg. 258, TA-46

Los Alamos National Lab

Los Alamos Co: NM 87545-

Landholding Agency: Energy

Property Number: 41199940019

Status: Unutilized

Reasons: Secured Area; Extensive deterioration

TA-2, Bldg. 1

Los Alamos National Lab

Los Alamos Co: NM 87545-

Landholding Agency: Energy

Property Number: 41200010008

Status: Unutilized

Reason: Secured Area

TA-2, Bldg. 44

Los Alamos National Lab

Los Alamos Co: NM 87545-

Landholding Agency: Energy

Property Number: 41200010009

Status: Unutilized

Reasons: Secured Area; Extensive deterioration

TA-3, Bldg. 208

Los Alamos National Lab

Los Alamos Co: NM 87545-

Landholding Agency: Energy

Property Number: 41200010010

Status: Unutilized

Reasons: Secured Area; Extensive deterioration

TA-6, Bldg. 1

Los Alamos National Lab

Los Alamos Co: NM 87545-

Landholding Agency: Energy

Property Number: 41200010011

Status: Unutilized

Reasons: Secured Area; Extensive deterioration

TA-6, Bldg. 2

Los Alamos National Lab

Los Alamos Co: NM 87545-

Landholding Agency: Energy

Property Number: 41200010012

Status: Unutilized

Reasons: Secured Area; Extensive deterioration

TA-6, Bldg. 3

Los Alamos National Lab

Los Alamos Co: NM 87545-

Landholding Agency: Energy

Property Number: 41200010013

Status: Unutilized

Reasons: Secured Area; Extensive deterioration

TA-6, Bldg. 5

Los Alamos National Lab

Los Alamos Co: NM 87545-

Landholding Agency: Energy

Property Number: 41200010014

Status: Unutilized

Reasons: Secured Area; Extensive deterioration

TA-6, Bldg. 6

Los Alamos National Lab

Los Alamos Co: NM 87545-

Landholding Agency: Energy

Property Number: 41200010015

Status: Unutilized

Reason: Secured Area

TA-6, Bldg. 7

Los Alamos National Lab

Los Alamos Co: NM 87545-

Landholding Agency: Energy

Property Number: 41200010016

Status: Unutilized

Reason: Secured Area

TA-6, Bldg. 8

Los Alamos National Lab

Los Alamos Co: NM 87545-

Landholding Agency: Energy

Property Number: 41200010017

Status: Unutilized

Reasons: Secured Area; Extensive deterioration

TA-6, Bldg. 9

Los Alamos National Lab

Los Alamos Co: NM 87545-

Landholding Agency: Energy

Property Number: 41200010018

Status: Unutilized

Reason: Secured Area

TA-14, Bldg. 5

Los Alamos National Lab

Los Alamos Co: NM 87545-

Landholding Agency: Energy

Property Number: 41200010019

Status: Unutilized

Reason: Secured Area

TA-21, Bldg. 150

Los Alamos National Lab

Los Alamos Co: NM 87545-

Landholding Agency: Energy

Property Number: 41200010020

Status: Unutilized

Reason: Secured Area

Bldg. 149, TA-21

Los Alamos National Lab

Los Alamos Co: NM 87545-

Landholding Agency: Energy

Property Number: 41200010024

Status: Unutilized

Reason: Secured Area

Bldg. 312, TA-21

Los Alamos National Lab

Los Alamos Co: NM 87545-

Landholding Agency: Energy

Property Number: 41200010025

Status: Unutilized

Reason: Secured Area

Bldg. 313, TA-21

Los Alamos National Lab

Los Alamos Co: NM 87545-

Landholding Agency: Energy

Property Number: 41200010026

Status: Unutilized

Reason: Secured Area

Bldg. 314, TA-21

Los Alamos National Lab

Los Alamos Co: NM 87545-

Landholding Agency: Energy

Property Number: 41200010027

Status: Unutilized

Reason: Secured Area

Bldg. 315, TA-21

Los Alamos National Lab

Los Alamos Co: NM 87545-

Landholding Agency: Energy

Property Number: 41200010028

Status: Unutilized

Reason: Secured Area

Bldg. 1, TA-8

Los Alamos National Lab

Los Alamos Co: NM 87545-

Landholding Agency: Energy

Property Number: 41200010029

Status: Unutilized

Reason: Secured Area

Bldg. 2, TA-8

Los Alamos National Lab

Los Alamos Co: NM 87545-

Landholding Agency: Energy

Property Number: 41200010030

Status: Unutilized

Reasons: Secured Area; Extensive deterioration

Bldg. 3, TA-8

Los Alamos National Lab

Los Alamos Co: NM 87545-

Landholding Agency: Energy

Property Number: 41200020001

Status: Unutilized

Reasons: Secured Area; Extensive deterioration

Bldg. 51, TA-9

Los Alamos National Lab

Los Alamos Co: NM 87545-

Landholding Agency: Energy

Property Number: 41200020002

Status: Unutilized

Reason: Secured Area

Bldg. 30, TA-14

Los Alamos National Lab

Los Alamos Co: NM 87545-

Landholding Agency: Energy

Property Number: 41200020003

Status: Unutilized

Reason: Secured Area

Bldg. 16, TA-3

Los Alamos National Lab

Los Alamos Co: NM 87545-

Landholding Agency: Energy

Property Number: 41200020009

Status: Unutilized

Reason: Secured Area

Bldg. 339, TA-16

Los Alamos National Lab

Los Alamos Co: NM 87545-

Landholding Agency: Energy

Property Number: 41200020010

Status: Unutilized

Reason: Secured Area

Bldg. 340, TA-16

Los Alamos National Lab

Los Alamos Co: NM 87545-

Landholding Agency: Energy

Property Number: 41200020011

Status: Unutilized

Reason: Secured Area

Bldg. 341, TA-16

Los Alamos National Lab

Los Alamos Co: NM 87545-

Landholding Agency: Energy

Property Number: 41200020012

Status: Unutilized

Reason: Secured Area

Bldg. 342, TA-16

Los Alamos National Lab

Los Alamos Co: NM 87545-

Landholding Agency: Energy

Property Number: 41200020013

Status: Unutilized

Reason: Secured Area

Bldg. 343, TA-16

Los Alamos National Lab

Los Alamos Co: NM 87545-

Landholding Agency: Energy

Property Number: 41200020014

Status: Unutilized

Reason: Secured Area

Bldg. 345, TA-16

Los Alamos National Lab

Los Alamos Co: NM 87545-

Landholding Agency: Energy

Property Number: 41200020015

Status: Unutilized

Reason: Secured Area

Bldg. 16, TA-21

Los Alamos National Lab

Los Alamos Co: NM 87545-

Landholding Agency: Energy

Property Number: 41200020016

Status: Unutilized

Reason: Secured Area

Bldg. 48, TA-55

Los Alamos National Lab

Los Alamos Co: NM 87545-

Landholding Agency: Energy

Property Number: 41200020017

Status: Unutilized

Reason: Secured Area

Bldg. 125, TA-55

Los Alamos National Lab

Los Alamos Co: NM 87545-

Landholding Agency: Energy

Property Number: 41200020018

Status: Unutilized

Reason: Secured Area

Bldg. 162, TA-55

Los Alamos National Lab

Los Alamos Co: NM 87545-

Landholding Agency: Energy

Property Number: 41200020019

Status: Unutilized

Reason: Secured Area

Bldg. 22, TA-33

Los Alamos National Lab

Los Alamos Co: NM 87545-

Landholding Agency: Energy

Property Number: 41200020022

Status: Unutilized

Reasons: Secured Area; Extensive deterioration

Bldg. 23, TA-49

Los Alamos National Lab

Los Alamos Co: NM 87545-

Landholding Agency: Energy

Property Number: 41200020023

Status: Unutilized

Reason: Secured Area

Bldg. 37, TA-53

Los Alamos National Lab

Los Alamos Co: NM 87545-

Landholding Agency: Energy

Property Number: 41200020024

Status: Unutilized

Reason: Secured Area

Bldg. 121, TA-49

Los Alamos National Lab

Los Alamos Co: NM 87545-

Landholding Agency: Energy

Property Number: 41200020025

Status: Unutilized

Reason: Secured Area

Bldg. 30, TA-21

Los Alamos National Lab

Los Alamos Co: NM 87545-

Landholding Agency: Energy

Property Number: 41200040001

Status: Unutilized

Reason: Secured Area

Bldg. 152 TA-21

Los Alamos National Lab

Los Alamos Co: NM 87545-

Landholding Agency: Energy

Property Number: 41200040002

Status: Unutilized

Reason: Secured Area

Bldg. 105, TA-3

Los Alamos Natl Lab

Los Alamos Co: NM 87545-

Landholding Agency: Energy

Property Number: 41200120007

Status: Excess

Reason: Secured Area

Bldg. 452, TA-3

Los Alamos Natl Lab

Los Alamos Co: NM 87545-

Landholding Agency: Energy

Property Number: 41200120008

Status: Excess

Reason: Secured Area

q

5 Bldgs.

Kirtland AFB

Sandia Natl Lab

Albuquerque Co: Bernalillo NM 87185-

Location: 9927, 9970, 6730, 6731, 6555

Landholding Agency: Energy

Property Number: 41200210014

Status: Excess

Reason: Extensive deterioration

6 Bldgs.

Kirtland AFB

Sandia Natl Lab

Albuquerque Co: Bernalillo NM 87185-

Location: 6725, 841, 884, 892, 893, 9800

Landholding Agency: Energy

Property Number: 41200210015

Status: Excess

Reason: Extensive deterioration

TA-53, Bldg. 61

Los Alamos National Lab

Los Alamos Co: NM 87545-

Landholding Agency: Energy

Property Number: 41200220023

Status: Unutilized

Reason: Extensive deterioration

TA-53, Bldg. 63

Los Alamos National Lab

Los Alamos Co: NM 87545-

Landholding Agency: Energy

Property Number: 41200220024

Status: Unutilized

Reason: Extensive deterioration

TA-53, Bldg. 65

Los Alamos National Lab

Los Alamos Co: NM 87545-

Landholding Agency: Energy

Property Number: 41200220025

Status: Unutilized

Reason: Extensive deterioration

Bldg. B117

Kirtland Operations

Albuquerque Co: Bernalillo NM 87117-

Landholding Agency: Energy

Property Number: 41200220032

Status: Excess

Reason: Extensive deterioration

Bldg. B118

Kirtland Operations

Albuquerque Co: Bernalillo NM 87117-

Landholding Agency: Energy

Property Number: 41200220033

Status: Excess

Reason: Extensive deterioration

Bldg. B119

Kirtland Operations

Albuquerque Co: Bernalillo NM 87117-

Landholding Agency: Energy

Property Number: 41200220034

Status: Excess

Reason: Extensive deterioration

Bldg. 6721

Kirtland AFB

Albuquerque Co: Bernalillo NM 87185-

Landholding Agency: Energy

Property Number: 41200220042

Status: Unutilized

Reason: Extensive deterioration

New York

6 UG Missle Silos

Youngstown Test Annex

Porter Co: Niagara NY

Landholding Agency: Air Force

Property Number: 18200220003

Status: Unutilized

Reason: Extensive deterioration

Bldg. 100

Youngstown Test Annex

Porter Co: Niagara NY

Landholding Agency: Air Force

Property Number: 18200220004

Status: Unutilized

Reason: Extensive deterioration

Bldg. 101

Youngstown Test Annex

Porter Co: Niagara NY

Landholding Agency: Air Force

Property Number: 18200220005

Status: Unutilized

Reason: Extensive deterioration

Bldg. 104

Youngstown Test Annex

Porter Co: Niagara NY

Landholding Agency: Air Force

Property Number: 18200220006

Status: Unutilized

Reason: Extensive deterioration

Bldg. 107

Youngstown Test Annex

Porter Co: Niagara NY

Landholding Agency: Air Force

Property Number: 18200220007

Status: Unutilized

Reason: Extensive deterioration

Bldg. 109

Youngstown Test Annex

Porter Co: Niagara NY

Landholding Agency: Air Force

Property Number: 18200220008

Status: Unutilized

Reason: Extensive deterioration

Bldg. 116

Youngstown Test Annex

Porter Co: Niagara NY

Landholding Agency: Air Force

Property Number: 18200220009

Status: Unutilized

Reason: Extensive deterioration

Warehouse

Whitney Lake Project

Whitney Point Co: Broome NY 13862-0706

Landholding Agency: COE

Property Number: 31199630007

Status: Unutilized

Reason: Extensive deterioration

2 Buildings

Ant Saugerties

Saugerties Co: Ulster NY 12477-

Landholding Agency: DOT

Property Number: 87199230005

Status: Unutilized

Reason: Extensive deterioration

Bldg. 606, Fort Totten

New York Co: Queens NY 11359-

Landholding Agency: DOT

Property Number: 87199240020

Status: Unutilized

Reason: Secured Area

Bldg. 607, Fort Totten

New York Co: Queens NY 11359-

Landholding Agency: DOT

Property Number: 87199240021

Status: Unutilized

Reasons: Extensive deterioration; Secured Area

Bldg. 605, Fort Totten

New York Co: Queens NY 11359-

Landholding Agency: DOT

Property Number: 87199240022

Status: Unutilized

Reasons: Extensive deterioration; Secured Area

Eatons Neck Station

U.S. Coast Guard

Huntington Co: Suffolk NY 11743-

Landholding Agency: DOT

Property Number: 87199310003

Status: Unutilized

Reasons: Secured Area; Extensive deterioration

Bldg. 517, USCG Support Center

Governors Island Co: Manhattan NY 10004-

Landholding Agency: DOT

Property Number: 87199320025

Status: Unutilized

Reason: Secured Area

Bldg. 138

U.S. Coast Guard Support Center

Governors Island Co: Manhattan NY 10004-

Landholding Agency: DOT

Property Number: 87199410003

Status: Unutilized

Reason: Secured Area

Bldg. 830

U.S. Coast Guard

Governors Island Co: Manhattan NY 10004-

Landholding Agency: DOT

Property Number: 87199420004

Status: Unutilized

Reason: Secured Area

Bldg. 8

Rosebank—Coast Guard Housing

Staten Island Co: Richmond NY 10301-

Landholding Agency: DOT

Property Number: 87199530009

Status: Unutilized

Reason: Secured Area

Bldg. 7

Rosebank—Coast Guard Housing

Staten Island Co: Richmond NY 10301-

Landholding Agency: DOT

Property Number: 87199530010

Status: Unutilized

Reasons: Secured Area; Extensive deterioration

Bldg. 222

Fort Wadsworth

Staten Island Co: Richmond NY 10305-

Landholding Agency: DOT

Property Number: 87199620003

Status: Unutilized

Reason: Secured Area

Bldg. 223

Fort Wadsworth

Staten Island Co: Richmond NY 10305-

Landholding Agency: DOT

Property Number: 87199620004

Status: Unutilized

Reason: Secured Area

Bldg. 205

Fort Wadsworth

Staten Island Co: Richmond NY 10305-

Landholding Agency: DOT

Property Number: 87199620005

Status: Unutilized

Reason: Secured Area

Bldg. 9

U.S. Coast Guard—Rosebank

Staten Island Co: Richmond NY 10301-

Landholding Agency: DOT

Property Number: 87199630027

Status: Excess

Reason: Secured Area

Bldg. 10

U.S. Coast Guard—Rosebank

Staten Island Co: Richmond NY 10301-

Landholding Agency: DOT

Property Number: 87199630028

Status: Excess

Reason: Secured Area

Bldg. 206, Rosebank

Staten Island Co: Richmond NY 10301-

Landholding Agency: DOT

Property Number: 87199630029

Status: Excess

Reason: Secured Area

Cottage

Coast Guard Station

Wellesley Island Co: Jefferson NY 13640-

Landholding Agency: DOT

Property Number: 87199940001

Status: Unutilized

Reasons: Secured Area; Extensive deterioration

Bldg. OK1

Coast Guard Station

Alexandria Bay Co: Jefferson NY 13640-

Landholding Agency: DOT

Property Number: 87200210017

Status: Unutilized

Reason: Secured Area

Bldg. OK2

Coast Guard Station

Alexandria Bay Co: Jefferson NY 13640-

Landholding Agency: DOT

Property Number: 87200210018

Status: Unutilized

Reason: Secured Area

Bldg. OK3

Coast Guard Station

Alexandria Bay Co: Jefferson NY 13640-

Landholding Agency: DOT

Property Number: 87200210019

Status: Unutilized

Reason: Secured Area

Bldg. OG1

Coast Guard Station

Alexandria Bay Co: Jefferson NY 13640-

Landholding Agency: DOT

Property Number: 87200210020

Status: Unutilized

Reason: Secured Area

Bldg. OG2

Coast Guard Station

Alexandria Bay Co: Jefferson NY 13640-

Landholding Agency: DOT

Property Number: 87200210021

Status: Unutilized

Reason: Secured Area

North Carolina

Group Cape Hatteras

Boiler Plant

Buxton Co: Dare NC 27902-0604

Landholding Agency: DOT

Property Number: 87199240018

Status: Unutilized

Reason: Secured Area

Group Cape Hatteras

Bowling Alley

Buxton Co: Dare NC 27902-0604

Landholding Agency: DOT

Property Number: 87199240019

Status: Unutilized

Reason: Secured Area

Bldg. 54

Group Cape Hatteras

Buxton Co: Dare NC 27902-0604

Landholding Agency: DOT

Property Number: 87199340004

Status: Unutilized

Reason: Secured Area

Bldg. 83

Group Cape Hatteras

Buxton Co: Dare NC 27902-0604

Landholding Agency: DOT

Property Number: 87199340005

Status: Unutilized

Reason: Secured Area

Water Tanks

Group Cape Hatteras

Buxton Co: Dare NC 27902-0604

Landholding Agency: DOT

Property Number: 87199340006

Status: Unutilized

Reason: Secured Area

USCG Gentian (WLB 290)

Fort Macon State Park

Atlantic Beach Co: Carteret NC 27601-

Landholding Agency: DOT

Property Number: 87199420007

Status: Excess

Reason: Secured Area

Unit #71

Buxton Annex, Cape Kendrick Circle

Buxton Co: Dare NC 27920-

Landholding Agency: DOT

Property Number: 87199530011

Status: Unutilized

Reason: Floodway

Unit #72

Buxton Annex, Cape Kendrick Circle

Buxton Co: Dare NC 27920-

Landholding Agency: DOT

Property Number: 87199530012

Status: Unutilized

Reason: Floodway

Unit #73

Buxton Annex, Cape Kendrick Circle

Buxton Co: Dare NC 27920-

Landholding Agency: DOT

Property Number: 87199530013

Status: Unutilized

Reason: Floodway

Unit #74

Buxton Annex, Cape Kendrick Circle

Buxton Co: Dare NC 27920-

Landholding Agency: DOT

Property Number: 87199530014

Status: Unutilized

Reason: Floodway

Unit #75

Buxton Annex, Cape Kendrick Circle

Buxton Co: Dare NC 27920-

Landholding Agency: DOT

Property Number: 87199530015

Status: Unutilized

Reason: Floodway

Unit #63

Buxton Annex, Anna May Court

Buxton Co: Dare NC 27920-

Landholding Agency: DOT

Property Number: 87199530016

Status: Unutilized

Reason: Floodway

Unit #64

Buxton Annex, Anna May Court

Buxton Co: Dare NC 27920-

Landholding Agency: DOT

Property Number: 87199530017

Status: Unutilized

Reason: Floodway

Unit #76

Buxton Annex, Anna May Court

Buxton Co: Dare NC 27920-

Landholding Agency: DOT

Property Number: 87199530018

Status: Unutilized

Reason: Floodway

Unit #68

Buxton Annex, Anna May Court

Buxton Co: Dare NC 27920-

Landholding Agency: DOT

Property Number: 87199530019

Status: Unutilized

Reason: Floodway

Unit #69

Buxton Annex, Anna May Court

Buxton Co: Dare NC 27920-

Landholding Agency: DOT

Property Number: 87199530020

Status: Unutilized

Reason: Floodway

Unit #70

Buxton Annex, Anna May Court

Buxton Co: Dare NC 27920-

Landholding Agency: DOT

Property Number: 87199530021

Status: Unutilized

Reason: Floodway

Unit #77

Buxton Annex, Old Lighthouse Road

Buxton Co: Dare NC 27920-

Landholding Agency: DOT

Property Number: 87199530022

Status: Unutilized

Reason: Floodway

Unit #78

Buxton Annex, Old Lighthouse Road

Buxton Co: Dare NC 27920-

Landholding Agency: DOT

Property Number: 87199530023

Status: Unutilized

Reason: Floodway

Bldg. 53

Coast Guard Support Center

Elizabeth City Co: Pasquotank NC 27909-5006

Landholding Agency: DOT

Property Number: 87199630022

Status: Unutilized

Reason: Secured Area

Bldg. OV1 (033)

USCG Cape Hatteras

Buxton Co: Dare NC 27902-0604

Landholding Agency: DOT

Property Number: 87200210012

Status: Underutilized

Reason: Secured Area

Storage Bldg.

USCG Loran Station

Carolina Beach Co: New Hanover NC

Landholding Agency: DOT

Property Number: 87200210013

Status: Underutilized

Reason: Secured Area

MK Shed

USCG Loran Station

Carolina Beach Co: New Hanover NC

Landholding Agency: DOT

Property Number: 87200210014

Status: Underutilized

Reason: Secured Area

Bldg. 9

VA Medical Center 1100 Tunnel Road

Asheville Co: Buncombe NC 28805-

Landholding Agency: VA

Property Number: 97199010008

Status: Unutilized

Reason: Extensive deterioration

Ohio

Bldg. 77

Fernald Environmental Management Project

Fernald Co: Hamilton OH 45013-

Landholding Agency: Energy

Property Number: 41199840003

Status: Excess

Reason: Within 2000 ft. of flammable or explosive material; Secured Area

Bldg. 82A

Fernald Environmental Mgmt Project

Fernald Co: Hamilton OH 45013-

Landholding Agency: Energy

Property Number: 41199910018

Status: Excess

Reason: Within 2000 ft. of flammable or explosive material; Secured Area

Bldg. 16

RMI Environmental Services

Ashtabula Co: OH 44004-

Landholding Agency: Energy

Property Number: 41199930016

Status: Unutilized

Reason: Secured Area

Bldg. 22B

Fernald Env. Mgmt. Proj.

Hamilton Co: OH 45013-9402

Landholding Agency: Energy

Property Number: 41200020026

Status: Unutilized

Reason: Within 2000 ft. of flammable or explosive material; Secured Area

Bldg. 53A

Fernald Env. Mgmt. Project

Fernald Co: Hamilton OH 45013-9402

Landholding Agency: Energy

Property Number: 41200120009

Status: Excess

Reason: Secured Area

Bldg. 8G

Fernald Environmental Mgmt Project

Hamilton Co: OH 45013-

Landholding Agency: Energy

Property Number: 41200210003

Status: Excess

Reason: Secured Area

Bldg. 8H

Fernald Environmental Mgmt Project

Hamilton Co: OH 45013

Landholding Agency: Energy

Property Number: 41200210004

Status: Excess

Reason: Secured Area

Bldg. 94A

Fernald Environmental Mgmt Project

Hamilton Co: OH 45013-

Landholding Agency: Energy

Property Number: 41200210005

Status: Excess

Reason: Secured Area

Bldg. 11

Fernald Env. Mgmt. Proj.

Hamilton Co: OH 45013-

Landholding Agency: Energy

Property Number: 41200220026

Status: Excess

Reason: Secured Area

Bldg. 14A

Fernald Env. Mgmt. Proj

Hamilton Co: OH 45013-

Landholding Agency: Energy

Property Number: 41200220027

Status: Excess

Reason: Secured Area

Bldg. 15A

Fernald Env. Mgmt. Proj.

Hamilton Co: OH 45013-

Landholding Agency: Energy

Property Number: 41200220028

Status: Excess

Reason: Secured Area

Bldg. 15C

Fernald Env. Mgmt. Proj.

Hamilton Co: OH 45013-

Landholding Agency: Energy

Property Number: 41200220029

Status: Excess

Reason: Secured Area

Bldg. 20K

Fernald Env. Mgmt. Proj.

Hamilton Co: OH 45013-

Landholding Agency: Energy

Property Number: 41200220030

Status: Excess

Reason: Secured Area

Bldg. 53B

Fernald Env. Mgmt. Proj.

Hamilton Co: OH 45013-

Landholding Agency: Energy

Property Number: 41200220031

Status: Excess

Reason: Secured Area

Bldg. 116

VA Medical Center

Dayton Co: Montgomery OH 45428-

Landholding Agency: VA

Property Number: 97199920002

Status: Unutilized

Reason: Extensive deterioration

Bldg. 402

VA Medical Center

Dayton Co: Montgomery OH 45428-

Landholding Agency: VA

Property Number: 97199920004

Status: Unutilized

Reason: Extensive deterioration

Bldg. 105

VA Medical Center

Dayton Co: Montgomery OH 45428-

Landholding Agency: VA

Property Number: 97199920005

Status: Unutilized

Reason: Extensive deterioration

Oregon

Bldg. 8

USCG Tongue Point Moorings

Astoria Co: OR 97103-2099

Landholding Agency: DOT

Property Number: 87199910001

Status: Unutilized

Reason: Extensive deterioration

Duplex

Cape Blanco

Sixes Co: Curry OR 97465-

Landholding Agency: DOT

Property Number: 87199940002

Status: Unutilized

Reason: Extensive deterioration

Bldg. 5

Coast Guard Group

Astoria Co: OR 97103-

Landholding Agency: DOT

Property Number: 87200210015

Status: Underutilized

Reason: Secured Area

Pennsylvania

Z-Bldg.

Bettis Atomic Power Lab

West Mifflin Co: Allegheny PA 15122-0109

Landholding Agency: Energy

Property Number: 41199720002

Status: Excess

Reason: Extensive deterioration

Puerto Rico

NAFA Warehouse

U.S. Coast Guard Air Station Borinquen

Aquadilla PR 00604-

Landholding Agency: DOT

Property Number: 87199310011

Status: Unutilized

Reason: Secured Area

Storage Equipment Bldg.

U.S. Coast Guard Air Station Borinquen

Aquadilla PR 00604-

Landholding Agency: DOT

Property Number: 87199330001

Status: Unutilized

Reason: Secured Area

Bldg. 115

U.S. Coast Guard Base

San Juan PR 00902-2029

Landholding Agency: DOT

Property Number: 87199510001

Status: Unutilized

Reason: Secured Area

Bldg. 117

U.S. Coast Guard Base

San Juan PR 00902-2029

Landholding Agency: DOT

Property Number: 87199510002

Status: Unutilized

Reason: Secured Area

Bldg. 118

U.S. Coast Guard Base

San Juan PR 00902-2029

Landholding Agency: DOT

Property Number: 87199510003

Status: Unutilized

Reason: Secured Area

Bldg. 119

U.S. Coast Guard Base

San Juan PR 00902-2029

Landholding Agency: DOT

Property Number: 87199510004

Status: Unutilized

Reason: Secured Area

Bldg. 120

U.S. Coast Guard Base

San Juan PR 00902-2029

Landholding Agency: DOT

Property Number: 87199510005

Status: Unutilized

Reason: Secured Area

Bldg. 122

U.S. Coast Guard Base

San Juan PR 00902-2029

Landholding Agency: DOT

Property Number: 87199510006

Status: Unutilized

Reason: Secured Area

Bldg. 128

U.S. Coast Guard Base

San Juan PR 00902-2029

Landholding Agency: DOT

Property Number: 87199510007

Status: Unutilized

Reason: Secured Area

Bldg. 129

U.S. Coast Guard Base

San Juan PR 00902-2029

Landholding Agency: DOT

Property Number: 87199510008

Status: Unutilized

Reason: Secured Area

Rhode Island

Station Point Judith Pier

Narranganset Co: Washington RI 02882-

Landholding Agency: DOT

Property Number: 87199310002

Status: Unutilized

Reason: Extensive deterioration

South Dakota

Mobile Home

Tract L-1295

Oahe Dam

Potter Co: SD 00000-

Landholding Agency: COE

Property Number: 31200030001

Status: Excess

Reason: Extensive deterioration

Tennessee

Bldg. 204

Cordell Hull Lake and Dam Project.

Defeated Creek Recreation Area

Carthage Co: Smith TN 37030-

Location: US Highway 85

Landholding Agency: COE

Property Number: 31199011499

Status: Unutilized

Reason: Floodway

Tract 2618 (Portion)

Cordell Hull Lake and Dam Project

Roaring River Recreation Area

Gainesboro Co: Jackson TN 38562-

Location: TN Highway 135

Landholding Agency: COE

Property Number: 31199011503

Status: Underutilized

Reason: Floodway

Water Treatment Plant

Dale Hollow Lake & Dam Project

Obey River Park, State Hwy 42

Livingston Co: Clay TN 38351-

Landholding Agency: COE

Property Number: 31199140011

Status: Excess

Reason: water treatment plant

Water Treatment Plant

Dale Hollow Lake & Dam Project

Lillydale Recreation Area, State Hwy 53

Livingston Co: Clay TN 38351-

Landholding Agency: COE

Property Number: 31199140012

Status: Excess

Reason: water treatment plant

Water Treatment Plant

Dale Hollow Lake & Dam Project

Willow Grove Recreational Area, Hwy No. 53

Livingston Co: Clay TN 38351-

Landholding Agency: COE

Property Number: 31199140013

Status: Excess

Reason: water treatment plant

Bldg. 3004

Oak Ridge National Lab

Oak Ridge Co: Roane TN 37831-

Landholding Agency: Energy

Property Number: 41199710002

Status: Unutilized

Reasons:

Secured Area; Extensive deterioration

Bldg. 3004

Oak Ridge National Lab

Oak Ridge Co: Roane TN 37831-

Landholding Agency: Energy

Property Number: 41199720001

Status: Excess

Reason: Extensive deterioration

Bldgs. 9714-3, 9714-4, 9983-AY

Y-12 Pistol Range

Oak Ridge Co: Anderson TN 37831-

Landholding Agency: Energy

Property Number: 41199720004

Status: Unutilized

Reason: Secured Area

5 Bldgs.

K-724, K-725, K-1031, K-1131, K-1410

East Tennessee Technology Park

Oak Ridge Co: Roane TN 37831-

Landholding Agency: Energy

Property Number: 41199730001

Status: Unutilized

Reason: Extensive deterioration

Bldg. 9418-1

Y-12 Plant

Oak Ridge Co: Anderson TN 37831-

Landholding Agency: Energy

Property Number: 41199810026

Status: Unutilized

Reasons: Secured Area; Extensive deterioration

Bldg. 9825

Y-12 Plant

Oak Ridge Co: Anderson TN 37831-

Landholding Agency: Energy

Property Number: 41199810027

Status: Unutilized

Reason: Secured Area

Bldg. 3026

Oak Ridge Natl Lab

Oak Ridge Co: Roane TN 37831-

Landholding Agency: Energy

Property Number: 41199830001

Status: Excess

Reasons: Secured Area; Extensive deterioration

Bldg. 3505

Oak Ridge National Lab

Oak Ridge Co: Roane TN 37831-

Landholding Agency: Energy

Property Number: 41199940020

Status: Unutilized

Reasons: Secured Area; Extensive deterioration

9 Bldgs.

E. Tennessee Tech Park

Oak Ridge Co: Roane TN 37831-

Location: K-1001, K-1301, K-1302, K-1303, K-1404, K-1405-6, K-1407, K-1408A, K-1413

Landholding Agency: Energy

Property Number: 41200010023

Status: Unutilized

Reasons: Secured Area; Extensive deterioration

Bldg. 9723-16

National Security Complex

Oak Ridge Co: Anderson TN 37831-

Landholding Agency: Energy

Property Number: 41200120010

Status: Unutilized

Reasons: Secured Area; Extensive deterioration

5 Bldgs.

Oak Ridge National Lab

#7811, 7819, 7833, 7852, 7860

Oak Ridge Co: Roane TN 37831-

Landholding Agency: Energy

Property Number: 41200130001

Status: Unutilized

Reasons: contamination; Secured Area; Extensive deterioration

Bldg. 81-22

Y-12 National Security Complex

Oak Ridge Co: Anderson TN 37831-

Landholding Agency: Energy

Property Number: 41200140001

Status: Unutilized

Reasons: Secured Area; Extensive deterioration

Bldg. 9409-26

Y-12 National Security Complex

Oak Ridge Co: Anderson TN 37831-

Landholding Agency: Energy

Property Number: 41200140002

Status: Unutilized

Reasons: Secured Area; Extensive deterioration

Bldg. 9723-4

Y-12 National Security Complex

Oak Ridge Co: Anderson TN 37831-

Landholding Agency: Energy

Property Number: 41200140003

Status: Unutilized

Reasons: Secured Area; Extensive deterioration

Bldg. 9733-4

Y-12 National Security Complex

Oak Ridge Co: Anderson TN 37831-

Landholding Agency: Energy

Property Number: 41200140004

Status: Unutilized

Reasons: Secured Area; Extensive deterioration 1

4 Bldgs.

Y-12 National Security Complex

#9929-1, 9823, 9827 & shed

Oak Ridge Co: Anderson TN 37831-

Landholding Agency: Energy

Property Number: 41200140005

Status: Unutilized

Reasons: Secured Area; Extensive deterioration

Bldg. 9949-1

Y-12 National Security Complex

Oak Ridge Co: Anderson TN 37831-

Landholding Agency: Energy

Property Number: 41200140006

Status: Unutilized

Reason: Secured Area

Bldg. 9949-31

Y-12 Natl Security Complex

Oak Ridge Co: Anderson TN 37831-

Landholding Agency: Energy

Property Number: 41200210001

Status: Unutilized

Reason: Secured Area

Bldg. SC-14

ORISE Scarboro Operations Site

Oak Ridge Co: Anderson TN 37831-

Landholding Agency: Energy

Property Number: 41200210002

Status: Excess

Reason: Secured Area

Bldg. 9723-18

Y-12 National Security Complex

Oak Ridge Co: Anderson TN 37831-

Landholding Agency: Energy

Property Number: 41200210006

Status: Unutilized

Reasons: Secured Area; Extensive deterioration

Bldg. 9728

Y-12 National Security Complex

Oak Ridge Co: Anderson TN 37831-

Landholding Agency: Energy

Property Number: 41200210007

Status: Unutilized

Reasons: Secured Area; Extensive deterioration

Bldg. 9404-03

Y-12 Natl Security Complex

Oak Ridge Co: Anderson TN 39831-

Landholding Agency: Energy

Property Number: 41200220035

Status: Unutilized

Reason: Secured Area

Bldg. 9404-07

Y-12 Natl Security Complex

Oak Ridge Co: Anderson TN 37831-

Landholding Agency: Energy

Property Number: 41200220036

Status: Unutilized

Reason: Secured Area

Bldg. 9404-08

Y-12 Natl Security Complex

Oak Ridge Co: Anderson TN 37831-

Landholding Agency: Energy

Property Number: 41200220037

Status: Unutilized

Reason: Secured Area

4 Bldgs.

Y-12 Natl Security Complex

9418-4, 9418-5, 9418-6, 9418-9

Oak Ridge Co: Anderson TN 37831-

Landholding Agency: Energy

Property Number: 41200220038

Status: Unutilized

Reason: Secured Area

Bldg. 9620-2

Y-12 Natl Security Complex

Oak Ridge Co: Anderson TN 37831-

Landholding Agency: Energy

Property Number: 41200220039

Status: Unutilized

Reasons: Secured Area; Extensive deterioration

Bldgs. 9769, 9770-3

Y-12 Natl Security Complex

Oak Ridge Co: Anderson TN 37831-

Landholding Agency: Energy

Property Number: 41200220040

Status: Unutilized

Reason: Secured Area

Bldgs. 9720-1, 9720-2

Y-12 Natl Security Complex

Oak Ridge Co: Anderson TN 37831-

Landholding Agency: Energy

Property Number: 41200220041

Status: Unutilized

Reasons: Secured Area; Extensive deterioration

Bldg. 9723-21

Y-12 Natl Security Complex

Oak Ridge Co: Anderson TN 37831-

Landholding Agency: Energy

Property Number: 41200220043

Status: Unutilized

Reasons: Secured Area; Extensive deterioration

Bldgs. 9205, 9208

Y-12 Natl Security Complex

Oak Ridge Co: Anderson TN 37831-

Landholding Agency: Energy

Property Number: 41200220059

Status: Unutilized

Reasons: Secured Area; Extensive deterioration

Bldgs. 2013, 2506, 6003

Oak Ridge National Lab

Oak Ridge Co: Roane TN 37831-

Landholding Agency: Energy

Property Number: 41200220060

Status: Unutilized

Reasons: Secured Area; Extensive deterioration

Texas

Zone 5, Bldg. FS-18

Pantex Plant

Amarillo Co: Carson TX 79120-

Landholding Agency: Energy

Property Number: 41200220044

Status: Unutilized

Reasons: Within 2000 ft. of flammable or explosive material; Secured Area

Zone 11, Bldg. 11-001

Pantex Plant

Amarillo Co: Carson TX 79120-

Landholding Agency: Energy

Property Number: 41200220045

Status: Unutilized

Reasons: Within 2000 ft. of flammable or explosive material; Secured Area

Zone 11, 3 Bldgs.

11-015, 11-015B, 11-046

Pantex Plant

Amarillo Co: Carson TX 79120-

Landholding Agency: Energy

Property Number: 41200220046

Status: Unutilized

Reasons: Within 2000 ft. of flammable or explosive material; Secured Area

Zone 11, Bldg. 11-041

Pantex Plant

Amarillo Co: Carson TX 79120-

Landholding Agency: Energy

Property Number: 41200220047

Status: Unutilized

Reasons: Within 2000 ft. of flammable or explosive material; Secured Area

Zone 11, Bldg. 11-044

Pantex Plant

Amarillo Co: Carson TX 79120-

Landholding Agency: Energy

Property Number: 41200220048

Status: Unutilized

Reasons: Within 2000 ft. of flammable or explosive material

Secured Area

Zone 12, Bldg. 12-003P

Pantex Plant

Amarillo Co: Carson TX 79120-

Landholding Agency: Energy

Property Number: 41200220049

Status: Unutilized

Reasons: Within 2000 ft. of flammable or explosive material; Secured Area

Zone 12, Bldg. 12-05G1

Pantex Plant

Amarillo Co: Carson TX 79120-

Landholding Agency: Energy

Property Number: 41200220050

Status: Unutilized

Reasons: Within 2000 ft. of flammable or explosive material; Secured Area

Zone 12, 11 Bldgs.

Pantex Plant

Amarillo Co: Carson TX 79120-

Location: 12-010, 12-010V1, 12-010V2, 12-010L, 12-R-010, 12-012, 12-R-012, 12-012V, 12-R-013, 12-R-013RR, 12-13V

Landholding Agency: Energy

Property Number: 41200220051

Status: Unutilized

Reasons: Within 2000 ft. of flammable or explosive material; Secured Area

Zone 12, Bldg. 12-017C

Pantex Plant

Amarillo Co: Carson TX 79120-

Landholding Agency: Energy

Property Number: 41200220052

Status: Unutilized

Reasons: Within 2000 ft. of flammable or explosive material; Secured Area

Zone 12, Bldg. 12-20

Pantex Plant

Amarillo Co: Carson TX 79120-

Landholding Agency: Energy

Property Number: 41200220053

Status: Unutilized

Reasons: Within 2000 ft. of flammable or explosive material; Secured Area

Zone 12, 8 Bldgs.

Pantex Plant

Amarillo Co: Carson TX 79120-

Location: 12-024, 12-024A, 12-02455, 12-025, 12-R-025, 12-030, 12-043, 12-043A

Landholding Agency: Energy

Property Number: 41200220054

Status: Unutilized

Reasons: Within 2000 ft. of flammable or explosive material; Secured Area

Zone 12, Bldg. 12-27

Pantex Plant

Amarillo Co: Carson TX 79120-

Landholding Agency: Energy

Property Number: 41200220055

Status: Unutilized

Reasons: Within 2000 ft. of flammable or explosive material; Secured Area

Zone 12, Bldg. 12-038

Pantex Plant

Amarillo Co: Carson TX 79120-

Landholding Agency: Energy

Property Number: 41200220056

Status: Unutilized

Reasons: Within 2000 ft. of flammable or explosive material; Secured Area

Zone 12, 2 Bldgs.

Pantex Plant

Amarillo Co: Carson TX 79120-

Location: 12-076, 12-076A

Landholding Agency: Energy

Property Number: 41200220057

Status: Unutilized

Reasons: Within 2000 ft. of flammable or explosive material; Secured Area

Zone 13, 6 Bldgs.

Pantex Plant

Amarillo Co: Carson TX 79120-

Location: 13-041, 13-042, 13-043, 13-044, 13-045, 13-046

Landholding Agency: Energy

Property Number: 41200220058

Status: Unutilized

Reasons: Within 2000 ft. of flammable or explosive material; Secured Area

Old Exchange Bldg.

U.S. Coast Guard

Galveston Co: Galveston TX 77553-3001

Landholding Agency: DOT

Property Number: 87199310012

Status: Unutilized

Reason: Secured Area

WPB Building

Station Port Isabel

Coast Guard Station

South Padre Island Co: Cameron TX 78597-6497

Landholding Agency: DOT

Property Number: 87199530002

Status: Unutilized

Reason: Floodway

Aton Shops Building

USCG Station Sabine

Sabine Co: Jefferson TX 77655-

Landholding Agency: DOT

Property Number: 87199530003

Status: Unutilized

Reasons: Within 2000 ft. of flammable or explosive material; Secured Area

WPB Storage Shed

USCG Station Sabine

Sabine Co: Jefferson TX 77655-

Landholding Agency: DOT

Property Number: 87199530004

Status: Unutilized

Reasons: Within 2000 ft. of flammable or explosive material; Secured Area

Flammable Storage Building

USCG Station Sabine

Sabine Co: Jefferson TX 77655-

Landholding Agency: DOT

Property Number: 87199530005

Status: Unutilized

Reasons: Within 2000 ft. of flammable or explosive material; Secured Area

Battery Storage Building

USCG Station Sabine

Sabine Co: Jefferson TX 77655-

Landholding Agency: DOT

Property Number: 87199530006

Status: Unutilized

Reasons: Within 2000 ft. of flammable or explosive material; Secured Area

Boat House

USCG Station Sabine

Sabine Co: Jefferson TX 77655-

Landholding Agency: DOT

Property Number: 87199530007

Status: Unutilized

Reasons: Within 2000 ft. of flammable or explosive material; Secured Area

Small Boat Pier

USCG Station Sabine

Sabine Co: Jefferson TX 77655-

Landholding Agency: DOT

Property Number: 87199530008

Status: Unutilized

Reasons: Within 2000 ft. of flammable or explosive material; Secured Area

Bldg. 108

Fort Crockett/43rd St. Housing

Galveston Co: Galveston TX 77553-

Landholding Agency: DOT

Property Number: 87199630008

Status: Unutilized

Reason: Extensive deterioration

Vermont

Depot Street

Downtown at the Waterfront

Burlington Co: Chittenden VT 05401-5226

Landholding Agency: DOT

Property Number: 87199220003

Status: Excess

Reason: Floodway

Virginia

Bldg. 052 & Tennis Court

USCG Reserve Training Center

Yorktown Co: York VA 23690-

Landholding Agency: DOT

Property Number: 87199230004

Status: Excess

Reason: Secured Area

Admin. Bldg.

Coast Guard, Group Eastern Shores

Chincoteague Co: Accomack VA 23361-510

Landholding Agency: DOT

Property Number: 87199240014

Status: Unutilized

Reason: Secured Area

Little Creek Station

Navamphib Base, West Annex, U.S. Coast Guard

Norfolk Co: Princess Anne VA 23520-

Landholding Agency: DOT

Property Number: 87199310004

Status: Unutilized

Reason: Secured Area

Operations Bldg.

U.S. Coast Guard Group Hampton Roads

Portsmouth VA 23703-

Landholding Agency: DOT

Property Number: 87199710003

Status: Unutilized

Reason: Secured Area

Bldgs. 63, 115

USCG Training Center

Yorktown Co: York VA 23690-5000

Landholding Agency: DOT

Property Number: 87200110037

Status: Unutilized

Reasons: Within 2000 ft. of flammable or explosive material; Secured Area; Extensive deterioration

Bldg. 156

USCG Training Center Yorktown

Yorktown Co: York VA 23690-5000

Landholding Agency: DOT

Property Number: 87200120015

Status: Underutilized

Reasons: Within 2000 ft. of flammable or explosive material; Secured Area

Bldg. 002

USCG Eastern Shore

Chincoteague Co: Accomak VA 23336—

Landholding Agency: DOT

Property Number: 87200220007

Status: Excess

Reason: Secured Area

Washington

Bldgs. 935, 936, 956, 957

Naval Station

Bremerton Co: WA 98314-5020

Landholding Agency: Navy

Property Number: 77200230041

Status: Excess

Reasons: Within 2000 ft. of flammable or explosive material; Secured Area

Avionics Shop

Coast Guard Air Station

Port Angeles Co: Clallam WA 98362-

Landholding Agency: DOT

Property Number: 87200110023

Status: Unutilized

Reason: Secured Area

Storage Bldg.

Coast Guard Air Station

Port Angeles Co: Clallam WA 98362—

Landholding Agency: DOT

Property Number: 87200110024

Status: Underutilized

Reason: Secured Area

Maint. Work Shop

Coast Guard Air Station

Port Angeles Co: Clallam WA 98362—

Landholding Agency: DOT

Property Number: 87200110025

Status: Underutilized

Reason: Secured Area

Wisconsin

Rawley Point Light

Two Rivers Co: Manitowoc WI

Landholding Agency: DOT

Property Number: 87199540004

Status: Unutilized

Reasons: Secured Area; Extensive deterioration

Land (by State)

Alaska

Russian Creek Aggregate Site

USCG Support Center Kodiak

Kodiak Co: Kodiak AK 99619—

Landholding Agency: DOT

Property Number: 87199440025

Status: Excess

Reason: Floodway

Sargent Creek Aggregate Site

USCG Support Center Kodiak

Kodiak Co: Kodiak AK 99619-

Landholding Agency: DOT

Property Number: 87199440026

Status: Excess

Reason: Floodway

Arizona

58 acres

VA Medical Center 500 Highway 89 North

Prescott Co: Yavapai AZ 86313-

Landholding Agency: VA

Property Number: 97190630001

Status: Unutilized

Reason: Floodway

20 acres

VA Medical Center

500 Highway 89 North

Prescott Co: Yavapai AZ 86313-

Landholding Agency: VA

Property Number: 97190630002

Status: Underutilized

Reason: Floodway

Arkansas

Sandy Beach Rec Area

Camden Co: Ouachita AR 71701-

Landholding Agency: GSA

Property Number: 54200230010

Status: Surplus

Reason: Floodway

GSA Number : 7-D-AR-566

Florida

Land—approx. 220 acres

Cape San Blas

Port St. Joe Co: Gulf FL

Landholding Agency: DOT

Property Number: 87199440018

Status: Underutilized

Reasons: Floodway; Secured Area

Wildlife Sanctuary, VAMC

10,000 Bay Pines Blvd.

Bay Pines Co: Pinellas FL 33504-

Landholding Agency: VA

Property Number: 97199230004

Status: Underutilized

Reason: Inaccessible

Kentucky

Tract 4626

Barkley, Lake, Kentucky and Tennessee

Donaldson Creek Launching Area

Cadiz Co: Trigg KY 42211-

Location: 14 miles from U.S. Highway 68

Landholding Agency: COE

Property Number: 31199010030

Status: Underutilized

Reason: Floodway

Tract AA-2747

Wolf Creek Dam and Lake Cumberland

US HWY. 27 to Blue John Road

Burnside Co: Pulaski KY 42519-

Landholding Agency: COE

Property Number: 31199010038

Status: Underutilized

Reason: Floodway

Tract AA-2726

Wolf Creek Dam and Lake Cumberland

KY HWY. 80 to Route 769

Burnside Co: Pulaski KY 42519-

Landholding Agency: COE

Property Number: 31199010039

Status: Underutilized

Reason: Floodway

Tract 1358

Barkley Lake, Kentucky and Tennessee

Eddyville Recreation Area

Eddyville Co: Lyon KY 42038-

Location: US Highway 62 to state highway 93

Landholding Agency: COE

Property Number: 31199010043

Status: Excess

Reason: Floodway

Red River Lake Project

Stanton Co: Powell KY 40380-

Location: Exit Mr. Parkway at the Stanton and Slade Interchange, then take SR Hand 15 north to SR 613.

Landholding Agency: COE

Property Number: 31199011684

Status: Unutilized

Reason: Floodway

Barren River Lock & Dam No. 1

Richardsville Co: Warren KY 42270-

Landholding Agency: COE

Property Number: 31199120008

Status: Unutilized

Reason: Floodway

Green River Lock & Dam No. 3

Rochester Co: Butler KY 42273-

Location: Off State Hwy. 369, which runs off of Western Ky. Parkway

Landholding Agency: COE

Property Number: 31199120009

Status: Unutilized

Reason: Floodway

Green River Lock & Dam No. 4

Woodbury Co: Butler KY 42288-

Location: Off State Hwy 403, which is off State Hwy 231

Landholding Agency: COE

Property Number: 31199120014

Status: Underutilized

Reason: Floodway

Green River Lock & Dam No. 5

Readville Co: Butler KY 42275-

Location: Off State Highway 185

Landholding Agency: COE

Property Number: 31199120015

Status: Unutilized

Reason: Floodway

Green River Lock & Dam No. 6

Brownsville Co: Edmonson KY 42210-

Location: Off State Highway 259

Landholding Agency: COE

Property Number: 31199120016

Status: Underutilized

Reason: Floodway

Vacant land west of locksite

Greenup Locks and Dam

5121 New Dam Road

Rural Co: Greenup KY 41144-

Landholding Agency: COE

Property Number: 31199120017

Status: Unutilized

Reason: Floodway

Maryland

Tract 131R

Youghiogheny River Lake, Rt. 2, Box 100

Friendsville Co: Garrett MD

Landholding Agency: COE

Property Number: 31199240007

Status: Underutilized

Reason: Floodway

Michigan

Middle Marker Facility

Yipsilanti Co: Washtenaw MI 48198-

Location: 549 ft. north of intersection of Coolidge and Bradley Ave. on East side of street

Landholding Agency: DOT

Property Number: 87199120006

Status: Unutilized

Reason: Within airport runway clear zone

Minnesota

3.85 acres (Area #2)

VA Medical Center 4801 8th Street

St. Cloud Co: Stearns MN 56303-

Landholding Agency: VA

Property Number: 97199740004

Status: Unutilized

Reason: landlocked

7.48 acres (Area #1)

VA Medical Center 4801 8th Street

St. Cloud Co: Stearns MN 56303-Landholding Agency: VA

Property Number: 97199740005

Status: Underutilized

Reason: Secured Area

Mississippi

Parcel 1

Grenada Lake

Section 20

Grenada Co: Grenada MS 38901-0903

Landholding Agency: COE

Property Number: 31199011018

Status: Underutilized

Reason: Within airport runway clear zone

Missouri

Ditch 19, Item 2, Tract No. 230

St. Francis Basin Project

2½ miles west of Malden

Co: Dunklin MO

Landholding Agency: COE

Property Number: 31199130001

Status: Unutilized

Reason: Floodway

New York

Tract 1

VA Medical Center

Bath Co: Steuben NY 14810-

Location: Exit 38 off New York State Route 17

Landholding Agency: VA

Property Number: 97199010011

Status: Unutilized

Reason: Secured Area

Tract 2

VA Medical Center

Bath Co: Steuben NY 14810-

Location: Exit 38 off New York State Route 17

Landholding Agency: VA

Property Number: 97199010012

Status: Underutilized

Reason: Secured Area

Tract 3

VA Medical Center

Bath Co: Steuben NY 14810-

Location: Exit 38 off New York State Route 17

Landholding Agency: VA

Property Number: 97199010013

Status: Underutilized

Reason: Secured Area

Tract 4

VA Medical Center

Bath Co: Steuben NY 14810-

Location: Exit 38 off New York State Route 17

Landholding Agency: VA

Property Number: 97199010014

Status: Unutilized

Reason: Secured Area

Ohio

Mosquito Creek Lake

Everett Hull Road Boat Launch

Cortland Co: Trumbull OH 44410-9321

Landholding Agency: COE

Property Number: 31199440007

Status: Underutilized

Reason: Floodway

Mosquito Creek Lake

Housel—Craft Rd., Boat Launch

Cortland Co: Trumbull OH 44410-9321

Landholding Agency: COE

Property Number: 31199440008

Status: Underutilized

Reason: Floodway

36 Site Campground

German Church Campground

Berlin Center Co: Portage OH 44401-9707

Landholding Agency: COE

Property Number: 31199810001

Status: Unutilized

Reason: Floodway

Pennsylvania

Lock and Dam #7

Monongahela River

Greensboro Co: Greene PA

Location: Left hand side of entrance roadway to project

Landholding Agency: COE

Property Number: 31199011564

Status: Unutilized

Reason: Floodway

Mercer Recreation Area

Shenango Lake

Transfer Co: Mercer PA 16154-

Landholding Agency: COE

Property Number: 31199810002

Status: Unutilized

Reason: Floodway

Tract No. B-212C

Upstream from Gen. Jadwin Dam & Reservoir

Honesdale Co: Wayne PA 18431-Landholding Agency: COE

Property Number: 31200020005

Status: Unutilized

Reason: Floodway

Tennessee

Brooks Bend

Cordell Hull Dam and Reservoir

Highway 85 to Brooks Bend Road

Gainesboro Co: Jackson TN 38562—

Location: Tracts 800, 802-806, 835-837, 900-902, 1000-1003, 1025

Landholding Agency: COE

Property Number: 21199040413

Status: Underutilized

Reason: Floodway

Cheatham Lock and Dam

Highway 12

Ashland City Co: Cheatham TN 37015-

Location: Tracts E-513, E-512-1 and E-512-2

Landholding Agency: COE

Property Number: 21199040415

Status: Underutilized

Reason: Floodway

Tract 6737

Blue Creek Recreation Area

Barkley Lake, Kentucky and Tennessee

Dover Co: Stewart TN 37058-

Location: U.S. Highway 79/TN Highway 761

Landholding Agency: COE

Property Number: 31199011478

Status: Underutilized

Reason: Floodway

Tracts 3102, 3105, and 3106

Brimstone Launching Area

Cordell Hull Lake and Dam Project

Gainesboro Co: Jackson TN 38562-

Location: Big Bottom Road

Landholding Agency: COE

Property Number: 31199011479

Status: Excess

Reason: Floodway

Tract 3507

Proctor Site

Cordell Hull Lake and Dam Project

Celina Co: Clay TN 38551-

Location: TN Highway 52

Landholding Agency: COE

Property Number: 31199011480

Status: Unutilized

Reason: Floodway

Tract 3721

Obey

Cordell Hull Lake and Dam Project

Celina Co: Clay TN 38551-

Location: TN Highway 53

Landholding Agency: COE

Property Number: 31199011481

Status: Unutilized

Reason: Floodway

Tracts 608, 609, 611 and 612

Sullivan Bend Launching Area

Cordell Hull Lake and Dam Project

Carthage Co: Smith TN 37030-

Location: Sullivan Bend Road

Landholding Agency: COE

Property Number: 31199011482

Status: Underutilized

Reason: Floodway

Tract 920

Indian Creek Camping Area

Cordell Hull Lake and Dam Project

Granville Co: Smith TN 38564-

Location: TN Highway 53

Landholding Agency: COE

Property Number: 31199011483

Status: Underutilized

Reason: Floodway

Tracts 1710, 1716 and 1703

Flynns Lick Launching Ramp

Cordell Hull Lake and Dam Project

Gainesboro Co: Jackson TN 38562-

Location: Whites Bend Road

Landholding Agency: COE

Property Number: 31199011484

Status: Underutilized

Reason: Floodway

Tract 1810

Wartrace Creek Launching Ramp

Cordell Hull Lake and Dam Project

Gainesboro Co: Jackson TN 38551-

Location: TN Highway 85

Landholding Agency: COE

Property Number: 31199011485

Status: Underutilized

Reason: Floodway

Tract 2524

Jennings Creek

Cordell Hull Lake and Dam Project

Gainesboro Co: Jackson TN 38562-

Location: TN Highway 85

Landholding Agency: COE

Property Number: 31199011486

Status: Unutilized

Reason: Floodway

Tracts 2905 and 2907

Webster

Cordell Hull Lake and Dam Project

Gainesboro Co: Jackson TN 38551-

Location: Big Bottom Road

Landholding Agency: COE

Property Number: 31199011487

Status: Unutilized

Reason: Floodway

Tracts 2200 and 2201

Gainesboro Airport

Cordell Hull Lake and Dam Project

Gainesboro Co: Jackson TN 38562-

Location: Big Bottom Road

Landholding Agency: COE

Property Number: 31199011488

Status: Underutilized

Reasons: Within airport runway clear zone; Floodway

Tracts 710C and 712C

Sullivan Island

Cordell Hull Lake and Dam Project

Carthage Co: Smith TN 37030-

Location: Sullivan Bend Road

Landholding Agency: COE

Property Number: 31199011489

Status: Unutilized

Reason: Floodway

Tract 2403, Hensley Creek

Cordell Hull Lake and Dam Project

Gainesboro Co: Jackson TN 38562-

Location: TN Highway 85

Landholding Agency: COE

Property Number: 31199011490

Status: Unutilized

Reason: Floodway

Tracts 2117C, 2118 and 2120

Cordell Hull Lake and Dam Project

Trace Creek

Gainesboro Co: Jackson TN 38562-

Location: Brooks Ferry Road

Landholding Agency: COE

Property Number: 31199011491

Status: Unutilized

Reason: Floodway

Tracts 424, 425 and 426

Cordell Hull Lake and Dam Project

Stone Bridge

Carthage Co: Smith TN 37030-

Location: Sullivan Bend Road

Landholding Agency: COE

Property Number: 31199011492

Status: Unutilized

Reason: Floodway

Tract 517

J. Percy Priest Dam and Reservoir

Suggs Creek Embayment

Nashville Co: Davidson TN 37214-

Location: Interstate 40 to S. Mount Juliet Road

Landholding Agency: COE

Property Number: 31199011493

Status: Underutilized

Reason: Floodway

Tract 1811

West Fork Launching Area

Smyrna Co: Rutherford TN 37167-

Location: Florence road near Enon Springs Road

Landholding Agency: COE

Property Number: 31199011494

Status: Underutilized

Reason: Floodway

Tract 1504

J. Perry Priest Dam and Reservoir

Lamon Hill Recreation Area

Smyrna Co: Rutherford TN 37167-

Location: Lamon Road

Landholding Agency: COE

Property Number: 31199011495

Status: Underutilized

Reason: Floodway

Tract 1500

J. Perry Priest Dam and Reservoir

Pools Knob Recreation

Smyrna Co: Rutherford TN 37167-

Location: Jones Mill Road

Landholding Agency: COE

Property Number: 31199011496

Status: Underutilized

Reason: Floodway

Tracts 245, 257, and 256

J. Perry Priest Dam and Reservoir

Cook Recreation Area

Nashville Co: Davidson TN 37214-

Location: 2.2 miles south of Interstate 40 near Saunders Ferry Pike

Landholding Agency: COE

Property Number: 31199011497

Status: Underutilized

Reason: Floodway

Tracts 107, 109 and 110

Cordell Hull Lake and Dam Project

Two Prong

Carthage Co: Smith TN 37030-

Location: US Highway 85

Landholding Agency: COE

Property Number: 31199011498

Status: Unutilized

Reason: Floodway

Tracts 2919 and 2929

Cordell Hull Lake and Dam Project

Sugar Creek

Gainesboro Co: Jackson TN 38562-

Location: Sugar Creek Road

Landholding Agency: COE

Property Number: 31199011500

Status: Unutilized

Reason: Floodway

Tracts 1218 and 1204

Cordell Hull Lake and Dam Project

Granville—Alvin Yourk Road

Granville Co: Jackson TN 38564-

Landholding Agency: COE

Property Number: 31199011501

Status: Unutilized

Reason: Floodway

Tract 2100

Cordell Hull Lake and Dam Project

Galbreaths Branch

Gainesboro Co: Jackson TN 38562-

Location: TN Highway 53

Landholding Agency: COE

Property Number: 31199011502

Status: Unutilized

Reason: Floodway

Tract 104 et al.

Cordell Hull Lake and Dam Project

Horshoe Bend Launching Area

Carthage Co: Smith TN 37030-

Location: Highway 70 N

Landholding Agency: COE

Property Number: 31199011504

Status: Underutilized

Reason: Floodway

Tracts 510, 511, 513 and 514

J. Percy Priest Dam and Reservoir Project

Lebanon Co: Wilson TN 37087-

Location: Vivrett Creek Launching Area, Alvin Sperry Road

Landholding Agency: COE

Property Number: 31199120007

Status: Underutilized

Reason: Floodway

Tract A-142, Old Hickory Beach

Old Hickory Blvd.

Old Hickory Co: Davidson TN 37138-

Landholding Agency: COE

Property Number: 31199130008

Status: Underutilized

Reason: Floodway

Tract D, 7 acres

Cheatham Lock & Dam

Nashville Co: Davidson TN 37207-

Landholding Agency: COE

Property Number: 31200020006

Status: Underutilized

Reason: Floodway

Texas

Tracts 104, 105-1, 105-2 & 118

Joe Pool Lake

Co: Dallas TX

Landholding Agency: COE

Property Number: 31199010397

Status: Underutilized

Reason: Floodway

Part of Tract 201-3

Joe Pool Lake

Co: Dallas TX

Landholding Agency: COE

Property Number: 31199010398

Status: Underutilized

Reason: Floodway

Part of Tract 323

Joe Pool Lake

Co: Dallas TX

Landholding Agency: COE

Property Number: 31199010399

Status: Underutilized

Reason: Floodway

Tract 702-3

Granger Lake

Route 1, Box 172

Granger Co: Williamson TX 76530-9801

Landholding Agency: COE

Property Number: 31199010401

Status: Unutilized

Reason: Floodway

Tract 706

Granger Lake

Route 1, Box 172

Granger Co: Williamson TX 76530-9801

Landholding Agency: COE

Property Number: 31199010402

Status: Unutilized

Reason: Floodway

West Virginia

Morgantown Lock and Dam

Box 3 RD # 2

Morgantown Co: Monongahelia WV 26505-

Landholding Agency: COE

Property Number: 31199011530

Status: Unutilized

Reason: Floodway

London Lock and Dam

Route 60 East

Rural Co: Kanawha WV 25126-

Location: 20 miles east of Charleston, W. Virginia

Landholding Agency: COE

Property Number: 31199011690

Status: Unutilized

Reason: .03 acres; very narrow strip of land

Portion of Tract #101

Buckeye Creek

Sutton Co: Braxton WV 26601-

Landholding Agency: COE

Property Number: 31199810006

Status: Excess

Reason: inaccessible

[FR Doc. 02-21820 Filed 8-29-02; 8:45 am]

BILLING CODE 4210-29-P